DEPARTMENT OF TRANSPORTATION

Federal Motor Carrier Safety Administration

[Docket No. FMCSA-2014-0022]

National Hazardous Materials Route Registry

AGENCY: Federal Motor Carrier Safety Administration (FMCSA), Department of Transportation (DOT).

ACTION: Notice and request for comment.

SUMMARY: This notice provides the updated National Hazardous Materials Route Registry (NHMRR), which is a listing, as reported by State and Tribal Government routing officials, of all designated and restricted road and highway routes for highway route controlled quantities (HRCQ) of Class 7 (radioactive) materials (RAM) (HRCQ/RAM) and non-radioactive hazardous materials (NRHMs) transportation. This notice also provides the limitations for using these routes. FMCSA developed this listing based on information received from State and Tribal Government routing agencies as of January 31, 2014. FMCSA is presenting the updated information with a new route-ordering format and changes to the table structure intended to improve the NHMRR usability for commercial drivers who must transport hazardous materials (HM) in compliance with routing requirements. This notice also provides current information on State and Tribal Government routing agency contacts. This listing supersedes the NHMRR published on December 4, 2000, and FMCSA requests comment on the new route ordering approach, table structure and content, and other related specific route issues from the States of Alaska, California, Colorado, and Texas, and the District of Columbia.

DATES: Effective date: July 14, 2014.

Submit comments on or before September 12, 2014.

ADDRESSES: You may submit your comments through the Federal Docket Management System (FDMS) by any one of the following methods:

• Electronic: You may submit comments electronically through the online FDMS docket Web site at http://www.regulations.gov. This site is the preferred method for receiving comments and submissions. Follow the online instructions for submissions.

• Mail/Hand Delivery: You may submit documents by mail or hand delivery to the Docket Services, U.S. Department of Transportation, West Building Ground Floor, Room W12-140, 1200 New Jersey Ave. SE., Washington, DC 20590, between 9 a.m. and 5 p.m., Monday through Friday, except Federal holidays. The U.S. Department of Transportation will scan the submission and post it to FDMS.

• Fax: You may fax your submissions to 202-493-2251. DOT will scan the submission and post it to FDMS.

To avoid duplication, please use only one of these methods. See the “Public Participation and Request for Comments” portion of the SUPPLEMENTARY INFORMATION section for instructions on submitting comments.

FOR FURTHER INFORMATION CONTACT: Ms. Roxane Greene, (202) 366-0735, Office of Enforcement and Compliance, MC-ECH, Federal Motor Carrier Safety Administration, 1200 New Jersey Ave. SE., Washington, DC 20590. Office hours are from 8:00 a.m. to 5:30 p.m., e.t., Monday through Friday, except for Federal holidays.

SUPPLEMENTARY INFORMATION: This section is organized under the following topics.

I. Public Participation and Request for Comments

II. Legal Basis for this Action

III. Background and Request for Comments

I. Public Participation and Request for Comments

FMCSA encourages stakeholders and members of the public to participate by submitting comments and related materials in response to this notice. All comments received will be posted without change to http://www.regulations.gov and will include personal information you provide. Anyone may access FDMS to submit a comment, or to review and copy all comments and background material received on this notice.

A. Submitting Comments

You may submit your comments and material online or by fax, mail, or hand delivery, but please use only one of these means. FMCSA recommends that you include your name and a mailing address, email address, or phone number in the body of your document so that FMCSA can contact you if there are questions regarding your submission.

To submit your comment online, go to http://www.regulations.gov. In the search box, insert the docket number “FMCSA-2014-0022”, and click the search button. When the new screen appears, click on the blue “Comment Now!” button on the right hand side of the page. A new page will appear—enter the information required, including the specific section of this document to which each comment applies, providing a reason for each suggestion or recommendation. If you submit your comments by mail or hand delivery, submit them in an unbound format, no larger than 8½ by 11 inches, suitable for copying and electronic filing. If you submit comments by mail and would like receipt confirmation, please enclose a stamped, self-addressed postcard or envelope.

We will consider all comments and material received during the comment period.

B. Viewing Comments and Documents

To view comments and any document mentioned in this preamble, go to http://www.regulations.gov. In the search box, insert the docket number “FMCSA-2014-0022” and click “Search.” Next, select “Open Docket Folder” and you will find all documents and comments related to this Notice.

C. Privacy Act

Anyone may search the electronic form of comments received into any of the dockets by the name of the individual submitting the comment (or signing the comment, if submitted on behalf of an association, business, labor union, etc.). You may review DOT's complete Privacy Act Statement for its FDMS (www.regulations.gov) system of records notice in the Federal Register (FR) notice published on January 17, 2008 (73 FR 3316).

II. Legal Basis for this Action

Section 5112 of 49 U.S.C. paragraphs (a)(2) and (b) permit States and Tribal Governments to designate and limit highway routes over which HM may be transported provided the State or Tribal Government complies with standards prescribed by the Secretary of Transportation (the Secretary) and meets publication requirements in section 5112(c). To establish standards under paragraph (b), the Secretary must consult with the States, and, under section 5112(c), coordinate with the States to publish periodically a list of currently effective HM highway routing designations and restrictions. Subpart C of 49 CFR part 397 sets out the procedural requirements States and Tribal Governments must follow to establish, maintain, or enforce routing designations for the transport of placardable quantities of NRHM. In Subpart D, § 397.103 sets out the requirements for designating preferred routes for HRCQ/RAM shipments as an alternative to, or in addition to Interstate System highways. For HRCQ/RAM shipments, a preferred route is defined as an Interstate Highway for which no alternative route is designated by the State; a route specifically designated by the State; or both. There is no similar definition for NRHM routes.

Under a delegation from the Secretary,¹ FMCSA has authority to implement 49 U.S.C. 5112 and 5125(c). Currently, § 397.73 establishes public information and reporting requirements for NRHM,² and requires each State or Tribal Government to furnish information regarding any new or changed routes to FMCSA within 60 days after establishment. Under 49 CFR 397.103, a State routing designation for HRCQ/RAM routes (preferred routes) as an alternative to, or in addition to an Interstate System highway is effective when the authorized routing agency provides FMCSA with written notification, and FMCSA acknowledges receipt in writing. FMCSA's regulations also include other standards and procedures that States and Tribal Governments must follow to establish, maintain, and enforce designations specifying road and highway routes within their jurisdictions over which HRCQ/RAM and NRHM may or may not be transported, and to impose limitations or requirements for transporting these materials over applicable roads and highways. The Office of Management and Budget (OMB) has approved these collections of information under control number 2126-0014, Transportation of Hazardous Materials, Highway Routing.

¹ 49 CFR 1.87(d)(2).

² 49 CFR 397.65 defines NRHM as, “A non-radioactive hazardous material transported by motor vehicle in types and quantities which require placarding, pursuant to Table 1 or 2 of 49 CFR 172.504.”

III. Background and Request for Comment

Having an accurate HM highway route designation listing is critical to public safety. Additionally, carriers must develop written route plans for transporting HRCQ/RAM, and adhere to the written route plan [§§ 397.71 and 397.101(d)].

In 49 CFR part 172, the Pipeline and Hazardous Materials Safety Administration (PHMSA) identifies and lists any chemical or product that is hazardous or that could pose a hazard if released during transportation. PHMSA lists HM in nine Classes, based on the type of substance and hazard, and determines the quantities that require a placard on the vehicle (e.g., truck, railroad car) transporting the substance so that emergency responders can identify the hazard at a distance.

States and Tribal Governments may designate routes for transporting these HM. The States and Tribal Governments may also establish limitations for the use of routes under section 5112 by using the required procedures specified in 49 CFR part 397.

The NHMRR, which provides publicly accessible information concerning mandatory assigned routes for transporting HM shipments (designated routes), and routes over which such shipments may not be transported (restricted routes), was last published on December 4, 2000 (65 FR 75771). That listing included codes to identify each designated route and each route restriction reported by the State. Designation codes identified the routes along which a driver could or must transport specified HM. Among the designation codes is one for “preferred routes,” which is defined in § 397.101(b)(1) ³ and applies to transporting “a highway route controlled quantity of Class 7 (radioactive) materials.” Restriction codes identified the routes along which a driver could not transport specified HM shipments.

³ 49 CFR 397.101(b)(1) defines “preferred route” as, “an Interstate System highway for which an alternative route is not designated by a State routing agency; a State-designated route selected by a State routing agency pursuant to § 397.103; or both.”

The table published in December 2000 included the following Restriction/Designation key.⁴

⁴ The Route/Designation Key table in the December 2000 NHMRR contained an “M-Medical Waste” designation code. Because Medical Waste is not a placardable hazardous material, FMCSA has removed the “M” designation from the table key.

Table 1—Restriction/Designation Key
Restrictions | Designations
0—ALL Hazardous Materials | A—ALL NRHM Hazardous Materials.
1—Class 1—Explosives | B—Class 1—Explosives.
2—Class 2—Gas | I—Poisonous Inhalation Hazard (PIH).
3—Class 3—Flammable | P—*Preferred Route* Class 7—Radioactive.
4—Class 4—Flammable Solid/Combustible
5—Class 5—Organic
6—Class 6—Poison
7—Class 7—Radioactive
8—Class 8—Corrosives
9—Class 9—Dangerous (Other)
i—Poisonous Inhalation Hazard (PIH)

Because route information was organized into various tables, a user might need to look in two different tables to identify all routes restricted for either HRCQ/RAM ⁵ or NRHM. For example, to find all restricted HRCQ/RAM routes, the user first would look under the “Restricted Routes for ALL Hazmats” table, and also under the “RAM Restricted” table, which lists routes where HRCQ/RAM alone are restricted.

⁵ Although not all RAM are HRCQ, a RAM-designated route in the NHMRR is a route for HRCQ HM shipments.

In 2007, FMCSA sponsored analyses of the HM routing system to address requirements of the Implementing Recommendations of the 9/11 Commission Act of 2007.⁶ Among the analyses performed were documenting existing and proposed routes for transporting HRCQ/RAM and NRHM by motor carriers, and developing a framework for using a geographic information system-based approach to characterize routes in NHMRR.⁷

⁶ Public Law 110-53, 121 Stat. 266 (Aug. 3, 2007).

⁷ The Department of Transportation was charged with carrying out this task under section 1553(a)(1) of the Act. For the complete results of this analysis, see The Hazardous Materials Highway Routing Route Plan Guidance Report to Congress, March 2009, FMCSA. See http://www.fmcsa.dot.gov/sites/fmcsa.dot.gov/files/docs/HM-Highway-Routing-Route-Plan-Guidance-Report-and-Appendices-FINAL-March-2009.pdf.

The analysis used a combination of information collected from State contacts and Internet searches to change and update the routing information. In 2008, the Agency posted the updated spreadsheet (2008 spreadsheet) on its Web site as an interim document while it continued a data quality review and outreach to State routing officials to prepare the required updated NHMRR for publication in the Federal Register.⁸

⁸ http://www.fmcsa.dot.gov/sites/fmcsa.dot.gov/files/docs/Hazardous_Materials_Route_Registry_9-28-2009_508.pdf.

Most recently, FMCSA attempted to validate route designations and limitations using the 2008 spreadsheet as the starting point. The Agency then used publicly available information easily obtained through Internet searches (e.g., State maps of HM routes, State lists of HM routes, and State HM regulations), reviewed each route description, and mapped each route. When necessary and where available, the Agency used aerial and street-view images.⁹ Through this process, FMCSA identified the following types of systemic issues:

⁹ Unless readily available information indicated otherwise, this review and analysis did not systematically evaluate if HM route restrictions and designations were complete and accurate, nor whether the designation dates were correct. Generally, FMCSA did not review the original submissions from State routing officials listing the HM route designations and restrictions because these were not available.

• Ambiguous route information regarding route termini;

• Duplicative routes (e.g., separate listing for the same route running North to South and South to North, or separately listing route segments that are part of a single, larger route);

• New or changed road names, exit numbers, or road rerouting;

• Incomplete route restrictions or designations;

• Misidentified city or county;

• Web addresses and telephone numbers for agencies and contacts no longer in service;

• Out of date State HM regulatory references; and

• Typographical errors.

FMCSA then went back to specific States and the District of Columbia to ask additional nonstandardized follow-up questions to clarify responses to one or more of the eight unclear systemic issues in the bulleted list above. FMCSA documented all clarifying responses received from State routing officials regarding the 2008 spreadsheet to report which routes should be removed, updated, or added, and for which routes no clarifying information was available. However, FMCSA was unable to resolve all identified route issues. Therefore, unresolved issues remain with the current listings. Docket FMCSA-2014-0022 includes a spreadsheet for each State that the Agency contacted and documents route changes and other information relevant to this NHMRR update.

This update of the NHMRR is to improve the clarity and functionality of the HM route listings. The HM route tables have been consolidated to reduce the repetition of information. Instead of continuing to separate information on RAM and NRHM restricted routes into separate tables, FMCSA has combined the information into a single table to present all HM route restrictions in a State. As a result, HM route information is presented in not more than three tables as applicable for each State: Restricted HM Routes (defined as prohibited routes for specified classes of HM shipments), Designated HRCQ/RAM Routes (defined as routes for highway route controlled quantities of Class 7 (radioactive) HM shipments), and Designated NRHM Routes (defined as routes for specified classes of non-radioactive HM shipments). In addition to the column headers that appeared in the 2000 NHMRR listing for each HM table, FMCSA has added, when provided by the State, columns for a “City” and/or “County” name.

If FMCSA was unable to resolve any questions about HM routes in a State, the HM table also includes an “FMCSA QA Comment” column. This column alerts users of unresolved quality assurance (QA) issues concerning routing information. The “FMCSA QA Comment” column appears in the HM tables for four States (Alaska, California, Colorado, and Texas) and the District of Columbia. Additional actions by the State routing agency may be necessary to address the identified issues (e.g., revisions to State HM regulations). The Agency will follow up with State routing officials to address these questions for the next NHMRR publication update.

A newly created route-ordering approach has been added to each HM table in a “Route Order” column.¹⁰ Each HM table is sorted by the “Route Order” column and this information should help drivers navigate designated NRHM and HRCQ/RAM routes more easily, while avoiding restricted routes. The “Route Order” information also may assist organizations choosing to code the route information into geographic information system (GIS) data sets. Each entry in the “Route Order” column, at a minimum, includes a capital letter and may contain a combination of capital letters, Arabic numbers, dashes, and decimals that present a “route order character” that identifies the ordering relationship of each HM route in the table. The following table presents the alphanumeric key for understanding route order characters.

¹⁰ The FMCSA route order is presented in all HM tables except for New York, which already established a route order for its NRHM designated routes in Table 79.

Table 2—Route Order Character Naming Approach
Order level | Alphanumeric identifier | Route order character example
1 | A, B, CZ, AA, AB | A.
2 | 1, 2, 3 | A1.
3 | A, B, C | A2A.
4 | 1.0, 2.0, 3.0 | A3A-1.0.
5 | A, B, C | A4A-1.0-A.
6 | 1, 2, 3 | A5A-1.0-A1.
7 | A, B, C | A6A-1.0-A1A.
8 | 1.0, 2.0, 3.0 | A7A-1.0-A1A-1.0.
9 | A, B, C | A8A-1.0-A1A-1.0-A.
10 | 1, 2, 3 | A9A-1.0-A1A-1.0-A1.

For the majority of states, the route order characters generally progress no further than the fourth order level. Alaska, California, Colorado, Illinois, Louisiana, Rhode Island, and Texas have route order characters beyond level four.

The route ordering approach is based on how distinct HM routes connect (each HM route is a separate row in the HM table). An HM route is a single road segment that does not connect (i.e., does not share a terminus) with any other HM route. In this instance, the route order character only will be a capital letter. The route order character for HM routes begins at the first order level with a capital letter identifier (A, B, C, etc.) for each distinct HM route. If there are more than 26 distinct HM routes in a State (as with California and Texas), the first order level for the route order character for the 27th HM route will begin with two capital letters and continue in alphabetical sequence for each new HM route (AA, AB, AC, etc.).

For each HM table for a State, the route order character lettering runs directionally from Southwest to Northeast. For example, if the first letter of a route order character is “A,” the route is the first HM route encountered beginning from the Southwest section and moving across the State. Figure 1 displays an example of this relationship.

BILLING CODE 4910-EX-P

A “continuous route” is a sequence of distinct HM routes that connect at the termini. The individual HM routes will have the same first order level capital letter, with a second order level number added for each new, connecting HM route. In a continuous route, the second order level number increases by one from west to east for each connecting HM route (e.g., A1, A2, A3). Figure 2 displays an example of this relationship.

A “continuous route with junctions” is a sequence of distinct HM routes that connect and intersect or branch. A junction may be an intersection where two HM routes cross; or a branch where a new HM route starts either at the termini of the previous HM route or at a point along the HM route (see A2A or A3A in Figure 3). For a continuous route with junctions, the route order character begins alphabetically with a first order level capital letter, a second order level number, and at each junction, a third order level alphabetical letter. When an HM route (e.g., A1, A2) junctions, each new HM route will have a capital letter as the third element in the route order character and the second order level numeric character increases by one. In Figure 3, A1, A2 and A3 are continuous HM routes (i.e., connect at the termini) and A2A and A3A junction with HM routes A1 and A2 respectively.

If an HM route (e.g., A2A, A2B) junctions a second time, the sequence will include the fourth order level which begins with a hyphen and number followed by a decimal point and a zero; the second order level number increases by one. In Figure 4, the next junction from A2A is A3A-1.0.

If a road segment (e.g., A3A-1.0) junctions a third time the fifth order level begins with a hyphen and an alphabetical letter; the second order level number increases by one. In Figure 5, the next junction from HM route A3A-1.0 is A4A-1.0-A.

The pattern of increasing and alternating sequential numbers, letters, dashes, and decimals continues for each new junction from a road segment. For the three HM tables (Designated NRHM Routes, Designated HRCQ/RAM Routes, and Restricted HM Routes), the route ordering sequence begins anew, with the first HM route originating in the Southwest starting with the letter A. Figures 6, 7 and 8 illustrate the ordering approach for a subset of Designated NRHM Routes in Lorain, Ohio, Columbus, Ohio, and Denver, Colorado. High-resolution images of Figures 6, 7, and 8 also will be available for review in the docket.

Note that the following 14 States have no designated or restricted HM routes in the NHMRR: Connecticut, Hawaii, Kansas, Maine, Mississippi, Missouri, Nevada, New Hampshire, New Jersey, North Carolina, North Dakota, South Carolina, Vermont, and Wisconsin. Note, too, that the NHMRR does not include HM route designations and restrictions applicable to lands under the jurisdiction of Federal entities except for National Parks Service (NPS) lands in Montana and South Dakota. The listing of HM routes on NPS lands is based on information readily available to the FMCSA at the time of publication of this notice and may not be complete.

NPS regulations generally prohibit commercial motor vehicles and traffic in National Parks, including commercial shipments of HM (36 CFR 5.6). However, a park Superintendent may allow commercial motor vehicles in a National Park subject to permits issued by the Superintendent, and to terms and conditions set in those permits. In the case of an HM shipment, if the Superintendent designates a route for HM shipments, the operator of the motor vehicle must apply for the permit under 36 CFR 1.6. The Superintendent will apply criteria in that provision to make a determination whether such a shipment is permissible, identify routes, and set other terms and conditions. Subject to obtaining the proper permit, current NPS regulations provide conditions for HM shipments along specified routes in Yellowstone (36 CFR 7.13) and Badlands (36 CFR 7.23) National Parks. NPS regulations expressly state the operator's obligation to comply with any State or Federal laws and regulations applicable to transportation of HM, including 49 CFR subtitle B (i.e., parts 100 to 1699). HM motor carriers and drivers should consult the Federal authorities with jurisdiction over Federal lands and activities on those lands for route information.

BILLING CODE 4910-EX-P

BILLING CODE 4910-EX-C

FMCSA has made these changes to promote the usefulness of the NHMRR listing for HM drivers, which will facilitate compliance and safety in HM transport by commercial motor vehicle. As previously stated, State HM routing authorities have supplied the information in this NHMRR update. The regulatory process that States must follow for route designations and limitations is provided in 49 CFR part 397. FMCSA is seeking comment regarding the route ordering approach, the reduced number of tables, and the consolidation of route information. We are especially interested in comments from the States of Alaska, California, Colorado, and Texas, and the District of Columbia about the route quality assurance issues identified in the tables as “FMCSA QA Comment” for these States and the District of Columbia. We are also interested in comments concerning whether commercial motor vehicle motor carriers and drivers find this structure easy to comprehend and use, and whether mapping organizations find it facilitates creating geographic information system and other navigational data sets.

Table 3—State: Alabama
State Agency:AL DOT
POC: Randy Braden
Address: 1409 Coliseum Blvd., Montgomery, AL 36130
Phone: (334) 242-6474
Fax: (334) 242-6378
Web Address: www.dot.state.al.us
FMCSA: AL FMCSA Field Office
FMCSA POC: AL Motor Carrier Division Administrator
Address: 520 Cotton Gin Rd., Montgomery, AL 36117
Phone: (334) 209-4954
Fax: (334) 290-4944

Table 4—Alabama—Restricted HM routes
Designation date | Route order | Route description | City | County | Restriction(s) (0,1,2,3,4,5,6,7,8,9,i)
11/07/94 | A | Wallace Twin Tunnels [I-10 & US 90 in Mobile] | Mobile |  | 0
|  | [A signed detour is in place to direct traffic along Water St., US 43, and Alt US 90. Traffic will pass over the Mobile River using the Cochrane Bridge.]

Table 5—Alabama—Designated HRCQ/RAM routes
Designation date | Route order | Route description | City | County | Designation(s) (A,B,I,P)
11/07/94 | A | US 43/Alt US 90 from State 16/US 90 or I-10 to State 16/US 90 or I-10 [Alternate route for Wallace Twin Tunnels, Mobile County.] | Mobile |  | A

Table 6—Alabama—Designated NRHM routes
Designation date | Route order | Route description | City | County | Designation(s) (A,B,I,P)
08/26/96 | A1 | Interstate 10 from Mobile City Limits to Exit 26B [Water St] [Eastbound Traffic: To avoid the downtown area, exit on I-65 North] | Mobile |  | P
08/26/96 | A2A | Interstate 65 from Interstate 10 to Interstate 165 [A route for trucks wishing to by-pass the downtown area.] | Mobile |  | P
08/26/96 | A2B | Water St. [Mobile] from Interstate 10 [exit 26B] to Interstate 165 | Mobile |  | P
08/26/96 | A3A | Interstate 65 from Mobile City Limits to Interstate 165 | Mobile |  | P
08/26/96 | A3B | Interstate 165 from Water St. [Mobile] to Bay Bridge Rd. exit [Mobile] | Mobile |  | P
08/26/96 | A4B | Bay Bridge Rd. [Mobile] from Interstate 165 to Battleship Parkway [over Africa Town Cochran Bridge] [Westbound Traffic: Head south on I-165; To by-pass the downtown area, head north on I-165.] | Mobile |  | P
08/26/96 | A5B | Battleship Parkway [Mobile] from Bay Bridge Rd. [Mobile] to Interstate 10 [exit 27] | Mobile |  | P
08/26/96 | A6B | Interstate 10 from Mobile City Limits to Exit 27 | Mobile |  | P
09/27/93 | B | Interstate 459 from Interstate 20/I-59 [Northeast of Birmingham] to Interstate 20/I-59 [Southwest of Birmingham] [This route should be used in lieu of I-20/I-50 in the Birmingham area, Jefferson county.] | Birmingham | Jefferson | P

Table 7—State: Alaska
State Agency: AK DOT
POC: Sgt. Daniel Byrd
Address: Transportation & Public Facilities, 12050 Industry Way, #0-6 MS-2540, Anchorage, AK 99515
Phone: (907) 365-1207
Web Address: www.dot.state.ak.us
FMCSA: AK FMCSA Field Office
FMCSA: POC: AK Motor Carrier
Address: Division Administrator Frontier Building, Suite 260, 3601 “C” Street, Anchorage, AK 99503
Phone: (907) 271-4068
Fax: (907) 271-4069

Table 8—Alaska: Designated NRHM routes
Designation date | Route order | Route description | City | Designation(s) (A,B,I,P) | FMCSA QA comment
11/01/05 | A1 | Pasagshak Rd. from Chiniak Highway south to end of road | Kodiak | A
11/01/05 | A2 | Chiniak Highway from West Rezanof Dr. to Pasagshak Rd | Kodiak | A
11/01/05 | A3 | West Rezanof Dr. from Marine Way to Chiniak Highway | Kodiak | A
11/01/05 | A4 | Marine Way from ocean to West Rezanof Dr | Kodiak | A
11/01/05 | A4A | Airport Terminal Rd. from Rezanof Dr. south to end of road | Kodiak | A
11/01/05 | B1 | Kachemak Bay Dr. from Sterling Highway/Homer Spit Rd. to East End Rd | Homer | A
11/01/05 | B2 | Sterling Highway from Seward Highway to Homer Spit Rd | Moose Pass and Homer | A
11/01/05 | B3A | K-Beach Rd. from Bridge Access Rd. to Sterling Highway | Kenai | A
11/01/05 | B3B | Seward Highway from Gambell/Ingra split to Railway Ave | Anchorage and Seward | A
11/01/05 | B4A | Bridge Access Rd. from Kenai Spur Highway to K-Beach Rd | Kenai | A
11/01/05 | B4B | Gambell St. from Third Ave. to Seward Highway | Anchorage | A |
11/01/05 | B4B | Ingra St. from Third Ave. to Seward Highway | Anchorage | A
11/01/05 | B4B-1.0 | Nash Rd. from Seward Highway to Morris Ave | Seward | A
11/01/05 | B4B-2.0 | O'Malley Rd. from Minnesota Dr. to Seward Highway | Anchorage | A
11/01/05 | B5A-1.0 | Kenai Spur Highway from Beach Bay Rd. along coast to Marathon Rd | Kenai | A
11/01/05 | B5B-2.0 | Minnesota Drive from Tudor Rd. to O'Malley Rd | Anchorage | A
11/01/05 | B5B-3.0 | Third Ave. from the ocean to Reeve Blvd | Anchorage | A
11/01/05 | B6A-1.0-A | Nikishka Beach Rd. from Dock Gate Rd. to Kenai Spur Highway | Kenai | A
11/01/05 | B6B-2.0 | Tudor Road from Muldoon Rd. to Minnesota Drive | Anchorage | A
11/01/05 | B6B-2.0-A | Raspberry Road from the ocean to Minnesota Drive | Anchorage | A
11/01/05 | B6B-3.0-A | Reeve Blvd. from Post Rd. to 5th Ave | Anchorage | A
11/01/05 | B7B-2.0 | Muldoon Road from Glenn Highway to Tudor Rd | Anchorage | A
11/01/05 | B7B-3.0-A | Post Rd. from Whitney Rd. to Reeve Blvd | Anchorage | A
11/01/05 | B8B-2.0-B | Glenn Highway from 5th Ave. to Richardson Highway | Anchorage and Glenallen | A
11/01/05 | B8B-3.0-A | Whitney Rd. from Ocean Dock Rd. to Post Rd | Anchorage | A
11/01/05 | B9B-2.0-B1 | Artillery Rd. from Mausel St. to Artillery Rd./Glenn Highway overpass | Eagle River | A
11/01/05 | B9B-2.0-B2 | George Parks Highway from Glenn Highway northwest to Richardson Highway | Fairbanks and Wasilla | A
11/01/05 | B9B-2.0-B3 | Palmer/Wasilla Highway from Glenn Highway to Knik Goose Bay Rd | Palmer and Wasilla | A
11/01/05 | B9B-2.0-B4 | Palmer-Fishhook Rd. from Glenn Highway north to Willow Fishhook Rd | Palmer | A
11/01/05 | B9B-3.0-A | Ocean Dock Road from the ocean to Whitney Rd | Anchorage | A
11/01/05 | B10B-2.0-B2 | Richardson Highway from George Parks Highway (Fairbanks) southeast to Meals Ave. (Valdez) | Fairbanks and Valdez | A
11/01/05 | B10B-2.0-B2A | Sheep Creek Rd. from George Parks Highway to Murphy Dome Rd., continuing on Goldstream Rd. to Steese Highway | Fairbanks | A
11/01/05 | B10B-2.0-B2B | Geist Rd. from George Parks Highway to Peger Rd | Fairbanks | A
11/01/05 | B10B-2.0-B2C | Airport Way from George Parks Highway to Cushman St | Fairbanks | A
11/01/05 | B10B-2.0-B3 | Knik Goose Bay Rd. from Palmer/Wasilla Highway to Point MacKenzie Rd | Wasilla/ Knik | A
11/01/05 | B11B-2.0-B2B-1.0 | Johansen Expressway from Geist Rd. to Steese Expressway/Elliot Highway | Fairbanks | A
11/01/05 | B11B-2.0-B2B-2.0 | Peger Rd. from Geist Rd. southward until end of road | Fairbanks | A
11/01/05 | B11B-2.0-B2D | Steese Highway from Richardson Highway (Fairbanks) to end of road (Circle) | Fairbanks and Circle | A
11/01/05 | B11B-2.0-B2E | Badger Rd. from Richardson Highway to Richardson Highway | Fairbanks and the North Pole | A
11/01/05 | B11B-2.0-B2F | Old Richardson Highway from Richardson Highway to Laurance Rd | North Pole | A
11/01/05 | B11B-2.0-B3 | Point McKenzie Rd. from Knik Goose Bay Rd. south to end of road | Port MacKenzie | A
11/01/05 | B12B-2.0-B2B-2.0-A | Van Horn Rd. from Cushman St west to University Ave | Fairbanks | A
11/01/05 | B12B-2.0-B2D-1.0 | Elliott Highway from Steese Highway (Fairbanks) to Airfield Access (Manley Hot Springs) | Fairbanks and Manley Hot Springs | A
11/01/05 | B12B-2.0-B2F | Laurance Rd. from Old Richardson Highway east to end of road | North Pole | A
11/01/05 | C1 | South Tongass Highway from North Tongass Highway east to end of road | Ketchikan | A
11/01/05 | C2 | North Tongass Highway from South Tongass Highway north to end of road | Ketchikan | A
11/01/05 | D1 | Hydaburg Highway from Craig/Klawock/Hollis Highway south to ocean | Hydaburg | A
11/01/05 | D2A | Craig/Klawock/Hollis Highway from Big Salt Lake Rd. east to Hollis Ferry Terminal Rd | Klawock and Hollis | A
11/01/05 | D3A-1.0 | Big Salt Lake Rd. from Thorne Bay Rd. south to Craig/Klawock/Hollis Highway | Klawock | A
11/01/05 | D3A-2.0 | Hollis Ferry Terminal Rd. from Craig/Klawock/Hollis Highway to end of road | Hollis | A
11/01/05 | D4A-1.0-A | North Prince of Wales Rd. from Big Salt Lake Rd. (Thorne Bay) north to the Labouchere Bay (Prince of Wales) | Thorne Bay and Prince of Wales | A
11/01/05 | D4A-1.0-B | Thorne Bay Rd. from Big Salt Lake Rd. east to Sandy Beach Rd | Thorne Bay | A
11/01/05 | E1 | Zimovia Highway from Bennett St./Wrangell Avenue south to McCormick Creek Rd | Wrangell | A
11/01/05 | E2 | Bennett St. from Airport Rd. to Wrangell Ave | Wrangell | A
11/01/05 | F1 | Mitkof Highway from Nordic Dr. to end of road | Petersburg | A
11/01/05 | F2 | Nordic Dr. from ocean to Mitkof Highway | Petersburg | A
11/01/05 | F3A | Haugen Dr. from Sandy Beach Rd. to Nordic Dr | Petersburg | A
11/01/05 | H1 | Halibut Point Rd. along coast to Sawmill Creek Rd | Sitka | A
11/01/05 | H2 | Sawmill Creek Rd. from end of Rd. west to Halibut Point Rd | Sitka | A
11/01/05 | H3A | Lake St. from Sawmill Creek Rd. to Harbor Dr | Sitka | A
11/01/05 | H4A | Harbor Drive from Lake St. to Airport Rd | Sitka | A
11/01/05 | H5A | Airport Rd. from Harbor Dr. to ocean | Sitka | A
11/01/05 | I | Airport Way to and from Garteeni Highway | Hoonah | A
11/01/05 | J | Cannery Rd. from Hoonah Ferry Terminal Rd. to end of road | Hoonah | A
11/01/05 | K | North Douglas Highway along coast to Douglas Highway | Juneau | A
11/01/05 | L1 | Thane Rd. from Franklin St. to end of road | Juneau | A
11/01/05 | L2 | Egan Dr. from Glacier Highway to Franklin St to Thane Rd | Juneau | A
11/01/05 | L3 | Glacier Highway along coast to Egan Dr | Juneau | A
11/01/05 | L3A | Channel Dr. from Egan Dr. to Egan Dr | Juneau | A
11/01/05 | L3B | Yandukin Dr. from Egan Dr. west to Shell Simmons Dr | Juneau | A
11/01/05 | L4B | Shell Simmons Dr. from Yandukin Dr. to Yandukin Dr | Juneau | A
11/01/05 | M1 | Old Haines Highway/Beach Rd. from Second Ave. east to end of road | Haines | A
11/01/05 | M2A | Haines Highway from the intersection of Main St. to Second Ave | Haines | A
11/01/05 | M2B | Second Ave. from Union St. to Beach Rd | Haines | A
11/01/05 | M3A | Haines Highway from Main St. west to US/Canada Border | Haines | A
11/01/05 | M3A-1.0 | Union St. from Haines Highway/Lutak Rd./Second Ave to Haines Highway/Main St | Haines | A
11/01/05 | M4A-1.0-A | Haines Highway/Lutak Rd. from Ferry Terminal Rd. to Haines Highway/Main St | Haines | A
11/01/05 | M4A-2.0 | Airport Rd. from Haines Highway west to Haines Airport | Haines | A
11/01/05 | M5A-1.0-A | Ferry Terminal Rd. from ocean to Haines Highway/Lutak Rd | Haines | A
11/01/05 | N | Klondike Highway from State St. to US/Canada Border | Skagway | A
11/01/05 | O1 | Dangerous River Rd. from ocean to ocean | Yakutat | A
11/01/05 | O2A | Mallott Ave. from Airport Rd. to ocean | Yakutat | A
11/01/05 | O3A | Airport Rd. from Mallott Ave. southeast to airport | Yakutat | A
11/01/05 | TBD | Cushman St. from the Johansen Expressway to Peger Rd | Fairbanks | A | Unable to confirm route information with state.
11/01/05 | TBD | Illinois Street from the Johansen Expressway to Phillips Field Rd | Fairbanks and the North Pole | A | Unable to confirm route information with state.
11/01/05 | TBD | Phillips Field Rd. from Geist Rd. to Illinois St | Fairbanks and the North Pole | A | Phillips Field Rd. is not in the Alaska GIS database of HM routes.
|  |  |  |  | Unable to confirm route information with state.
11/01/05 | TBD | Airport Rd. from Keku Rd. north | Kake | A | Unable to confirm route information with state.
11/01/05 | TBD | Church Street | Kake | A | Church St. is not in the Alaska GIS database of HM routes.
|  |  |  |  | Unable to confirm route information with state.
11/01/05 | TBD | Fourth St. from Church St. to Kake Rd | Kake | A | Church St. and Fourth St. are not in the Alaska GIS database of HM routes.
|  |  |  |  | Unable to confirm route information with state.
11/01/05 | TBD | Kake Rd. from 4th St. to Keku Rd | Kake | A | Keku Rd. is the only road in the route description included in the Alaska GIS database of HM routes.
|  |  |  |  | Unable to confirm route information with state.
11/01/05 | TBD | Keku Rd. from Church St. to Airport Rd | Kake | A | Church St. is not in the Alaska GIS database of HM routes.
|  |  |  |  | Unable to confirm route information with state.
11/01/05 | TBD | Silver Spike Rd | Kake | A | Silver Spike Rd. is not in the Alaska GIS database of HM routes.
|  |  |  |  | Unable to confirm route information with state.
11/01/05 | TBD | Douglas Highway along coast | Juneau | A | Two distinct route segments appear to comprise Douglas Highway:
|  |  |  |  | (1) North Douglas Highway from Douglas Highway roundabout to end of road; and
|  |  |  |  | (2) Douglas Highway from Egan/Glacier Highway to end of road.
|  |  |  |  | Unable to confirm route information with state.
11/01/05 | TBD | Marathon Road from Kenai Spur Rd. north | Kenai | A | Marathon Rd. is not in the Alaska GIS database of HM routes.
|  |  |  |  | Unable to confirm route information with state.

Table 9—State: Arizona
State Agency: AZ DOT
POC: Mike Manthey
Address: 206 South 17th Ave., Phoenix, AZ 85007
Phone: (602) 712-8888
Fax: (602) 407-3243
Web Address: www.azdot.gov
FMCSA: AZ FMCSA Field Office
FMCSA POC: AZ Motor Carrier
Address: Division Administrator, 400 East Van Buren St., Suite 401, Phoenix, AZ 85004
Phone: (602) 379-6851
Fax: (602) 379-3627

Table 10—Arizona: Restricted HM Routes
Designation date | Route order | Route description | Restriction(s) (0,1,2,3,4,5,6,7,8,9,i)
03/27/99 | A | Exit Ramp from US 60 [Eastbound] to State 101 [Southbound] | 0
03/20/99 | B | Exit Ramp from US 60 [Westbound] to State 101 [Northbound] | 0
01/01/90 | C | Interstate 10 [Deck Tunnel—Phoenix] from 7th St. exit [Mile Post 144.3] to 7th Ave. exit [Mile Post 146.2] [Interstate 17 is the designated truck route which has been posted as the alternative route for hazmat traffic.] | 0
10/16/95 | D | State 202 from Mile Post 8.33 [McClintock Exit] to Mile Post 11.07 [Dobson Exit] | 0
|  | [Alternate Routes are as follows:
|  | 1. McClintock to University to Dobson
|  | 2. McClintock to McKellips to SR-101
|  | Note: Freeway ends at SR-101 with temporary lanes to Dobson. Alternative routing may vary with continuing construction.]

Table 11—Arizona: Designated NRHM Routes
Designation date | Route order | Route description | Designation(s) (A,B,I,P)
01/01/90 | A | Interstate 17 from Interstate 10 [west of Deck Tunnel] to Interstate 10 [east of Deck Tunnel] | A

Table 12—State: Arkansas
State Agency: AR Hwy & Transportation Dept.
POC: Yolanda Gomillion
Address: Arkansas Highway Police Div., 10324 Interstate 30, Little Rock, AR 72209
Phone: (501) 569-2546
Fax: (501) 569-4998
Web Address: www.arkansashighways.com
FMCSA: AR FMCSA Field Office
FMCSA POC: AR Motor Carrier Division Administrator
Address: Room 2427 Federal Building, 700 W. Capitol Ave., Little Rock, AR 72201
Phone: (501) 324-5050
Fax: (501) 324-6562

Table 13—Arkansas: Restricted HM Routes
Designation date | Route order | Route description | City | Restriction(s) (0,1,2,3,4,5,6,7,8,9,i)
07/08/92 | A1 | Interstate 630 [Entire Highway] [Downtown Little Rock. Exception for local delivery.] | Little Rock | 0
07/08/92 | A2A | Interstate 30 from Interstate 440 to Interstate 40 [in downtown Little Rock] [Exception for local delivery.] | Little Rock | 0

Table 14—Arkansas: Designated HRCQ/RAM Routes
Designation date | Route order | Route description | City | Designation(s) (A,B,I,P)
(unknown) | A1 | Interstate 30 from Interstate 440 to Texas [Memphis to Texarkana Route. Use this route in lieu of I-430, I-630 or that portion of I-30 connecting I-40 and I-440] |  | P
11/28/88 | A2 | Interstate 440 from Interstate 40 to Interstate 30 [Memphis to Texarkana route. Use this route in lieu of I-430, I-630 or that portion of I-30 connecting I-40 and I-440] |  | P
11/28/88 | A3A | Interstate 40 from Tennessee to Oklahoma [Memphis to Fort Smith route] |  | P

Table 15—State: California
State Agency: CA Highway Patrol
POC: Tian-Ting Shih
Address: Commercial Vehicle Section, P.O. Box 942898, Sacramento, CA 94298-0001
Phone: (916) 843-3400
Fax: (916) 322-3154
Web Address: www.chp.ca.gov
FMCSA: CA FMCSA Field Office
FMCSA POC: CA Motor Carrier Division Administrator
Address: 1325 J Street, Suite 1540, Sacramento, CA 95814
Phone: (916) 930-2760
Fax: (916) 930-2778

Table 16—California: Restricted HM Routes
Designation date | Route order | Route description | City | County | Restriction(s) (0,1,2,3,4,5,6,7,8,9,i)
10/28/92 | A | No person shall drive or permit the driving of any vehicle transporting commodities listed in Section 13 CCR 1150 upon any highway not designated by this article. For pickup and delivery not over designated routes, the route selected must be the shortest-distance route from the pickup location to the nearest designated route entry location, and the shortest-distance route to the delivery location from the nearest designated route exit location |  |  | 1
01/01/95 | B | State 75 [Coronado Toll Bridge] from Mile Post 20.28 to Mile Post R22.26 Junction 5 [San Diego County] | San Diego | San Diego | 1,2,3,4
|  | No flammables/corrosives or explosives on Coronado Bay Bridge (otherwise route is terminal access)
06/29/00 | C | Sepulveda Blvd. [tunnel] from Interstate 105/Imperial Highway to W. Century Blvd. [Restriction for Tank Vehicles] | Los Angeles | Los Angeles | 1,2,3,4,5,6,8
10/28/92 | D | State 118 from State 232 [Oxnard] to Los Angeles [western county line] |  |  | 1
01/01/95 | E | State 154 from State 246 [MP 8.11—Santa Ynez] to US 101 [near Los Olivos] |  | Santa Barbara | 0
|  | No hazardous materials or waste except pickup and delivery (otherwise, from R8.11 to R9.97 is Terminal Access and from R9.97 to 32.29 is California Legal)
1968 | F | Monterey Traffic Underpass from Washington St. to Lighthouse Ave. [Alternate route: Pacific St. to Del Monte Ave.] | Monterey | Monterey | 0
03/26/13 | G | State 1 Tom Lantos Tunnel (Devil's Slide Tunnel) | Pacifica | San Mateo | 1, 2, 3
|  | No explosives (Class 1), flammable gases (Division 2.1), or flammable and combustible liquids (Class 3)
01/01/95 | H | State 84 from State 238/Mission Blvd. [MP 10.83—Fremont] to Interstate 680 [Sunol] |  | Alameda | 0
|  | Trucks restricted from transporting hazardous materials and waste due to adjacent drinking water source (otherwise, route is Advisory 32)
02/25/95 | I | US 101/Golden Gate Bridge |  | San Francisco | 1
|  | [Bridge escort required. No explosive laden trucks permitted on the bridge between 6:30-9:30 and 16:00-19:00 weekdays]
01/01/95 | J | Interstate 80—SF-Oakland Bay Bridge from Mile Post 4.92 [San Francisco] to Mile Post 2.20 [Alameda County] | San Francisco |  | 1, 2, 3, 4
|  | No flammable tank vehicles or explosives on SF-Oakland Bay Bridge (otherwise, route is National Network)
01/01/95 | K | State 260 from Atlantic Ave. [MP R0.62—Alameda] to Interstate 880 [MP R1.92—Oakland] [Eastbound Webster St. Tube & Westbound Posey Tube] |  | Alameda | 0
|  | Trucks restricted from transporting hazardous materials and waste through Webster and Posey Tubes (otherwise, route is California Legal)
01/01/95 | L | State 24 [Caldecott Tunnel] from Mile Post R5.89 [Alameda County] to Mile Post R0.35 [Contra Costa County] |  |  | 1, 2, 3
|  | [Transportation of an explosive substance, flammable liquid, liquefied petroleum gas, or poisonous gas in a tank truck, trailer, or semi-trailer is allowed through the tunnel only between the hours of 3:00 AM and 5:00 AM.] Otherwise route is National Network
10/28/92 | M | Tennessee St. from Mare Island Way to Columbus Way | Vallejo | Solano | 1
01/01/95 | N | State 20 from State 29 [MP 8.32—Upper Lake] to State 53 [MP 31.62—Clearlake Oaks] |  | Lake | 0
|  | [No vehicles transporting hazardous materials or waste due to adjacent waters (otherwise, route is terminal access).]

Table 17—California: Designated HRCQ/RAM Routes
Designation date | Route order | Route description | City | County | Designation(s) (A,B,I,P) | FMCSA QA comment
10/19/94 | A | Interstate 5 from Mexican Border [MP 0] to Interstate 805 [MP 1—San Ysidro] |  |  | P | This route will be considered by the California Highway Patrol for updates in a future rulemaking.
10/19/94 | B1 | Interstate 805 from Interstate 5 [Torrey Pines] to Interstate 5 [San Ysidro] |  | San Diego | P | This route will be considered by the California Highway Patrol for updates in a future rulemaking.
10/19/94 | B2 | Interstate 5 from State 78 [MP 51—Carlsbad] to Interstate 805 [MP 31—Torrey Pines] |  |  | P |
10/19/94 | B2A | Interstate 15 from State 163 to Interstate 8 | San Diego | San Diego | P |
10/19/94 | B2B | Interstate 8 from Arizona to Interstate 5 [San Diego] |  |  | P |
10/19/94 | B3 | Interstate 5 from Interstate 405 [MP 93—Irvine] to State 78 [MP 78—Carlsbad] |  |  | P |
10/19/94 | B3A | Interstate 15 from State 60 [Mira Loma] to State 163 [San Diego] |  |  | P |
10/19/94 | B4 | Interstate 5 from Interstate 605 [MP 123—Santa Fe Springs] to Interstate 405 [MP 93—Irvine] |  |  | P |
10/19/94 | B4A | Interstate 15 from Nevada border to State 60 [Mira Loma] |  |  | P |
10/19/94 | B5 | Interstate 605 from Interstate 210 [Duarte] to Interstate 5 [Santa Fe Springs] |  | Los Angeles | P |
10/19/94 | B5A-1.0 | Interstate 40 from Arizona to Interstate 15 [Barstow] |  |  | P |
10/19/94 | B6A-1.0 | Interstate 10 from Arizona to Interstate 605 [Baldwin Park] |  |  | P |
10/19/94 | B6A-2.0 | Interstate 210 from Interstate 5 [Sylmar] to State 57 [Glendora] |  | Los Angeles | P |
10/19/94 | B7A-2.0 | Interstate 5 from Oregon [MP 796] to Interstate 210 [MP 160—Sylmar] |  |  | P |
10/19/94 | C1 | Interstate 280 from Interstate 680 [in San Jose] to Interstate 380 [in San Francisco] |  |  | P |
10/19/94 | C2 | Interstate 680 from Interstate 80 [Cordelia Junction, Fairfield] to Interstate 280 [San Jose] |  |  | P |
10/19/94 | D1 | Interstate 880 from Interstate 980 [Oakland] to Interstate 238 [San Leandro] |  | Alameda | P |
10/19/94 | D2A | Interstate 980 from Interstate 580 to Interstate 880 | Oakland | Alameda | P |
10/19/94 | E | Interstate 238 from Interstate 580 [Ashland] to Interstate 880 [San Leandro] |  | Alameda | P |
10/19/94 | F1 | Interstate 580 from Interstate 5 [Southwest of Tracy] to Interstate 680 [in Dublin] |  |  | P |
10/19/94 | F2A | Interstate 205 from Interstate 5 [Lanthrop] to Interstate 580 [Alameda County]“ |  |  | P |
10/19/94 | G | Interstate 80 from Nevada to Interstate 580 [north of Oakland] |  |  | P |

Table 18—California: Designated NRHM Routes
Designation date | Route order | Route description | City | County | Designation(s) (A,B,I,P) | FMCSA QA comment
10/28/92 (B) 04/16/92 (I) | A1 | Interstate 5 from Mexican Border [MP 0] to Interstate 805 [MP 1—San Ysidro] | San Diego | San Diego | B,I | This route will be considered by the California Highway Patrol for updates in a future rulemaking.
10/28/92 | A2 | Interstate 805 from Interstate 5 [Torrey Pines] to Interstate 5 [San Ysidro] |  | San Diego | B | This route will be considered by the California Highway Patrol for updates in a future rulemaking.
04/16/92 | A2 | Interstate 805 [San Diego] from SR 163 [San Diego] to Interstate 8 [San Diego] | San Diego | San Diego | I |
10/28/92 | A2A | Interstate 5 from Interstate 805 [MP 31—Torrey Pines] to State 805 [San Ysidro] | San Diego | San Diego | B | This route will be considered by the California Highway Patrol for updates in a future rulemaking.
10/28/92 | A3 | Interstate 5 from State 78 [MP 51—Carlsbad] to Interstate 805 [MP 31—Torrey Pines] |  | San Diego | B |
10/28/92 | A3A-1.0 | State 75 from Interstate 5 [San Diego] to R. H. Dana Place [Coronado] |  | San Diego | B |
10/28/92 | A3A-2.0 | State 15 from State 94 to Interstate 5 | San Diego | San Diego | B |
04/16/92 | A3A-3.0 | Interstate 8 from Arizona to Interstate 805 [San Diego] |  |  | I |
10/28/92 | A3A-3.0 | Interstate 8 from Arizona to end of road [San Diego] at the intersection of Sunset Cliffs Blvd./Nimitz Blvd |  |  | B |
10/28/92 | A3B | State 94 from Interstate 5 to Interstate 8 | San Diego | San Diego | B |
10/28/92 (B) 04/16/92 (I) | A4 | Interstate 5 from Interstate 405 [MP 93—Irvine] to State 78 [MP 78—Carlsbad] |  |  | B,I |
10/28/92 | A4A-1.0 | R.H. Dana Place from State 75 to Ocean Blvd | San Diego | San Diego | B |
10/28/92 | A4A-3.0-A | State 163 from Interstate 8 to Interstate 15 | San Diego | San Diego | B |
04/16/92 | A4A-3.0-A | State 163 from Interstate 15 to Interstate 805 | San Diego | San Diego | I |
04/16/92 | A4A-3.0-B | Interstate 15 from State 60 [Mira Loma] to State 163 [San Diego] |  |  | I | This route will be considered by the California Highway Patrol for updates in a future rulemaking.
10/28/92 | A4A-3.0-B | Interstate 15 from State 91 [Corona] and Interstate 8 [San Diego] |  |  | B |
10/28/92 | A4A-3.0-C | State 98 from Interstate 8 [MP 88—Ocotillo] to Interstate 8 [MP 144—Warren H. Brock Reservoir] |  | Imperial | B | This route will be considered by the California Highway Patrol for updates in a future rulemaking.
10/28/92 (B) 04/16/92 (I) | A4A-3.0-D | CR S30/Forrester Rd. from State 86 [Westmorland] to Interstate 8 [El Centro] |  | Imperial | B, I | This route will be considered by the California Highway Patrol for updates in a future rulemaking.
10/28/92 | A4B-1.0 | State 125 from State 94 to Interstate 8 | La Mesa | San Diego | B |
04/16/92 | A4C | State 78 from Interstate 5 [Oceanside] to Interstate 15 [Escondido] |  | San Diego | I |
10/28/92 | A5 | Interstate 5 from Interstate 605 [MP 123—Santa Fe Springs] to Interstate 405 [MP 93—Irvine] |  |  | B |
10/28/92 | A5A-1.0 | Ocean Blvd. from R.H. Dana Place to North Island Naval Air Station | Coronado | San Diego | B |
10/28/92 (B) 04/16/92 (I) | A5A-3.0-B | Interstate 15 from Nevada border to State 60 [Mira Loma] |  |  | B, I |
10/28/92 | A5A-3.0-B1 | Interstate 215 from Interstate 15 [San Bernardino] to Interstate 15 [Murietta] |  |  | B |
10/28/92 | A5A-3.0-C1 | Railroad Blvd./River Rd. from State 98 to U.S. Customs Compound [at Mexico] | Calexico | Imperial | B | This route will be considered by the California Highway Patrol for removal in a future rulemaking.
10/28/92 | A5A-3.0-C2 | State 111 from Interstate 8 [El Centro] to State 98 [Calexico] |  | Imperial | B | This route will be considered by the California Highway Patrol for updates in a future rulemaking.
10/28/92 (B) 04/16/92 (I) | A5A-3.0-D | State 86 [Indio] to CR S30/Forrester Rd. [Westmorland] |  |  | B, I | This route will be considered by the California Highway Patrol for updates in a future rulemaking.
10/28/92 | A5D | State 76 from Interstate 5 [Oceanside] to Interstate 15 [Fallbrook] |  | San Diego | B |
10/28/92 (B) 04/16/92 (I) | A5E | Interstate 405 from Interstate 5 [North Valley] to Interstate 5 [Irvine] |  |  | B, I |
10/28/92 | A6 | Interstate 5 from Interstate 405 [MP158—North Valley] to Interstate 605 [MP 123—Santa Fe Springs] |  | Los Angeles | B |
10/28/92 | A6A-3.0-B2 | US 395 from Oregon to US 6 [Bishop] |  |  | B |
|  | [NOTE: US 395 enters Nevada and returns into California near Topaz]
10/28/92 (B) 04/16/92 (I) | A6A-3.0-B2 | US 395 from US 6 [Bishop] to Interstate 15 [Hesperia] |  |  | B, I |
|  | [NOTE: US 395 enters Nevada and returns into California in the mid-eastern section]
10/28/92 (B) 04/16/92 (I) | A6A-3.0-B3 | Lenwood Rd. from State 58 to Interstate 15 |  | San Bernardino | B, I | This route will be considered by the California Highway Patrol for removal in a future rulemaking.
10/28/92 (B) 04/16/92 (I) | A6A-3.0-B4 | Interstate 40 from Arizona to Interstate 15 [Barstow] |  |  | B, I |
10/28/92 | A6A-3.0-B5 | Fort Irwin Rd. from Interstate 15 to Fort Irwin | Barstow | San Bernardino | B |
10/28/92 | A6A-3.0-B6 | State 127 from Nevada to Interstate 15 [Baker] |  |  | B |
10/28/92 | A6D-1.0 | CR-S13 from Interstate 15 to State 76 | Fallbrook | San Diego | B | This route will be considered by the California Highway Patrol for updates in a future rulemaking.
10/28/92 | A6E-1.0 | State 55 from Interstate 405 [Costa Mesa] to State 91 [Anaheim] |  | Orange | B |
10/28/92 | A6E-2.0 | State 22/Garden Grove Freeway from State 1 [Seal Beach] to State 55 [Orange] |  | Orange | B |
10/28/92 | A6E-3.0 | Seal Beach Blvd. from Interstate 405 to Electric Ave | Seal Beach | Orange | B |
10/28/92 | A6E-4.0 | Interstate 605 from Interstate 210 to Interstate 405 | Los Angeles | Los Angeles | B |
10/28/92 | A6E-5.0 | Interstate 105 from Interstate 405 [Hawthorne] to Interstate 605 [Norwalk] |  | Los Angeles | B |
04/16/92 | A6E-6.0 | Interstate 10 from Arizona to State 60 [Beaumont] |  |  | I |
10/28/92 | A6E-6.0 | Interstate 10 from Interstate 405 [Los Angeles] to Arizona |  |  | B |
04/16/92 | A6E-7.0 | US 101 from State 34/Lewis Rd. [Camarillo] to Interstate 405 [Sherman Oaks, Los Angeles] |  |  | I |
10/28/92 | A6E-8.0 | State 118 from Interstate 405 [Mission Hills, Los Angeles] to L.A. county line [Chatsworth] | Los Angeles | Los Angeles | B |
10/28/92 | A6F | State 57 from Interstate 5 [Orange] to Interstate 210 [Glendora] |  | Los Angeles | B |
10/28/92 (B) 04/16/92 (I) | A7 | Interstate 5 from Interstate 210 [MP 160] to Interstate 405 [MP 158] | Sylmar | Los Angeles | B, I |
10/28/92 | A7A-3.0-B2A | State 190 [Olancha] from US 395 to State 127 [Death Valley Junction] |  |  | B |
10/28/92 | A7A-3.0-B2B | State 136 from US 395 to State 190 | Lone Pine | Inyo | B |
10/28/92 (B) 04/16/92 (I) | A7A-3.0-B2C | US 6 from Nevada to US 395 [Bishop] |  |  | B, I |
10/28/92 | A7A-3.0-B2D | State 167/Pole Line Rd. from Nevada to US 395 [Mono City] |  |  | B |
10/28/92 | A7A-3.0-B4-A | A St. from National Trails Hwy/Historical US-66 to Interstate 40 |  | San Bernardino | B |
10/28/92 | A7E-6.0-A | Interstate 110 from Interstate 10 [Pico Union] to State 47 [San Pedro] |  | Los Angeles | B |
10/28/92 | A7E-6.0-B | Interstate 710 from Interstate 10 to Interstate 405 | Los Angeles | Los Angeles | B |
10/28/92 | A7E-6.0-C | Alabama St. from Interstate 10 [Redlands] to San Bernardino International Airport [San Bernardino] |  | San Bernardino | B |
10/28/92 | A7E-6.0-D | State 62 [Desert Hot Springs] from Interstate 10 to Arizona |  |  | B |
10/28/92 | A7E-6.0-E | State 177 from State 62 to Interstate 10 | Desert Center | Riverside | B |
10/28/92 (B) 04/16/92 (I) | A7E-6.0-F | US 95 from Nevada to Interstate 10 [Blythe] |  |  | B, I |
04/16/92 | A7E-8.0 | State 27/Topanga Canyon Blvd. from State 118 to Chatsworth St | Chatsworth | Los Angeles | I |
10/28/92 | A7G | State 60 from Interstate 5 [Los Angeles] to Interstate 10 [Beaumont] |  |  | B |
04/16/92 | A7G | State 60 from Interstate 605 [South El Monte] to Interstate 10 [Beaumont] |  |  | I |
10/28/92 | A7H | State 2 from Interstate 5 to Interstate 210 | Los Angeles | Los Angeles | B |
10/28/92 | A7I | State 134 from Interstate 5 to Interstate 210 | Los Angeles | Los Angeles | B |
10/28/92 | A7J | State 118 from Interstate 5 to Interstate 210 | Los Angeles | Los Angeles | B |
10/28/92 (B) 04/16/92 (I) | A8 | Interstate 5 from Oregon [MP 796] to Interstate 210 [MP 160—Sylmar] |  |  | B, I |
10/28/92 | A8A-3.0-B2E | State 89 from State 49 [Sierraville] to US 395 [Topaz] |  |  | B |
10/28/92 | A8A-3.0-B2F | CR A3/Standish-Buntingville Rd. from US 395 [Standish] to US 395 [Buntingville] |  | Lassen | B |
10/28/92 | A8A-3.0-B4-A | Daggett-Yermo Rd. from Interstate 15 [Yermo] to National Trails Hwy./Historical US-66 |  | San Bernardino | B |
10/28/92 | A8E-6.0-A | State 47 from Interstate 110 to Navy Way | San Pedro | Los Angeles | B |
04/16/92 | A8E-6.0-B1 | State 91 from Interstate 605 to Interstate 710 | Los Angeles | Los Angeles | I |
04/16/92 | A8E-6.0-B2 | Interstate 710 from Interstate 5 [Commerce] to Port of Long Beach [Long Beach] |  | Los Angeles | I |
10/28/92 | A8E-6.0-C1 | W. Lugonia Ave. from Alabama St. to Orange St | Redlands | San Bernardino | B |
10/28/92 | A8E-6.0-D1 | Adobe Rd. from Amboy Rd. to State 62 | Twentynine Palms | San Bernardino | B |
04/16/92 | A8J | State 118 from Interstate 405 [Mission Hills] to State 27 [Chatsworth] |  | Los Angeles | I |
10/28/92 | A8L | Interstate 210 from Interstate 5 [Sylmar] to State 57 [Glendora] |  | Los Angeles | B |
10/28/92 | A9A-3.0-B2E-1.0 | State 88 from State 89 [Woodfords] to Nevada |  | Alpine | B |
10/28/92 | A9AA | State 44 from Interstate 5 [Redding] to State 36 [Susanville] |  | Lassen | B |
10/28/92 (B) 04/16/92 (I) | A9AB | US 97 from Oregon to Interstate 5 [Weed] |  | Siskiyou | B, I |
10/28/92 | A9E-6.0-B1 | State 91 from Interstate 605 [Cerritos] to State 215 [Riverside] |  |  | B |
04/16/92 | A9E-6.0-B1A | Interstate 605 from State 60 [City of Industry] to State 91 [Cerritos] |  | Los Angeles | I |
10/28/92 | A9E-6.0-C1 | E. Lugonia Ave./State 38 from Orange St. to N. Wabash Ave | Redlands | San Bernardino | B |
10/28/92 | A9E-6.0-D1 | Amboy Rd. from National Trails Highway [Amboy] to Adobe Rd. [Twentynine Palms] |  | San Bernardino | B |
04/16/92 | A9M | State 14 from US 395 [Indian Wells] to State 138 [Lancaster] |  |  | I |
10/28/92 | A9M | State 14 from US 395 [Indian Wells] to Interstate 5 [Santa Clarita] |  |  | B |
04/16/92 | A9N | State 126 from Interstate 5 [Castaic Junction] to Santa Paula [western boundary] |  |  | I |
10/28/92 | A9N | State 126 from Interstate 5 [Castaic Junction] to State 118 [Saticoy] |  |  | B |
04/16/92 | A9O | State 138 from Interstate 5 [Gorman] to State 14 [Lancaster] |  | Los Angeles | I |
10/28/92 | A9O | State 138 from Interstate 5 [Gorman] to Interstate 15 [Cajon Junction] |  |  | B |
10/28/92 (B) 04/16/92 (I) | A9P | State 166 from Interstate 5 [Mettler] to US 101/State 166 to E. Main St. [Santa Maria] |  |  | B, I |
10/28/92 | A9Q | State 99 from State 36 [Red Bluff] to Interstate 5 [MP 217—Mettler] |  |  | B |
04/16/92 | A9Q | State 99 from State 46 [Famoso] to McFarland [northern city boundary] |  |  | I |
10/28/92 | A9R | State 223 from Interstate 5 [Bakersfield] to State 58 [Caliente] |  | Kern | B |
10/28/92 | A9S | State 119 from State 99 to Interstate 5 | Bakersfield | Kern | B |
10/28/92 | A9T | State 140 from State 49 [Mariposa] to Interstate 5 [Gustine] |  |  | B |
10/28/92 | A9U | Kasson Rd. from Interstate 205B/11th St. to Interstate 5 | Tracy | San Joaquin | B |
10/28/92 | A9V | State 120 from Interstate 5 [Lathrop] to Yosemite National Park |  |  | B |
10/28/92 | A9W | Twin Cities Rd./E13 from State 99 [Galt] To Interstate 5 [MP 497—Elk Grove] |  | Sacramento | B |
10/28/92 | A9X | CR E8 [Road 102] from Interstate 5 [Woodland] to State 113 [Knights Landing] |  | Yolo | B |
10/28/92 | A9Y | State 32 from State 36/89 [Mill Creek] to Interstate 5 [Orland] |  |  | B |
10/28/92 | A9Z | State 36 from Interstate 5 [Red Bluff] to US 395 [Susanville] |  |  | B |
10/28/92 | A10E-6.0-B1A | State 71 from Interstate 10 [Pomona] to State 91 [Corona] |  |  | B |
10/28/92 | A10E-6.0-C1 | Menton Blvd./State 38 from Crafton Ave. to N. Wabash Ave | Mentone | San Bernardino | B |
10/28/92 | A10E-6.0-D1A | National Trails Hwy./State 66 from Interstate 40 [Ludlow] to Interstate 40 [Fenner] |  | San Bernardino | B |
10/28/92 | A10N | State 118 from State 126 to State 232 | Saticoy | Ventura | B |
10/28/92 | A10O-1.0 | State 18 from State 138 [Llano] to US 395 [Adelanto] |  |  | B |
10/28/92 | A10P-1.0 | State 33 from Interstate 5 [Tracy] to State 166 [Maricopa] |  |  | B |
04/16/92 | A10P-2.0 | US 101 from Healdsburg [northern city boundary] to State 37 [Novato] |  | Marin | I |
10/28/92 | A10P-2.0 | US 101 from Oregon to State 246 [Buellton] |  | Sonoma | B |
04/16/92 | A10P-2.0 | US 101 from State 166 [Nipomo] to State 246 [Buellton] |  |  | I |
02/25/95 | A10P-2.0 | US 101 [Golden Gate Bridge] from Marin/San Francisco [County Line—North End] to Toll Plaza [South End] |  | San Francisco | B |
|  | [Route is restricted from 6:30-9:30 and 16:00-19:00 weekdays. Separate entry is included in table for RESTRICTION.]
10/28/92 | A10Q-1.0 | State 65 from State 198 [Exeter] to State 99 [Oildale] |  |  | B |
10/28/92 | A10Q-2.0 | State 43 from State 99 [Selma] to State 58 [Rosedale] |  |  | B |
10/28/92 | A10Q-3.0 | W. Jensen Ave./E. Jensen Ave. from S. Marks Ave. to State 99 | Fresno | Fresno | B |
10/28/92 | A10Q-4.0 | State 145 from State 99 to State 41 | Madera | Madera | B |
10/28/92 | A10Q-5.0 | State 26 from State 99 [Stockton] to State 49 [Mokelumne Hill] |  |  | B |
10/28/92 | A10Q-6.0 | State 88 from State 99 [MP 269—Stockton] to State 49 [Martell] |  |  | B |
10/28/92 | A10Q-7.0 | State 70 from State 99 [Pleasant Grove] to US 395 [Hallelujah Junction, east of Chilcoot-Vinton] |  |  | B |
10/28/92 | A10Q-8.0 | State 149 from State 99 to State 70 | Oroville | Butte | B |
10/28/92 | A10T | State 49 from State 70 [Vinton] to State 140 [Mariposa] |  |  | B |
10/28/92 | A10U | Grant Line Rd./CR-J4 from Byron Rd./CR-J4 to Interstate 205B/11th St. | Tracy | San Joaquin | B |
10/28/92 | A10X | State 113 from State 99 [Woodland] to CR E8/Road 102 [Yuba City] |  |  | B |
10/28/92 | A10Z-1.0 | State 139 from Oregon to State 36 [Susanville] |  |  | B |
10/28/92 | A11E-6.0-C1 | Crafton Ave. from Sand Canyon Rd. to Lockheed Propulsion | Mentone | San Bernardino | B | This route will be considered by the California Highway Patrol for removal in a future rulemaking.
10/28/92 | A11N | State 232 from State 118 [Saticoy] to US 101 [Oxnard] |  | Ventura | B |
10/28/92 | A11O-1.0 | Bear Valley Rd. from US 395 [Victorville] to State 18 [Apple Valley] |  | San Bernardino | B |
10/28/92 | A11P-1.0 | Ahern Rd. from S. Bird Rd. to Interstate 5 | Tracy | San Joaquin | B |
04/16/92 | A11P-1.0-A | State 58 from State 14 [Mojave] to Interstate 15 [Barstow] |  |  | I |
10/28/92 | A11P-1.0-A | State 58 from State 33 [McKittrick] to Interstate 15 [Barstow] |  |  | B | This route will be considered by the California Highway Patrol for updates in a future rulemaking.
10/28/92 | A11P-1.0-B | State 180 from State 33 [Mendota] to Marks Ave. [Fresno] |  | Fresno | B |
10/28/92 | A11P-1.0-C | State 132 from Interstate 580 [Tracy] to State 49 [Coulterville] |  |  | B |
10/28/92 | A11P-2.0-A | State 246 from State 1 [Lompoc] to US 101 [Buellton] |  | Santa Barbara | B |
04/16/92 | A11P-2.0-B | State 246 from US 101 [Buellton] to Purisima Rd. [Lompoc] |  | Santa Barbara | I |
04/16/92 | A11P-2.0-C | State 46 from Interstate 5 [Lost Hills] to State 99 [McFarland] |  | Kern | I |
10/28/92 | A11P-2.0-C | State 46 from US 101 [Paso Robles] to State 99 [McFarland] |  |  | B |
10/28/92 | A11P-2.0-D | CR G18 from CR G14 [Lockwood] to US 101 [Bradley] |  | Monterey | B |
10/28/92 | A11P-2.0-E | State 198 from US 101 [San Lucas] to State 99 [Visalia] |  |  | B |
10/28/92 | A11P-2.0-F | State 25 from US 101 [Gilroy] to State 156 [Hollister] |  |  | B |
04/16/92 | A11P-2.0-G | State 152/Pacheco Pass Highway from Interstate 5 [Los Banos] to State 101 [Gilroy] |  |  | I |
10/28/92 | A11P-2.0-G | State 152/Pacheco Pass Highway from US 101 [Gilroy] to State 99 [Fairmead] |  |  | B |
10/28/92 | A11P-2.0-H | State 85 from Interstate 280 [Cupertino] to US 101 [Mountain View] |  | Santa Clara | B |
10/28/92 | A11P-2.0-I | Interstate 280 from US 1010 [San Francisco] to Interstate 680/US 101 [San Jose] |  |  | B |
04/16/92 | A11P-2.0-J | Interstate 680 from Interstate 80 [Cordelia Junction, Fairfield] to Interstate 580 [Dublin] |  |  | I |
10/28/92 | A11P-2.0-J | Interstate 680 [Cordelia Junction, Fairfield] to US 101 [San Jose] |  |  | B |
10/28/92 | A11P-2.0-K | State 237 from Interstate 680 [Milpitas] to US 101 [Sunnyvale] |  | Santa Clara | B |
10/28/92 | A11P-2.0-L | State 92 from US 101 to Interstate 280 | San Mateo | San Mateo | B |
10/28/92 | A11P-2.0-M | 3rd St. [San Francisco Bay] from US 101 to Cesar Chavez St | San Francisco |  | B | This route will be considered by the California Highway Patrol for removal in a future rulemaking.
10/28/92 | A11P-2.0-N | State 1 from US 101 [Presidio, San Francisco] to the Tom Lantos Tunnels [north entrance, Pacifica] |  |  | B |
10/28/92 | A11P-2.0-O | State 1 from US 101 [Leggett, Mendocino County] to US 101 [Manzanita, Marin County] |  |  | B |
10/28/92 (B) 04/16/92 (I) | A11P-2.0-P | State 37 from US 101 [City of Novato] to Interstate 80 [MP 32 City of Vallejo] |  |  | B, I |
10/28/92 | A11P-2.0-Q | State 299 from US 101 [Arcata] to Nevada |  |  | B |
10/28/92 | A11P-2.0-R | US 199 from Oregon to US 101 [Crescent City] |  | Del Norte | B |
10/28/92 | A11Q-1.0 | State 245 from State 201 [Elderwood] to State 198 [Exeter] |  | Tulare | B |
10/28/92 | A11Q-1.0-A | State 198 from State 65 [Visalia] to the Sequoia National Park |  | Tulare | B |
10/28/92 | A11Q-3.0 | S. Marks Ave. from State 180 to W. Jensen Ave | Fresno | Fresno | B |
10/28/92 | A11Q-4.0 | State 41 from State 145 [Madera] to Yosemite National Park |  |  | B |
10/28/92 | A11Q-7.0-A | State 89 from Interstate 5 [Mount Shasta] to State 80/State 70 to State 70 [Blairsden] |  |  | B |
10/28/92 | A11U | Byron Hwy./CR-J4 from Grant Line Rd. [Tracy] to Byron Hwy./Byron-Bethany Rd./CR-J4 to State 4 [Byron] |  |  | B |
10/28/92 | A11U-1.0 | Interstate 205 from Interstate 5 [Lanthrop] to Interstate 580 [Alameda County] |  |  | B |
10/28/92 | A11Z-1.0-A | Termo-Grasshopper Rd. from State 139 to US 395 | Termo | Lassen | B |
10/28/92 | A12E-6.0-C1A | Sand Canyon Rd. from Crafton Ave. to Interstate 10 | Redlands | San Bernardino | B | This route will be considered by the California Highway Patrol for updates in a future rulemaking.
10/28/92 | A12N | US 101 from State 232 [Oxnard] to Las Posas Rd [Camarillo] |  |  | B |
10/28/92 | A12O-1.0 | State 18 from Bear Valley Rd. [Apple Valley] to Old Woman Springs Rd. [Lucerne Valley] |  | San Bernardino | B |
10/28/92 | A12P-1.0 | S. Bird Rd. from Interstate 205B/11th St. to Ahern Rd | Tracy | San Joaquin | B |
10/28/92 | A12P-1.0-A1 | Old State 58 from State 58 [Hinkley] to Interstate 15 [Barstow] |  | San Bernardino | B | This route will be considered by the California Highway Patrol for removal in a future rulemaking.
10/28/92 | A12P-1.0-C | Chrisman Rd. from Interstate 205B/11th St. to Interstate 580 | Tracy | San Joaquin | B |
10/28/92 | A12P-1.0-C1 | State 108 from State 132 [Modesto] to US 395 [Sonora Junction] |  |  | B |
10/28/92 | A12P-2.0-A | State 1 from State 246 [Lompoc] to US 101 [Las Cruces] |  |  | B |
10/28/92 | A12P-2.0-A1 | Mission Gate Rd. from Purisima Rd. to State 246 | Lompoc | Santa Barbara | B |
10/28/92 (B) 04/16/92 (I) | A12P-2.0-B | Purisima Rd. from State 246 to State 1 | Lompoc | Santa Barbara | B, I |
10/28/92 | A12P-2.0-C1 | State 41 from State 46 [Cholame] to E. Jensen Ave. [Fresno] |  |  | B |
10/28/92 | A12P-2.0-D | CR G14/Jolon Rd. from US 101 [King City] to CR G18 [Lockwood] |  | Monterey | B |
10/28/92 | A12P-2.0-J1 | Interstate 580 from Interstate 236 [Ashland] to Interstate 680 [Dublin] |  |  | B |
10/28/92 (B) 04/16/92 (I) | A12P-2.0-J2 | Interstate 580 from Interstate 5 [Southwest of Tracy] to Interstate 680 [in Dublin] |  |  | B, I |
04/16/92 | A12P-2.0-J3 | State 242 from Interstate 680 to State 4 | Concord | Contra Costa | I |
04/16/92 | A12P-2.0-J4 | State 4 from Interstate 680 [Pacheco] to Loveridge Rd. [Pittsburg] |  | Contra Costa | I |
10/28/92 | A12P-2.0-M1 | Evans Ave. [San Francisco Bay] from 3rd St. to Jennings St | San Francisco |  | B | This route will be considered by the California Highway Patrol for removal in a future rulemaking.
10/28/92 | A12P-2.0-M2 | Cargo Way [San Francisco Bay] from 3rd St. to Jennings St | San Francisco |  | B | This route will be considered by the California Highway Patrol for removal in a future rulemaking.
10/28/92 | A12P-2.0-O1 | State 128 from State 1 [Near Albion Mendocino County] to US 101 [Cloverdale Sonoma County] |  |  | B |
10/28/92 | A12P-2.0-O2 | State 20 from State 1 [Fort Bragg] to State 29 [Upper Lake] |  | Mendocino | B |
10/28/92 | A12P-2.0-Q1 | State 96 from State 299 [Willow Creek] to Interstate 5 [Yreka] |  |  | B |
10/28/92 | A12P-2.0-Q2 | CR A2/Susanville Rd. from State 299 [Bieber] to State 139 [Adin] |  | Lassen | B |
10/28/92 | A12Q-1.0 | State 201 from State 99 [Kingsburg] to State 245 [Elderwood] |  |  | B |
10/28/92 | A12Q-3.0 | N. Marks Ave. from State 99 south to State 180 | Fresno | Fresno | B |
10/28/92 | A12Q-7.0-A1 | State 147 from State 36 [Westwood] to State 89 [Canyondam] |  |  | B |
10/28/92 | A12U-1.0-A | Mountain House Parkway from Byron Rd. to Interstate 580 | Tracy | San Joaquin | B |
10/28/92 | A13N | Las Posas Rd. from US 101 [Camarillo] to Naval Base Ventura County [Oxnard] |  | Ventura | B |
10/28/92 | A13O-1.0 | Old Woman Springs Rd. from State 18 to State 247 | Lucerne Valley | San Bernardino | B |
10/17/94 | A13P-1.0-C | Interstate 205B/11th St. from Chrisman Rd. to Interstate 5 | Tracy | San Joaquin | B |
10/28/92 | A13P-2.0-B | State 1 from State 166 [Guadalupe] to Purisima Rd. [Lompoc] |  |  | B |
04/16/92 | A13P-2.0-B2 | State 1 from Purisima Rd. to Santa Lucia Canyon Rd | Lompoc | Santa Barbara | I | This route will be considered by the California Highway Patrol for updates in a future rulemaking.
10/28/92 | A13P-2.0-C1A | Grangeville Blvd. from State 41 to Lemoore Naval Air Station | Lemoore | Kings | B |
10/28/92 | A13P-2.0-J1 | Interstate 238 from Interstate 580 [Ashland] to Interstate 880 [San Leandro] |  |  | B |
10/28/92 | A13P-2.0-M1 | Hunters Point Blvd. [San Francisco Bay] from Evans Ave. to Innes Ave | San Francisco |  | B | This route will be considered by the California Highway Patrol for removal in a future rulemaking.
10/28/92 | A13P-2.0-M2 | Jennings St. [San Francisco Bay] from Evans Ave. to Cargo Way | San Francisco |  | B | This route will be considered by the California Highway Patrol for removal in a future rulemaking.
10/28/92 | A13P-2.0-O2 | State 29 from State 20 [Upper Lake] to State 53 [Clear Lake] |  | Lake | B |
10/28/92 | A13Q-1.0-A | State 63 from American Ave. [Orange Cove] to State 201 [Cutler] |  | Fresno | B |
10/28/92 | A14N-1.0 | E. Hueneme Rd. from S. Las Posas Rd. [Camarillo] to W. Hueneme Rd. to E. Port Hueneme Rd. to end of road at Port Hueneme Harbor [Hueneme] |  | Ventura | B |
10/28/92 | A14N-2.0 | State 1 from Hueneme Rd. [Oxnard] to Las Posas Rd. [Camarillo] |  | Ventura | B |
10/28/92 | A14O-1.0 | State 247 from Old Woman Springs Rd. [Lucerne Valley] to State 62 [Yucca Valley] |  | San Bernardino | B |
10/28/92 | A14P-2.0-B | State 166/W. Main St. from Bonita School Rd. [Santa Maria] to State 1 [Guadalupe] |  | Santa Barbara | B |
10/28/92 | A14P-2.0-B1 | Santa Lucia Canyon Rd. from State 1 to Lompoc Gate, Vandenberg AFB | Lompoc | Santa Barbara | B |
10/28/92 | A14P-2.0-M1 | Innes Ave. [San Francisco Bay] from Hunters Point Blvd. to Hunters Pt. Naval Shipyards | San Francisco |  | B | This route will be considered by the California Highway Patrol for removal in a future rulemaking.
10/28/92 | A14P-2.0-O2 | State 53 from State 20 [Clearlake Oaks] to State 29 [Lower Lake] |  | Lake | B |
10/28/92 | A14Q-1.0-A | E. American Ave. from Cove Ave. [Squaw Valley] to State 63 [Orange Cove] |  | Fresno | B |
10/28/92 | A15P-2.0-B | Bonita School Rd. from Division St. [Nipomo] to State 166/W. Main St. [Santa Maria] |  |  | B |
10/28/92 | A15P-2.0-O2 | State 20 from State 53 [Clearlake Oaks] to Interstate 80 [MP 166—Yuba Pass] |  |  | B |
10/28/92 | A15Q-1.0-A | Cove Rd. from State 180 [Squaw Valley] to American Ave. [Orange Cove] |  | Fresno | B |
10/28/92 | A16P-2.0-B | Division St. from State 1 to Bonita School Rd. | Nipomo | San Luis Obispo | B |
10/28/92 | A16Q-1.0-A | State 180 from McCall Ave [Sanger] to Cove Rd. [west of Squaw Valley] |  | Fresno | B |
10/28/92 | A17P-2.0-B | State 1 from Tom Lantos Tunnel [south entrance, Pacifica] to Division St. [Guadalupe] |  |  | B |
10/28/92 | A17Q-1.0-A | S. McCall Ave. from E. Jensen Ave. to State 180 | Sanger | Fresno | B |
10/28/92 | A17Q-1.0-A1 | N. Academy Ave. from State 180 [Sanger] to State 168 [Clovis] |  | Fresno | B |
10/28/92 | A18P-2.0-B3 | State 68 from State 1 [Monterey] to US 101 [Salinas] |  |  | B |
10/28/92 | A18P-2.0-B4 | State 156 from State 1 [Castroville] to State 152/Pacheco Pass Highway [Hollister] |  |  | B |
10/28/92 | A18P-2.0-B5 | State 183 from State 1 [Castroville] to N. Main St. [Salinas] |  | Monterey | B |
10/28/92 | A18P-2.0-B6 | State 17 from Interstate 880/Interstate 280 [San Jose] to State 1 [Santa Cruz] |  |  | B |
10/28/92 | A18Q-1.0-A | E. Jensen Ave. from S. Chestnut Ave. [Fresno] to S. McCall Ave. [Sanger] |  | Fresno | B |
10/28/92 | A18Q-1.0-A1 | State 168 from N. Academy Ave [Clovis] to Huntington Lake Rd./Big Creek Rd. [Lakeshore] |  |  | B |
10/28/92 | A19P-2.0-B6 | Interstate 880 from Interstate 280 [San Jose] to Market St. [Oakland] |  |  | B |
10/28/92 | A19Q-1.0-A | S. Chestnut Ave. from State 99 to E. Jensen Ave | Fresno | Fresno | B |
10/28/92 | A20P-2.0-B6 | Oakland Army Base [US Navy Supply Center] from W. Grand Ave. [at Interstate 80] to Market St. [at Interstate 880] [From W. Grand Ave. via Interstate 80 to Maritime St. to Middle Harbor Rd. to 3rd St. to Market St. which connects to Interstate 880] | Oakland | Alameda | B |
10/28/92 | A20P-2.0-B6A | Hegenberger Rd. from Interstate 880 to Doolittle Dr./State 61 | Oakland | Alameda | B |
10/28/92 | A20P-2.0-B6B | Dennison St. from Interstate 880 [Oakland] to Coast Guard Island [Alameda] |  | Alameda | B |
10/28/92 | A20P-2.0-B6C | Interstate 980 from Interstate 580 to Interstate 880 | Oakland | Alameda | B |
10/28/92 | A21P-2.0-B6 | Interstate 80 from Interstate 580 and W. Grand Ave | Oakland | Alameda | B |
10/28/92 | A21P-2.0-B6A | State 61 from Webster St. [Alameda] to Hegenberger Rd. [Oakland] |  | Alameda | B |
10/28/92 | A21P-2.0-B6C | Interstate 580 from Interstate 80 to Interstate 980 | Oakland | Alameda | B | This route will be considered by the California Highway Patrol for updates in a future rulemaking.
04/16/92 | A22P-2.0-B6 | Interstate 80 from Interstate 5 [MP 92—Sacramento] to State 37 [MP 32—Vallejo] |  |  | I |
10/28/92 | A22P-2.0-B6 | Interstate 80 from Nevada to Interstate 580 [north of Oakland] |  |  | B |
10/28/92 | A22P-2.0-B6A | Central Ave. from State 61/Webster St. to Main St | Alameda | Alameda | B |
10/28/92 | A22P-2.0-B6A-1.0 | Grand St. from Encinal Ave. to Buena Vista Ave | Alameda | Alameda | B |
10/28/92 | A23P-2.0-B6A | Main St. from Central Ave. to Atlantic Ave | Alameda | Alameda | B |
10/28/92 | A23P-2.0-B6D | State 4 from 80 [Hercules] to State 89 [Markleeville] |  |  | B |
10/28/92 | A23P-2.0-B6E | Interstate 780 from Interstate 80 [Vallejo] to Interstate 680 [Benicia] |  | Solano | B |
10/28/92 | A23P-2.0-B6F | State 12 from Interstate 80 [MP 49—Fairfield] to State 49 [San Andreas] |  | Solano | B |
10/28/92 (B) 04/16/92 (I) | A23P-2.0-B6G | Interstate 505 from Interstate 5 [MP 552—Zamora] to Interstate 80 [MP 61—Vacaville] |  |  | B, I |
10/28/92 | A23P-2.0-B6H | CR E7/Pedrick Rd. from Interstate 80 [Dixon] to Interstate 5 [Woodland] |  |  | B |
10/28/92 (B) 04/16/92 (I) | A23P-2.0-B6I | Interstate Business 80 from Interstate 80 [west of Sacramento] to US 50/State 99/Interstate Business 80 [east of Sacramento] | Sacramento | Sacramento | B, I |
10/28/92 | A23P-2.0-B6J | State 65 from State 70 [Olivehurst] to Interstate 80 [Roseville] |  |  | B |
10/28/92 | A24P-2.0-B6A | Atlantic Ave. from Main St. to Webster St./State 61 | Alameda | Alameda | B | This route will be considered by the California Highway Patrol for updates in a future rulemaking.
10/28/92 | A24P-2.0-B6F-1.0 | State 113 from Interstate 80 [Dixon] to State 12 [Rio Vista] |  | Solano | B |
10/28/92 | A24P-2.0-B6H-1.0 | State 16 from State 20 [Williams] to CR E7/County Road 98/Pedrick Rd. [Woodland] |  |  | B |
10/28/92 (B) 04/16/92 (I) | A24P-2.0-B6I-1.0 | US 50 from US 50/State 99/Interstate Business 80 [east of Sacramento] to Prairie City Rd [Folsom] |  | Sacramento | B, I |
10/28/92 | A24P-2.0-B6I-2.0 | Interstate Business 80 from US 50/State 99 [east of Sacramento] to Interstate 80 [north of Sacramento] | Sacramento | Sacramento | B |
11/16/94 | A24P-2.0-B6J-1.0 | Old Highway 65/Lincoln Blvd from State 65 [Lincoln] to Riosa Rd. [Sheridan] |  | Placer | B |
10/28/92 | A25P-2.0-B6A | State 61 from Atlantic Ave. to Buena Vista Ave | Alameda | Alameda | B |
10/28/92 | A25P-2.0-B6I-1.0 | US 50 from Prairie City Rd. [Folsom] to Nevada |  |  | B |
10/28/92 | A25P-2.0-B6I-1.0-A | State 16 from US 50 [Sacramento] to State 49 [Plymouth] |  |  | B |
04/16/92 | A25P-2.0-B6I-2.0-A | W. El Camino Ave. from Interstate 80 to El Centro Rd | Sacramento | Sacramento | I | This route will be considered by the California Highway Patrol for updates in a future rulemaking.
11/16/94 | A25P-2.0-B6J-1.0 | Riosa Rd. from State 65 to Old Highway 65/Lincoln Blvd | Sheridan | Placer | B |
10/28/92 | A25P-2.0-B6J-1.0-A | State 193 from State 65 [Lincoln] to Interstate 80 [Newcastle] |  | Placer | B |
10/28/92 | A26P-2.0-B6A | Buena Vista Ave. from Webster St./State 61 to Park St | Alameda | Alameda | B | This route will be considered by the California Highway Patrol for updates in a future rulemaking.
10/28/92 | A27P-2.0-B6A | 23rd Ave. from Park St. [Alameda] to Interstate 880 [Oakland] |  | Alameda | B |
10/28/92 | A27P-2.0-B6A-1.0 | Sherman St. [San Francisco Bay] from Buena Vista Ave. to S.F. Bay [Inner Harbor] | Alameda |  | B | This route will be considered by the California Highway Patrol for update or removal in a future rulemaking.
10/28/92 | A28P-2.0-B6A | Park St. from Buena Vista Ave. [Alameda] to 23rd Ave. [Oakland] |  | Alameda | B | This route will be considered by the California Highway Patrol for updates in a future rulemaking.
10/28/92 | B | Army St. [San Francisco Bay] from 3rd St. to Pier 80 | San Francisco |  | B | This route will be considered by the California Highway Patrol for updates in a future rulemaking.
10/28/92 | C1 | 6th St. [San Francisco Bay] from Channel St. to [southeast] | San Francisco |  | B | This route will be considered by the California Highway Patrol for removal in a future rulemaking.
10/28/92 | C2 | Channel St. from 4th St. to 6th St | San Francisco |  | B | This route will be considered by the California Highway Patrol for removal in a future rulemaking.
10/28/92 | C3 | 4th St. [San Francisco Bay] from 3rd St. to Channel St | San Francisco |  | B | This route will be considered by the California Highway Patrol for removal in a future rulemaking.
10/28/92 | D | Berry St. [San Francisco Bay] from 3rd St. to pier | San Francisco |  | B | This route will be considered by the California Highway Patrol for removal in a future rulemaking.

Table 19—State: Colorado
State Agency: CO State Patrol
POC: Capt. Josh Downing
Address: 15065 South Golden Rd., Golden, CO 80401
Phone: (303) 273-1900
Fax: (303) 273-1911
Web Address: www.colorado.gov/cs/Satellite/StatePatrol-Main/CBON/1251592908196
FMCSA: CO FMCSA Field Office
FMCSA POC: CO Motor Carrier,
Address: Division, Administrator, 12300 West Dakota Ave., Suite 130, Lakewood, CO 80228
Phone: (720) 963-3130
Fax: (720) 963-3131

Table 20—Colorado: Restricted HM Routes
Designation date | Route order | Route description | City | Restriction(s) (0,1,2,3,4,5,6,7,8,9,i)
12/30/86 | A | Interstate 70 from Interstate 25 [at Mile Post 274.039] to State 2 [at Mile Post 276.572] |  | 7
12/30/86 | B | Interstate 70 from Utah to US 40 [at Mile Post 261.63] |  | 7

Table 21—Colorado: Designated HRCQ/RAM Routes
Designation date | Route order | Route description | City | Designation(s) (A,B,I,P)
04/30/89 | A1 | Interstate 25 from Wyoming to New Mexico |  | P
04/30/89 | A2A | Interstate 225 from Interstate 70 to Interstate 25 |  | P
04/30/89 | A2B | Interstate 76 from Interstate 25 to Nebraska |  | P
04/30/08 | A3A | Interstate 270 [Near Denver] from Interstate 25 to Interstate 70 |  | P
04/30/89 | A4A | Interstate 70 from Interstate 270 to Kansas |  | P

Table 22—Colorado—Designated NRHM Routes
Designation date | Route order | Route description | City | Designation(s) (A,B,I,P) | FMCSA QA Comment
04/30/89 | A1 | Interstate 25 from Wyoming to New Mexico |  | A
04/30/89 | A2A | US 160 from New Mexico to Interstate 25 [Business Route in Walsenburg South to Exit 49 on I-25] |  | A
04/30/89 | A2B | State 10 from Interstate 25 [in Walsenburg] to US 50 [in La Junta] |  | A
04/30/89 | A2C | State 47 from Interstate 25 to US 50 [State 96] |  | A
04/30/89 | A2D | US 24 from State 91 [at Leadville] to Interstate 25 [in Colorado Springs] |  | A
04/30/89 | A2E | Interstate 225 from Interstate 70 to Interstate 25 |  | A
04/30/89 | A2F | Interstate 76 from Interstate 25 to Nebraska |  | A
04/30/89 | A2G | US 36 from Interstate 25 to State 157 |  | A
04/30/89 | A2H | US 34 from Interstate 25 to Interstate 76 |  | A
04/30/89 | A2I | State 14 from Interstate 25 to US 6 [in Sterling] |  | A
04/30/89 | A3A-1.0 | State 17 from US 285 [near Mineral Hot Springs] to US 160 [near Alamosa] |  | A
04/30/89 | A3A-2.0 | US 285 from US 160 [in Alamosa] to New Mexico |  | A
04/30/89 | A3A-3.0 | US 285 from State 112 to US 160 |  | A
04/30/89 | A3A-4.0 | State 112 from US 285 to US 160 |  | A
04/30/89 | A3A-5.0 | US 550 from US 160 to New Mexico |  | A
04/30/89 | A3A-6.0 | US 491 from Utah to New Mexico |  | A
04/30/89 | A3D | State 91 from Interstate 70 to US 24 [near Leadville] |  | A
04/30/89 | A3F-1.0 | Interstate 270 [Near Denver] from Interstate 70 to Interstate 76 |  | A
04/30/89 | A3F-2.0 | US 85 from Wyoming to Interstate 76 |  | A
04/30/89 | A3G | State 157 from US 36 to State 119 |  | A
04/30/89 | A3I | US 6 from State 14 [(Main St.) in Sterling] to Nebraska |  | A
04/30/89 | A3I-1.0 | State 71 from Nebraska to State 14 |  | A
04/30/89 | A4A-3.0 | US 285 from State 470 to State 112 |  | A
04/30/89 | A4A-6.0-A | State 141 from US 50 to US 491 |  | A
04/30/89 | A4F-1.0 | Interstate 70 from Interstate 270 to Kansas |  | A
04/30/89 | A4G | State 119 from State 157 to State 52 |  | A
04/30/89 | A4I-1.0 | US 138 from State 113 to US 6 [(Chestnut St.) in Sterling] |  | A
04/30/89 | A5A-3.0-A | State 470 from US 285 to Interstate 70 |  | A | Colorado State Patrol plans to update HM regulation 8 CCR 1507-25 in April 2014 to address an inconsistency with this route. The anticipated route revision is “State 470 from Interstate 70 to Interstate 25.”
04/30/89 | A5A-6.0-A1 | US 50 from State 141 [north junction near Grand Junction] to Kansas |  | A
11/21/11 | A5F-1.0-A | US 36 from Interstate 70 [in Byers] to Kansas |  | A
04/30/89 | A5G | State 52 from State 119 to State 79 |  | A
04/30/89 | A5I-1.0 | State 113 from Nebraska to US 138 |  | A
04/30/89 | A6A-6.0-A1 | State 141 from Interstate 70 [(Business Loop) near Grand Junction] to US 50 |  | A
04/30/89 | A6A-6.0-A1A | State 115 from State 83 (also called Academy Blvd.) to US 50 |  | A
04/30/89 | A6A-6.0-A1B | State 71 from US 24 [in Limon (west junction)] to US 50 [near Rocky Ford] |  | A
04/30/89 | A6A-6.0-A1C | US 287 from US 40 [in Kit Carson] to Oklahoma |  | A
04/30/89 | A6G | State 79 from State 52 to Interstate 70 [at Bennett] |  | A
04/30/89 | A7A-6.0-A1 | Interstate 70 [business loop] from Interstate 70 [east of Grand Junction] to State 141 |  | A
04/30/89 | A7A-6.0-A1A | State 83 (also called Academy Blvd.) from US 24 to State 115 |  | A
04/30/89 | A7A-6.0-A1B | US 24 [Business Route] from US 24 [on the west side of Limon] to State 71 [west junction] |  | A
04/30/89 | A7A-6.0-A1D-1.0 | Maple St. [City of Lamar] from 2nd St. to US 50/287 | Lamar | A
04/30/89 | A7A-6.0-A1D-2.0 | US 40 from Interstate 70 [(Exit 363) in Limon] to Kansas |  | A
04/30/89 | A8A-6.0-A1A | Interstate 70 from Utah to US 6 [at Silverthorne [Loveland Pass] |  | A
04/30/89 | A8A-6.0-A1B | US 24 from State 83 (also called Academy Blvd.) to Interstate 70 [at West Limon (Exit 359)] |  | A
04/30/89 | A8A-6.0-A1D-1.0 | 2nd St. [City of Lamar] from US 50/385 to Maple St. | Lamar | A
04/30/89 | A8A-6.0-A1D-2.0 | US 24 [Business Route] from State 71 [east junction in Limon] to Interstate 70 (Exit 363) |  | A
04/30/89 | A8A-6.0-A1D-2.0-A | US 385 from Interstate 76 [in Julesburg] to US 40 [in Cheyenne Wells] |  | A
04/30/89 | A9A-6.0-A1A | US 6 [Loveland Pass] from Interstate 70 [just east of the Eisenhower/Johnson Tunnels] to [just west of the Eisenhower/Johnson Tunnels at Silverthorne] |  | A
04/30/89 | A9A-6.0-A1A-1.0 | State 139 from State 64 [in Rangely] to Interstate 70 [near Loma] |  | A
04/30/89 | A9A-6.0-A1A-2.0 | US 6 from State 13 [west of Rifle] to Interstate 70 [Exit 87] |  | A
04/30/89 | A9A-6.0-A1A-3.0 | State 9 from US 40 [in Kremmling] to Interstate 70 [in Silverthorne] |  | A
04/30/89 | A9A-6.0-A1D-2.0 | State 71 from State 14 to US 24 [in Limon (east junction)] |  | A
04/30/89 | A10A-6.0-A1A | Interstate 70 from US 6 [east of Loveland Pass] to Interstate 25 |  | A
04/30/89 | A10A-6.0-A1A-1.0-A | State 64 from US 40 [in Dinosaur] to State 13 |  | A
04/30/89 | A10A-6.0-A1A-2.0 | State 13 from US 40 [west of Craig] to US 6 [west of Rifle] |  | A
04/30/89 | A10A-6.0-A1D-2.0-A | US 34 from State 71 [west junction] to Nebraska |  | A
04/30/89 | A11A-6.0-A1A-1.0-A1 | US 40 from Utah to State 13 [west of Craig] |  |
04/30/89 | A11A-6.0-A1A-2.0-A | 1st St. [City of Craig] from State 13 [east] to State 394 [Craig City Limit] | Craig | A
04/30/89 | A12A-6.0-A1A-1.0-A1 | County 7 [Great Divide Rd.] from US 40 to City Limit [City of Craig (north)] |  | A
04/30/89 | A12A-6.0-A1A-2.0-A | 1st. St. [Moffat County Rd. CG 2] from State 394 [Craig City Limit] to US 40 [Runs East from Route 394 to US 40.] |  | A
04/30/89 | A13A-6.0-A1A-1.0-A1 | County 7 [(Great Divide Rd.)] from City Limit [City of Craig (north)] to County 183 [in Moffat County] |  | A
04/30/89 | A13A-6.0-A1A-2.0-A | US 40 from First St. [Moffat County Road CG 2] to Interstate 70 [east of Craig] |  | A
04/30/89 | A14A-6.0-A1A-1.0-A1 | County 183 [Moffat County] from County 7 (Great Divide Rd.) [Moffat County] to State 13 |  | A
04/30/89 | A14A-6.0-A1A-2.0-A1 | State 14 from US 40 to State 125 |  | A
04/30/89 | A14A-6.0-A1A-2.0-A2 | State 125 from Wyoming to US 40 [west of Granby] |  | A
04/30/89 | A15A-6.0-A1A-1.0-A1 | State 13 from Wyoming to Moffat County 183 [North of Craig] |  | A
04/30/89 | A15A-6.0-A1A-2.0-A2 | State 127 from Wyoming to State 125 |  | A

Table 23—State: Connecticut
State Agency: CT Dept. of Env. Protection
POC: Dave Sattler
Address: 79 Elm St., Hartford, CT 06106
Phone: (860) 424-3289
Fax: (860) 424-4059
Web Address: www.ct.gov/dep/site/default.asp
FMCSA: CT FMCSA Field Office, CT Motor Carrier
FMCSA POC: Division Administrator
Address: 628-2 Hebron Ave., Suite 302, Glastonbury, CT 06033
Phone: (860) 659-6700
Fax: (860) 659-6725
No designated or restricted routes as of 01/31/2014

Table 24—State: Delaware
State Agency: DE Emergency Mgmt. Agency
POC: Kevin Kille
Address: 165 Brick Stone Landing Rd., Smyrna, DE 19977
Phone: (302) 659-2237
Fax: (302) 659-6855
Web Address: dema.delaware.gov/
FMCSA: DE FMCSA Field Office
FMCSA POC: DE Motor Carrier, Division Administrator
Address: J. Allen Frear Federal Building, 300 South New St., Suite 1105, Dover, DE 19904
Phone: (302) 734-8173
Fax: (302) 734-5380

Table 25—Delaware: Designated HRCQ/RAM Routes
Designation date | Route order | Route description | Designation(s) (A,B,I,P)
08/09/00 | A1 | Interstate 95 from Maryland to Interstate 495 [southwest of Wilmington] | P
08/09/00 | A2 | Interstate 495 from Interstate 95 [southwest of Wilmington] to Interstate 95 [northeast of Wilmington] | P
08/09/00 | A2A | Interstate 295 from Interstate 95 [Southwest of Wilmington] to New Jersey | P
08/09/00 | A3 | Interstate 95 from Interstate 495 [Northeast of Wilmington] to Pennsylvania | P

Table 26—State: District of Columbia
State Agency: DC Dept. of the Environment
POC: Mary Begin, Toxic Substances Division
Address: 1200 First Street NE., Washington, DC 20002
Phone: (202) 481-3838
Fax: (202) 481-3770
Web Address: green.dc.gov
FMCSA: DC FMCSA Field Office
FMCSA POC: DC Motor Carrier, Division Administrator
Address: 1990 K Street NW., Suite 510, Washington, DC 20006
Phone: (202) 219-3576
Fax: (202) 219-3546

Table 27—District of Columbia: Restricted HM Routes
Designation date | Route order | Route description | Restriction(s) (0,1,2,3,4,5,6,7,8,9,i)
03/08/95 | A | 9th St. Expressway Tunnel from North Portal [at Madison Dr.] to South Portal [south of Independence Ave.] | 0
03/08/95 | B | Interstate 395 Tunnel from South Portal [south of Independence Ave.] to the most northerly portal [at K St.] | 0

Table 28—District of Columbia: Designated NRHM Routes
Designation date | Route order | Route description | Designation(s) (A,B,I,P) | FMCSA QA Comment
03/08/95 | A1 | Interstate 395 from Virginia to Interstate 695 [vicinity of 2nd and E St., SW.] | A |
03/08/95 | A2 | Interstate 695 from Interstate 295 [vicinity of 11th and L St., SE.] to Interstate 395 [vicinity of 2nd and E St., SW.] | A |
03/08/95 | A3 | Interstate 295 from Maryland to Interstate 695 [vicinity of 11th and L St., SE.] | A | According to Google maps, “Anacostia Freeway” is another name for “Interstate 295.” Should both names be included in the route description?
03/08/95 | A3 | Anacostia Fwy from Interstate 295 [11th St. Bridge] to E. Capitol St | A | According to Google maps, “Anacostia Freeway” is also called “Interstate 295.” This route segment appears to be included in the larger route (see Route Order A3). Should this duplicative route be removed?
03/08/95 | B | Kenilworth Ave., NE. from E. Capitol St. to Maryland | A | According to Google maps, “DC 295” IS another name for “Kenilworth Ave., NE.” Should both names be included in the route description?

Table 29—State: Florida
State Agency: FL Dept. of Highway Safety and Motor Vehicles
POC: Artez Lester
Address: 2400 Apalachee Pkwy., Tallahassee, FL 32399
Phone: (850) 617-2287
Fax:
Web Address: www.flhsmv.gov
FMCSA: FL FMCSA Field Office
FMCSA POC: FL Motor Carrier, Division Administrator
Address: 545 John Knox Rd., Room 102, Tallahassee, FL 32303
Phone: (850) 942-9338
Fax: (850) 942-9680

Table 30—Florida: Restricted HM Routes
Designation date | Route order | Route description | City | Restriction(s) (1,2,3,4,5,6,7,8,9,i)
02/14/95 | A | Tampa central business area [Bounded on the east by Ybor Channel, on the west by the Hillsborough River, and on the north by a line running along Scott Street east to Orange Ave., south to Cass St., east to the Seaboard Cost Line Railroad, northeast to Adamo Drive, and on the south by Garrison Channel * State-maintained highways other than Florida Ave. and Kennedy Blvd. are exceptions to this restriction *] |  | 0
02/14/95 | B1 | Kennedy Blvd. [Tampa] from Crosstown Expressway to Hillsborough River [Use Crosstown Expressway to Hyde Park Ave. and Davis Island Exit No. 5 to all points west.] | Tampa | 0
02/14/95 | B2A | Florida Ave. [Tampa] from Crosstown Expressway to Scott Street [Use Crosstown Expressway to 22nd St. North, thence north along 22nd Street to Interstate 4 to either Interstate 275 or points east.] | Tampa | 0

Table 31—State: Georgia
State Agency: GA Dept. of Public Safety
POC: Cpt. Bruce Bugg, Motor Carrier Compliance Div.
Address: 320 Chester Ave. SE., Atlanta, GA 30316
Phone: (404) 463-3880
Fax: (770) 357-8867
Web Address: dps.georgia.gov/
FMCSA: GA FMCSA Field Office
FMCSA POC: GA Motor Carrier, Division Administrator
Address: Two Crown Center, 1745 Phoenix Blvd., Suite 380, Atlanta, GA 30349
Phone: (678) 284-5130
Fax: (678) 284-5146

Table 32—Georgia: Restricted HM routes
Designation date | Route order | Route description | Restriction(s) (0,1,2,3,4,5,6, 7,8,9,i)
03/14/95 | A | Georgia Highway 400 between its origin at I-85 and Exit 2 (Lenox Road/Buckhead Loop), due to a tunnel underneath an office building. The restriction applies to hazardous materials that require placarding. | 0

Table 33—State: Hawaii
State Agency: No Agency Designated
POC:
Address:
Phone:
Fax:
FMCSA: HI FMCSA Field Office
FMCSA POC: HI Motor Carrier
Address: Division Administrator, 300 Ala Moana Blvd., Room 3-239, Box 50226, Honolulu, HI 96850
Phone: (808) 541-2790
Fax: (808) 541-2702
No designated or restricted routes as of 01/31/2014

Table 34—State: Idaho
State Agency: ID State Police
POC: Cpt. Bill Reese
Address: P.O. Box 700, 700 S. Stratford Dr., Meridian, ID 83680
Phone: (208) 884-7220
Fax: (208) 884-7192
Web Address: www.isp.idaho.gov/cvs/index.html
FMCSA: ID FMCSA Field Office
FMCSA POC: ID Motor Carrier
Address: Division Administrator, 3200 N. Lakeharbor Lane, Suite 161, Boise, ID 83703
Phone: (208) 334-1842
Fax: (208) 334-1046

Table 35—Idaho: Designated NRHM routes
Designation date | Route order | Route description | City | County | Designation(s) (A,B,I,P)
01/01/85 | A | US 95 [northbound] from Oregon to Missile Base Road [US Ecology waste site]
|  | Northbound hazardous waste transporters are directed to turn right from US 95 onto Sommer Camp Rd. (STC-3710) to its junction with State 78. Turn right on SH78 to its junction with Missile Base Rd. and follow to the US Ecology waste site | Mountain Home | Elmore | A
01/01/85 | B | Interstate 84 from Exit 99 to Missile Base Rd. [US Ecology waste site] | Mountain Home | Elmore | A
|  | Transporters are to exit at Exit 99 onto I-84 Business Loop (AKA Old Oregon Trail Road & Bennett Road) to its intersection with old US 30 (You will follow I-84B the entire time and go over an overpass. The road names will change). Turn Right and follow Old US 30 and go approximately ¾ mile to Hamilton Rd. Turn right and follow Hamilton for 3 miles and turn south onto State 51 until its junction with State 78. Turn right on SH78 and continue to Grandview. The US Ecology Waste site is approximately 10.5 miles past Grandview. Exit State 78 onto Missile Base Rd. and follow to US Ecology waste site

Table 36—State: Idaho
State Agency: Fort Hall Reservation
POC: Dept. of Public Safety
Address: P.O. Box 306, Fort Hall, ID 83203
Phone: (208) 237-0137
Fax: (208) 237-0049
Web Address: www.shoshonebannocktribes.com
FMCSA: ID FMCSA Field Office
FMCSA POC: ID Motor Carrier, Division Administrator
Address: 3200 N. Lakeharbor Lane, Suite 161, Boise, ID 83703
Phone: (208) 334-1842
Fax: (208) 334-1046

Table 37—Idaho—Designated NRHM routes Designation date
Designation date | Route description | Designation(s) (A,B,I,P)
01/12/95 | C | Interstate 15 [within the Fort Hall Reservation] [Designation by Shoshone-Bannock Tribes. Only valid within Fort Hall Reservation.] | A

Table 38—State: Illinois
State Agency: IL DOT
POC: Tom Wise, Division of Traffic Safety
Address: 1340 North 9th St., P.O. Box 19212, Springfield, IL 62794-9212
Phone: (217) 785-1181
Fax: (217) 782-9159
Web Address: www.dot.state.il.us
FMCSA: IL FMCSA Field Office
FMCSA POC: IL Motor Carrier, Division Administrator
Address: 3250 Executive Park Dr., Springfield, IL 62703
Phone: (217) 492-4608
Fax: (217) 492-4986

Table 39—Illinois: Designated NRHM Routes
Designation date | Route order | Route description | City | County | Designation(s) (A,B,I,P)
02/10/86 | A1 | W. State St. from Meridian Rd. to Kilburn Ave. [Primary Rockford Hazmat route as per City ordinance 1986-18-0 which amended Chapter 11 with Article VII, Division I, Hazardous Materials Routing.] | Rockford | Winnebago | A
02/10/86 | A2A | Springfield—Riverside St. from W. State St. to Interstate 90 [Primary Rockford Hazmat route as per City ordinance 1986-18-0 which amended Chapter 11 with Article VII, Division I, Hazardous Materials Routing.] | Rockford | Winnebago | A
02/10/86 | A2B | S. Pierpont from W. State St. to Montague Rd. [Primary Rockford Hazmat route as per City ordinance 1986-18-0 which amended Chapter 11 with Article VII, Division I, Hazardous Materials Routing.] | Rockford | Winnebago | A
02/10/86 | A2C | Kilburn Ave. from Auburn St. to W. State St. [Primary Rockford Hazmat route as per City ordinance 1986-18-0 which amended Chapter 11 with Article VII, Division I, Hazardous Materials Routing.] | Rockford | Winnebago | A
02/10/86 | A2D | US 20 [Business Route throughout the City of Rockford] [Primary Rockford Hazmat route as per City ordinance 1986-18-0 which amended Chapter 11 with Article VII, Division I, Hazardous Materials Routing.] | Rockford | Winnebago | A
02/10/86 | A3A-1.0 | Auburn St. from Springfield St. to Rock River [Primary Rockford Hazmat route as per City ordinance 1986-18-0 which amended Chapter 11 with Article VII, Division I, Hazardous Materials Routing.] | Rockford | Winnebago | A
02/10/86 | A3A-2.0 | IL251 [throughout the City of Rockford] [Primary Rockford Hazmat route as per City ordinance 1986-18-0 which amended Chapter 11 with Article VII, Division I, Hazardous Materials Routing.] | Rockford | Winnebago | A
02/10/86 | A3A-3.0 | Forest Hills Rd. from N. Second St. to Riverside Blvd. [Primary Rockford Hazmat route as per City ordinance 1986-18-0 which amended Chapter 11 with Article VII, Division I, Hazardous Materials Routing.] | Rockford | Winnebago | A
02/10/86 | A3A-4.0 | Alpine Rd. from Bypass 20 to Riverside Blvd. [There is a section of Alpine Rd. that is an unmarked state highway but it is on the NHS so it should be OK—Primary Rockford Hazmat route as per City ordinance 1986-18-0 which amended Chapter 11 with Article VII, Division I, Hazardous Materials Routing.] | Rockford | Winnebago | A
02/10/86 | A3A-5.0 | Mulford Rd. from Sandy Hollow Rd. to Riverside Blvd. [Primary Rockford Hazmat route as per City ordinance 1986-18-0 which amended Chapter 11 with Article VII, Division I, Hazardous Materials Routing.] | Rockford | Winnebago | A
02/10/86 | A3B | Montague Rd. from S. Pierpont to Bypass 20 [Primary Rockford Hazmat route as per City ordinance 1986-18-0 which amended Chapter 11 with Article VII, Division I, Hazardous Materials Routing.] | Rockford | Winnebago | A
02/10/86 | A3B-1.0 | Preston St. from Tay to S. Pierpont [Primary Rockford Hazmat route as per City ordinance 1986-18-0 which amended Chapter 11 with Article VII, Division I, Hazardous Materials Routing.] | Rockford | Winnebago | A
02/10/86 | A3C-1.0 | Whitman St. from N. Second St. to Kilburn Ave. [Primary Rockford Hazmat route as per City ordinance 1986-18-0 which amended Chapter 11 with Article VII, Division I, Hazardous Materials Routing.] | Rockford | Winnebago | A
02/10/86 | A3D | First Ave. from Kishwaukee St. to Longwood [Primary Rockford Hazmat route as per City ordinance 1986- 18-0 which amended Chapter 11 with Routing.] | Rockford | Winnebago | A
02/10/86 | A4A-1.0-A | N. Main St. from Riverside Blvd. to Auburn St. [Primary Rockford Hazmat route as per City ordinance 1986-18-0 which amended Chapter 11 with Article VII, Division I, Hazardous Materials Routing.] | Rockford | Winnebago | A
02/10/86 | A4A-2.0-A | College Ave. from Rock River to Kishwaukee St. [Primary Rockford Hazmat route as per City ordinance 1986-18-0 which amended Chapter 11 with Article VII, Division I, Hazardous Materials Routing.] | Rockford | Winnebago | A
02/10/86 | A4A-2.0-B | Fifteenth Ave. from S. Main St. to Kishwaukee St. [Primary Rockford Hazmat route as per City ordinance 1986-18-0 which amended Chapter 11 with Article VII, Division I, Hazardous Materials Routing.] | Rockford | Winnebago | A
02/10/86 | A4A-2.0-C | Blackhawk Park from Magnolia St. to Kishwaukee St. [Primary Rockford Hazmat route as per City ordinance 1986-18-0 which amended Chapter 11 with Article VII, Division I, Hazardous Materials Routing.] | Rockford | Winnebago | A
02/10/86 | A4A-2.0-D | Kishwaukee St. from Harrison Ave. to Airport Drive including bypass 20 [Primary Rockford Hazmat route as per City ordinance 1986-18-0 which amended Chapter 11 with Article VII, Division I, Hazardous Materials Routing.] | Rockford | Winnebago | A
02/10/86 | A4A-5.0 | Sandy Hollow Rd. from Kishwaukee St. to Mulford Rd. [Primary Rockford Hazmat route as per City ordinance 1986-18-0 which amended Chapter 11 with Article VII, Division I, Hazardous Materials Routing.] | Rockford | Winnebago | A
02/10/86 | A4B-1.0 | Tay from Cedar St. to Preston St. [Primary Rockford Hazmat route as per City ordinance 1986-18-0 which amended Chapter 11 with Article VII, Division I, Hazardous Materials Routing.] | Rockford | Winnebago | A
02/10/86 | A4B-1.0-A | Central Ave. from Auburn Street to Riverside Blvd. [Primary Rockford Hazmat route as per City ordinance 1986-18-0 which amended Chapter 11 with Article VII, Division I, Hazardous Materials Routing.] | Rockford | Winnebago | A
02/10/86 | A4D-1.0 | Charles St. from East State Street to Alpine Rd. [Primary Rockford Hazmat route as per City ordinance 1986-18-0 which amended Chapter 11 with Article VII, Division I, Hazardous Materials Routing.] | Rockford | Winnebago | A
02/10/86 | A5A-2.0-A | Morgan St. from S. Main St. to Rock River [Primary Rockford Hazmat route as per City ordinance 1986-18-0 which amended Chapter 11 with Article VII, Division I, Hazardous Materials Routing.] | Rockford | Winnebago | A
02/10/86 | A5A-2.0-B1 | Seminary St. from Harrison Ave. Fifteenth Ave. [Primary Rockford Hazmat route as per City ordinance 1986-18-0 which amended Chapter 11, with Article VII, Division 1, Hazardous Materials Routing.] | Rockford | Winnebago | A
02/10/86 | A5A-5.0-A | 20th St. from Sandy Hollow Rd. to 23rd Ave. underpass [Primary Rockford Hazmat route as per City ordinance 1986-18-0 which amended Chapter 11 with Article VII, Division I, Hazardous Materials Routing.] | Rockford | Winnebago | A
02/10/86 | A5B-1.0 | Cedar St. from S. Main St. to Tay [Primary Rockford Hazmat route as per City ordinance 1986-18-0 which amended Chapter 11 with Article VII, Division I, Hazardous Materials Routing.] | Rockford | Winnebago | A
02/10/86 | A5D-1.0-A | E. State St. from Second St. to Interstate 90 [Primary Rockford Hazmat route as per City ordinance 1986-18-0 which amended Chapter 11 with Article VII, Division I, Hazardous Materials Routing.] | Rockford | Winnebago | A
02/10/86 | A6A-2.0-A | S. Main St. from Morgan St. to Bypass 20 [Primary Rockford Hazmat route as per City ordinance 1986-18-0 which amended Chapter 11 with Article VII, Division I, Hazardous Materials Routing.] | Rockford | Winnebago | A
02/10/86 | A6A-5.0-A | 23rd Ave. from 11th St. to 20th St. [Primary Rockford Hazmat route as per City ordinance 1986-18-0 which amended Chapter 11 with Article VII, Division I, Hazardous Materials Routing.] | Rockford | Winnebago | A
02/10/86 | A7A-2.0-A1 | Harrison Ave. from S. Main St. to Mulford Rd. [Primary Rockford Hazmat route as per City ordinance 1986-18-0 which amended Chapter 11 with Article VII, Division I, Hazardous Materials Routing.] | Rockford | Winnebago | A

Table 40—State: Indiana
State Agency: IN DOT
POC: Commissioner Curtis A. Wiley
Address: IN Gov. Center North, 100 N. Senate Ave., Room N755, Indianapolis, IN 46204-2249
Phone: (317) 232-5526
Fax: (317) 232-0238
Web Address: www.in.gov/indot
FMCSA: IN FMCSA Field Office
FMCSA POC: IN Motor Carrier, Division Administrator
Address: 575 N. Pennsylvania St., Room 261, Indianapolis, IN 46204
Phone: (317) 226-7474
Fax: (317) 226-5657

Table 41—Indiana: Restricted HM Routes
Designation date | Route order | Route description | City | Restriction(s) (0,1,2,3,4,5,6,7,8,9,i)
06/19/89 | A1 | Interstate 70 [within Indianapolis I-465 beltway] | Indianapolis | 0
06/19/89 | A2A | Interstate 65 [within Indianapolis I-465 beltway] | Indianapolis | 0

Table 42—Indiana: Designated NRHM Routes
Designation date | Route order | Route description | City | Designation(s) (A,B,I,P)
06/19/89 | A | Interstate 465 [around the city of Indianapolis] | Indianapolis | A

Table 43—State: Iowa
State Agency: IA DOT, Motor Vehicle Enforcement
POC: Maj. Lance Evans
Address: 6310 SE Convenience Blvd., Ankeny, IA 50021
Phone: (515) 237-3214
Fax: (515) 237-3387
Web Address: www.iowadot.gov
FMCSA: IA FMCSA Field Office
FMCSA POC: IA Motor Carrier Division Administrator
Address: 105 6th St., Ames, IA 50010
Phone: (515) 233-7400
Fax: (515) 233-7494

Table 44—Iowa: Designated HRCQ/RAM Routes
Designation date | Route order | Route description | Designation(s) (A,B,I,P)
07/18/88 | A1 | Interstate 680 from Nebraska to Interstate 80 [Use I-680 and I-80 in lieu of I-29 in the Council Bluffs area when heading north/south per 49 CFR 397.103(b). Use I-680 in lieu of I-80 in the Council Bluffs area when heading east/west per IA-NE coordination.] | P
07/18/88 | A2A | Interstate 29 from Missouri to Interstate 80 [I-80 and I-680 are used in lieu of I-29 in the Council Bluffs area when heading North/South per 49 CFR 397.103(b)] | P
07/18/88 | A2B | Interstate 80 from Interstate 29 to Illinois [Use I-280 or I-80 in the Quad cities. Use I-80 in lieu of I-235 in the Des Moines area. Use I-680 in lieu of I-80 in the Council Bluffs area per IA-NE coordination when heading east/west. Use I-80 and I-680 in the Council Bluffs area in lieu of I-29 when heading north/south] | P
07/18/88 | A3B-1.0 | Interstate 680 from Interstate 80 to Interstate 29 [Used in lieu of I-29 in the Council Bluffs area per 49 CFR 397.103(b)] | P
07/18/88 | A3B-2.0 | Interstate 35 from Minnesota to Missouri [Stay on I-35/I-80 in lieu of I-235 in the Des Moines area per 49 CFR 397.103(b)] | P
07/18/88 | A3B-3.0 | Interstate 280 from Interstate 80 to Illinois [Use I-280 or I-80 in Quad cities area.] | P
07/18/88 | A4B-1.0 | Interstate 29 from Nebraska to Interstate 680 [I-80 and I-680 are used in lieu of I-29 in the Council Bluffs area when heading North/South per 49 CFR 397.103(b)] | P

Table 45—State: Kansas
State Agency: KS Div. of Emergency Mgmt.
POC: Harry Heintzelman, Technological Hazards Section
Address: 2800 SW. Topeka Blvd., Topeka, KS 66611.
Phone: (785) 274-1408
Fax: (785) 274-1426
Web Address: www.kansastag.gov/kdem
FMCSA: KS FMCSA Field Office
FMCSA POC: KS Motor Carrier, Division Administrator
Address: 1303 SW. First American Place, Suite 200, Topeka, KS 66604
Phone: (785) 271-1260
Fax: (877) 547-0378
No designated or restricted routes as of 01/31/2014

Table 46—State: Kentucky
State Agency: KY Transportation Cabinet
POC: Brian Bevin
Address: 200 Mero St., Frankfort, KY 40601
Phone: (502) 564-9900 x. 4136
Fax: (502) 564-4138
Web Address: transportation.ky.gov/Pages/default.aspx
FMCSA: KY FMCSA Field Office
FMCSA POC: KY Motor Carrier, Division Administrator
Address: 330 West Broadway, Room 124, Frankfort, KY 40601
Phone: (502) 223-6779
Fax: (502) 223-6767

Table 47—Kentucky: Restricted HM Routes
Designation date | Route order | Route description | Restriction(s) (0,1,2,3,4,5,6,7,8,9,i)
07/15/13 | A | Interstate 75 from Interstate 275 to Ohio | 0

Table 48—Kentucky: Designated NRHM Routes
Designation date | Route order | Route description | Designation(s) (A,B,I,P)
07/15/13 | A | Interstate 275 from Interstate 75 to Ohio | A

Table 49—State: Louisiana
State Agency: LA State Police
POC: Sgt. Brad Yates, Transportation and Environmental Safety Section
Address: P.O. Box 66614, Baton Rouge, LA 70896
Phone: (225) 925-6113
Fax: (225) 925-4048
Web Address: www.lsp.org/tess.html
FMCSA: LA FMCSA Field Office
FMCSA POC: LA Motor Carrier, Division Administrator
Address: 5304 Flanders Drive, Suite A, Baton Rouge, LA 70808
Phone: (225) 757-7640
Fax: (225) 757-7636

Table 50—Louisiana: Restricted HM Routes
Designation date | Route order | Route description | Restriction(s) (0,1,2,3,4,5,6,7,8,9,i)
03/01/95 | A | Tunnel Boulevard Tunnel [in Terrebonne Parish (Houma)] | 0
03/01/95 | B | Harvey Tunnel [of Jefferson Parish on US90-B] | 0
03/01/95 | C | State 73 [In Ascension Parish] from Interstate 10 to State 74 and within 300 yards or less of any building used as a public or private elementary or secondary school except for carriers making local deliveries on this portion of State 73 [R.S. 32:1521 Motor Vehicles—Traffic Regulations] | 0
08/01/99 | D | No carrier shall transport hazardous materials on any route in Caddo or Bossier Parish within three hundred yards or less of any building used as a public or private elementary or secondary school, except for (1) carriers making local pickups or deliveries, (2) carriers using the route to reach a local pickup or delivery point, (3) carriers traveling to or from their terminal facilities, (4) carriers using the route to reach maintenance or service facilities within the boundaries of the parishes, or (5) on prescribed routes [R.S. 32:1521.E and F Motor Vehicles—Traffic Regulations] See http://legis.la.gov/lss/lss.asp?doc=88111 | 0
08/01/99 | E | US 171 from State 3132 to US 80 [R.S. 32:1521 Motor Vehicles—Traffic Regulations] | 0
08/01/99 | F | State 1 from State 526 to Interstate 220 [R.S. 32:1521 Motor Vehicles—Traffic Regulations] | 0
08/01/99 | G | US 71 from Interstate 220 to Interstate 20 [R.S. 32:1521 Motor Vehicles—Traffic Regulations] | 0

Table 51—Louisiana: Designated NRHM Routes
Designation date | Route order | Route description | Designation(s) (A,B,I,P)
08/01/99 | A1 | US 79 from Texas to Interstate 20 [R.S. 32:1521 Caddo-Bossier designated route] | A
08/01/99 | A2A | US 80 from Texas to City of Greenwood [R.S. 32:1521 Caddo-Bossier designated route] | A
08/01/99 | A2B | Interstate 20 from Texas to Caddo-Bossier [parish boundary] [R.S. 32:1521 Caddo-Bossier designated route] | A
08/01/99 | A3B | Interstate 20 from Bossier-Caddo [parish boundary] to Bossier-Webster [parish boundary] [R.S. 32:1521 Caddo-Bossier designated route] | A
08/01/99 | A3B-1.0 | State 526 [R.S. 32:1521 Caddo-Bossier designated route] | A
08/01/99 | A3B-2.0 | Interstate 220 from Bossier-Caddo [parish boundary] to Interstate 20 [R.S. 32:1521 Caddo-Bossier designated route] | A
08/01/99 | A3B-3.0 | State 3132 [R.S. 32:1521 Caddo-Bossier designated route] | A
08/01/99 | A3B-4.0 | Interstate 49 from Caddo-DeSoto [parish boundary] to Interstate 20 [R.S. 32:1521 Caddo-Bossier designated route] | A
08/01/99 | A4B-1.0 | State 3 [Benton Road] from Arkansas to Interstate 20 [R.S. 32:1521 Caddo-Bossier designated route] | A
08/01/99 | A4B-1.0-A | State 1 from Caddo-Red River [parish boundary] to State 526 to State 3132 [R.S. 32:1521 Caddo-Bossier designated route] | A
08/01/99 | A4B-2.0 | US 71 from Bossier-Red River [parish boundary] to Interstate 20 [R.S. 32:1521 Caddo-Bossier designated route] | A
08/01/99 | A4B-2.0-A | State 1 from Interstate 220 to Arkansas [R.S. 32:1521 Caddo-Bossier designated route] | A
08/01/99 | A4B-3.0-A | State 511 [Jimmie Davis Highway] from US 71 to State 3132 [R.S. 32:1521 Caddo-Bossier designated route] | A
08/01/99 | A4B-3.0-B | US 171 from Caddo-DeSoto [parish boundary] to State 3132 [R.S. 32:1521 Caddo-Bossier designated route] | A
08/01/99 | A5B-2.0-A | State 3 from Arkansas to State 3105 [Airline Drive] to US 71 [R.S. 32:1521 Caddo-Bossier designated route | A
08/01/99 | A5B-2.0-A1 | US 71 from Interstate 220 to Arkansas [R.S. 32:1521 Caddo-Bossier designated route] | A
08/01/99 | A5B-2.0-A2 | State 2 from State 1 to Caddo-Bossier [parish boundary] [R.S. 32:1521 Caddo-Bossier designated route] | A
08/01/99 | A6B-2.0-A2 | State 2 from Caddo-Bossier [parish boundary] to Bossier-Webster [parish boundary] [R.S. 32:1521 Caddo-Bossier designated route] | A

Table 52—State: Maine
State Agency: ME State Police
POC: Shawn Currie, Department of Public Safety
Address: 20 State House Station, Augusta, ME 04330
Phone: (207) 624-8938
Fax: (207) 287-5247
Web Address: www.maine.gov/dps/msp/
FMCSA: ME FMCSA Field Office
FMCSA POC: ME Motor Carrier, Division Administrator
Address: Edmund S. Muskie Federal Bldg., 40 Western Ave., Room 411, Augusta, ME 04330
Phone: (207) 622-8358
Fax: (207) 622-8477
No designated or restricted routes as of 01/31/2014

Table 53—State: Maryland
State Agency: MD Trans. Authority Police
POC: 1st Sgt. Joel Layfield
Address: 2301 South Clinton Street, Baltimore, MD 21224
Phone: (410) 575-6955
Fax: (410) 537-1376
FMCSA: MD FMCSA Field Office
FMCSA POC: MD Motor Carrier, Division Administrator
Address: City Crescent Building, 10 S. Howard Street, Suite 2710 Baltimore, MD 21201
Web Address: www.mdta.maryland.gov/Police/policeMain.html
Phone: (410) 962-2889
Fax: (410) 962-3916
State agency is responsible for all HM routes listed in Table 55 and Table 56, except for “J.F.K. Memorial Highway [I-95]” and “Interstate 495”.

Table 54—State: Maryland
State Agency: MD State Highway Admin.
POC: David Czorapinski
Address: Motor Carrier Division, 7491 Connelley Dr., Hanover, MD 21076
Phone: (410) 582-5734
Fax: (410) 787-2863
Web Address: sha.md.gov/Home.aspx
FMCSA: MD FMCSA Field Office
FMCSA POC: MD Motor Carrier, Division Administrator,
Address: City Crescent Building, 10 S. Howard Street, Suite 2710 Baltimore, MD 21201
Phone: (410) 962-2889
Fax: (410) 962-3916
State agency is only responsible for the following HM routes listed in Table 55 and Table 56: “J.F.K. Memorial Highway [I-95]” and “Interstate 495”.

Table 55—Maryland: Restricted HM Routes
Designation date | Route order | Route description | Restriction(s) (0,1,2,3,4,5,6,7,8,9,i)
01/25/80 | A | Harry W. Nice Memorial Bridge [US Route 301] [For specific exemptions to these restrictions, see Title 11 of the Code of MD Regulations, Transportation of Hazardous Materials (11.07.01.05)] | 1,7
01/25/80 | B | William Preston Lane, Jr. Memorial (Bay) Bridge [US 50/301] [For specific exemptions to these restrictions, see Title 11 of the Code of MD Regulations, Transportation of Hazardous Materials (11.07.01.05)] | 1,7
01/25/80 | C | Francis Scott Key Bridge [State 695] [For specific exemptions to these restrictions, see Title 11 of the Code of MD Regulations, Transportation of Hazardous Materials (11.07.01.05)] | 1,7
01/25/80 | D | Baltimore Harbor Tunnel [I-895] [For specific exemptions to this restriction, see Title 11 of the Code of MD Regulations, Transportation of Hazardous Materials (11.07.01.04)] | 0
01/25/80 | E | Fort McHenry Tunnel [I-95] [For specific exemptions to this restriction, see Title 11 of the Code of MD Regulations, Transportation of Hazardous Materials (11.07.01.04)] | 0
01/25/80 | F | J.F.K. Memorial Highway [I-95] | 1,7
01/25/80 | G | Thomas J. Hatem Memorial Bridge [US Route 40] [For specific exemptions to these restrictions, see Title 11 of the Code of MD Regulations, Transportation of Hazardous Materials (11.07.01.05)] | 1,7

Table 56—Maryland: Designated NRHM Routes
Designation date | Route order | Route description | Designation(s) (A,B,I,P)
08/16/95 | A | Interstate 495 [NOTE: Restricts all vehicles carrying hazardous materials to right two lanes.] | A

Table 57—State: Massachusetts
State Agency: MA DOT
POC: Eileen Fenton
Address: 3150 Ten Park Plaza, Boston, MA 02116
Phone: (617) 973-7760
Fax: (617) 973-8037
Web Address: www.massdot.state.ma.us/highway/Main.aspx
FMCSA: MA FMCSA Field Office
FMCSA POC: MA Motor Carrier, Division Administrator
Address: 50 Mall Road, Suite 212, Burlington, MA 01803
Phone: (781) 425-3210
Fax: (781) 425-3225

Table 58—Massachussets: Restricted HM routes
Designation date | Route order | Route description | City | Restriction(s) (0,1,2,3,4,5,6,7,8,9,i)
06/13/12 | A | City of Boston [City Streets in Downtown Area] | Boston | 0
|  | [Use of City Streets in the Downtown Area for the through transportation of ALL NRHM in the City of Boston is prohibited between 6:00 a.m. and 8:00 p.m. where there is neither a point of origin nor destination (delivery point) within the City. For local deliveries within Boston, use of City Streets in the Downtown Area for the transportation of NRHM is further STRICTLY PROHIBITED during the hours of 7:00 a.m. to 9:00 a.m. and 4:00 p.m. to 6:00 p.m. daily, except on Saturdays, Sundays, and legal holidays. When city streets are to be used for local deliveries, the transporter must use Major Thoroughfares to a point as close as possible to the destination and comply with 49 CFR 397.67.]
|  | Downtown Area is defined as the area bounded by and including Massachusetts Avenue at the Mass. Ave. Entrance Ramp to the Southeast Expressway, the Southeast Expressway to the Kneeland Street Ramp, along Kneeland Street to Atlantic Avenue then along a line following the waterfront to the Charles River, along the Charles River to Massachusetts Avenue and along Massachusetts Avenue to the Mass. Ave Entrance Ramp to the Southeast Expressway all as shown on the map attached and incorporated as Exhibit A to the City of Boston's Regulations Controlling the Transportation of Hazardous Materials, issued December 15, 1980.
12/01/95 | B | Interstate 90 from Logan Airport to Massachusetts Avenue | Boston | 0
11/13/94 | C | Interstate 93 [Thomas P. O'Neill Tunnel] from Exit 26 [Leverett Connector] to Kneeland Street | Boston | 0
11/13/94 | D | Callahan Tunnel [Route 1A Northbound under Boston Inner Harbor] | Boston | 0
11/13/94 | E | Sumner Tunnel [Route 1A Southbound under Boston Inner Harbor] | Boston | 0
11/13/94 | F | Charlestown Tunnel/City Square Tunnel from Interstate 93 to Charlestown | Boston | 0

Table 59—Massachussetts: Designated NRHM routes
Designation date | Route order | Route description | City | Designation(s) (A,B,I,P)
06/13/12 | A | [PREFERRED THROUGH ROUTE FOR ALL NRHM HAZMATS APPROACHING THE CITY OF BOSTON WITHOUT A POINT OF ORIGIN OR DESTINATION WITHIN THE CITY BETWEEN THE HOURS OF 6:00 AM AND 8:00 PM] | Boston | A
|  | For vehicles approaching Boston from Quincy and points south, the northbound route starts at Exit 9 on I-93 and continues as follows: Start on I-93 at Exit 9, South on I-93 to its termination at Exit 1 where the roadway continues as I-95N, North on I-95 to Exit 37A to I-93S, South on I-93 to the MA-38 ramp, South on MA-38, South on Maffa Way to Cambridge Street, East on Cambridge Street to Alford Street/MA-99, Northeast on Alford Street/MA-99, End on Alford St./MA-99 Bridge before Everett.
|  | For vehicles approaching Boston from Everett and points north, the southbound route starts on MA-99 Bridge before Everett and continues as follows: Start on Alford Street/MA-99 Bridge just before Everett, Southwest on Alford Street/MA-99, Northwest onto Main Street to Mystic Avenue/MA-38, North on the Mystic Avenue to I-93N ramp, North on I-93 to the I-95S ramp, South on I-95 to Exit 12 where the roadway continues as I-93N, North on I-93, End on I-93 at Exit 9. Hazmat through cargoes approaching from other points west, north or south, may access and join the preferred hazmat route at the nearest logical access point outside of Downtown Boston along I-93N, I-93S or I-95.

Table 59—Massachussetts: Designated NRHM Routes
Designation date | Route order | Route description | City | Designation(s) (A,B,I,P)
06/13/12 | A | [PRESCRIBED THROUGH ROUTE FOR ALL NRHM HAZMATS APPROACHING THE CITY OF BOSTON WITHOUT A POINT OF ORIGIN OR DESTINATION WITHIN THE CITY BETWEEN THE HOURS OF 8:00 PM AND 6:00 AM] | Boston | A
|  | For vehicles approaching Boston from Quincy and points south, the northbound route starts at Exit 9 on I-93 and continues as follows: Start at Exit 9 on I-93, North on I-93, North on I-93 Frontage Road, Northeast on Atlantic Avenue, Northwest onto Cross Street, North on North Washington Street, Northwest on Rutherford Avenue, Northeast on Alford Street/MA-99, End on Alford Street/MA-99 Bridge just before Everett.
|  | For vehicles approaching Boston from Everett and points north, the southbound route starts on MA-99 Bridge before Everett and continues as follows: Start at the Alford Street Bridge/MA-99 just before Everett, Southwest on Alford Street/MA-99, Southeast on Rutherford Avenue, South on North Washington Street, Southwest onto John F. Fitzgerald Surface Road, South on Purchase Street, South on Surface Road, South on Albany Street, South on I-93 Frontage Road, South on I-93.
07/03/06 | B1 | Interstate 93 (north) to Frontage Rd., straight on Atlantic Ave., straight on Cross St., right on North Washington St. (northbound route) | Boston | A
06/19/06 | B2 | New Rutherford Ave. [North] from North Washington St. to Rutherford Ave | Boston | A
06/19/06 | B3 | Rutherford Ave. [North] from New Rutherford Ave. to Main St | Boston | A
06/19/06 | B4 | Main St [North] from Rutherford Ave. to Mystic Ave | Boston | A
06/19/06 | B5 | Mystic Ave. [North] from Main St. to Interstate 93 | Boston | A
06/19/06 | B6 | Interstate 93 [North] from Mystic Ave. out of Boston [North] | Boston | A
06/19/06 | C1 | Interstate 93 [South] into Boston [Southbound] until Sullivan Sq. [Mystic Ave.] | Boston | A
06/19/06 | C2 | Mystic Ave. [South] from Interstate 93 to Maffa Way | Boston | A
06/19/06 | C3 | Maffa Way [South] from Mystic Ave. though roundabout Rutherford Ave | Boston | A
06/19/06 | C4 | Rutherford Ave. [South] from Maffa Way to New Rutherford Ave | Boston | A
06/19/06 | C5 | New Rutherford Ave. [South] from Rutherford Ave. to North Washington St | Boston | A
07/03/06 | C6 | North Washington St. left on John F. Fitzgerald Expressway Surface Rd., right onto Purchase St., straight on John F. Fitzgerald Expressway Surface Rd., straight on Albany St. to Route 93 (southbound route) | Boston | A

Table 60—State: Michigan
State Agency: MI State Police
POC: Sgt. John Holder
Address: 333 South Grand Avenue, P.O. Box 30634, Lansing, MI 48909
Phone: (517) 241-0551
Fax: (517) 241-0501
Web Address: www.michigan.gov/msp/
FMCSA: MI FMCSA Field Office
FMCSA POC: MI Motor Carrier, Division Administrator
Address: 315 West Allegan Street, Room 219, Lansing, MI 48933
Phone: (517) 853-5990
Fax: (517) 377-1868

Table 61—Michigan: Restricted HM Routes
Designation date | Route order | Route description | City | County | Restriction(s) (0,1,2,3,4,5,6,7,8,9,i)
04/02/14 | A | Ambassador Bridge [Detroit] from Porter St. to Canada [Windsor] [Phone (313) 849-5244] | Detroit | Wayne | 1,3,6.2,7,8
04/02/14 | B | State Route M-10/Lodge Freeway [Detroit] from Howard St. to Woodward Ave. [Under Cobo Hall (approximately one mile)] | Detroit | Wayne | 0
04/02/14 | C | Windsor Tunnel [Detroit] from Jefferson Ave. to Canada [Windsor] [Phone: (313) 567-4422] | Detroit | Wayne | 0
04/02/14 | D | State Route M-10/Lodge Freeway [Detroit] from 8 Mile Rd [South] to Wyoming St | Detroit | Wayne | 1,2,3,5,6,8
03/08/95 | E | Blue Water Bridge [I-69] [Port Huron, MI to Sarnia, Ontario. Note: In addition to the listed restrictions, Pyrophoric Liquids prohibited. Contact Michigan Dept. of Transportation for specific restrictions. (810) 984-3131] | Port Huron | St. Clair | 1,5,7,9
01/01/90 | F | Interstate 696 [County of Oakland] from State Route M-10 to Interstate 75 | Royal Oak | Oakland | 1,3
10/03/98 | G | State Route M-59 [Utica] [1.1 mile from either direction of the Mound Rd exit] | Utica | Macomb | 1,3
03/08/95 | H | Mackinac Bridge [I-75] [Mackinac City to St. Ignace. All placarded loads require an escort by the Mackinac Bridge Authority. Phone (906) 643-7600.] | Mackinac—St. Ignace | Emmet | 0
03/08/95 | I | International Bridge [I-75] [All placarded vehicles require an escort. Contact Operations Supervisor at (906) 635-5255 before crossing. Sault Ste. Marie, MI to Sault Ste. Marie, Ontario.] | Saulte St. Marie | Chippewa | 0

Table 62—State: Minnesota
State Agency: MN DOT
POC: Jim Fox
Address: Oakdale Bridge Office, 3485 Hadley Avenue North, Oakdale, MN 55128
Phone: (651) 215-6330
Fax: (651) 366-4497
Web Address: www.dot.state.mn.us
FMCSA: MN FMCSA Field Office
FMCSA POC: MN Motor Carrier Division Administrator
Address: 380 Jackson Street, Galtier Plaza, Suite 500, St. Paul, MN 55101
Phone: (612) 291-6150
Fax: (651) 291-6001

Table 63—Minnesota: Restricted HM Routes
Designation date | Route order | Route description | Restriction(s) (0,1,2,3,4,5,6,7,8,9,i)
03/09/95 | A | Lowry Hill Tunnel [I-94] [Restricted from all hazardous material requiring the vehicle to be marked or placarded. Marked or Placarded trucks should follow signed hazmat truck routes around the tunnel.] | 0

Table 64—State: Mississippi
State Agency: MS Emergency Mgmt. Agency
POC: Brian Maske
Address: 1 Mema Dr., Pearl, MS 39208
Phone: (601) 933-6369
Fax: (601) 933-6815
Web Address: www.msema.org
FMCSA: MS FMCSA Field Office
FMCSA POC: MS Motor Carrier Division Administrator
Address: 100 West Capitol St., Suite 1049, Jackson, MS 39269
Phone: (601) 965-4219
Fax: (601) 965-4674
No designated or restricted routes as of 01/31/2014

Table 65—State: Missouri
State Agency: No Agency Designated
POC:
Address:
Phone:
Fax:
FMCSA: MO FMCSA Field Office
FMCSA POC: MO Motor Carrier, Division Administrator
Address: 3219 Emerald Lane, Suite 500, Jefferson City, MO 65109
Phone: (573) 636-3246
Fax: (573) 636-8901
No designated or restricted routes as of 01/31/2014

Table 66—State: Montana
State Agency: MT DOT
POC: Dan Kiely
Address: 2701 Prospect Avenue, Helena, MT 59604
Phone: (406) 444-7629
Fax: (406) 444-0800
Web Address: www.mdt.mt.gov
FMCSA: MT FMCSA Field Office
FMCSA POC: MT Motor Carrier, Division Administrator
Address: 2880 Skyway Drive, Helena, MT 59602
Phone: (406) 449-5304
Fax: (406) 449-5318
No designated or restricted routes as of 01/31/2014

Table 67—Montana: Yellowstone National Park
NPS: Yellowstone National Park, NPS
NPS POC: Park Superintendent
Address: Yellowstone National Park, PO Box 168, Yellowstone National Park, WY 82190-0168
Phone: (307) 344-2115
Fax: (307) 344-2014
Web Address: www.nps.gov/yell/index.htm
FMCSA: MT FMCSA Field Office
FMCSA POC: MT Motor Carrier, Division Administrator
Address: 2880 Skyway Drive, Helena, MT 59602
Phone: (406) 449-5304
Fax: (406) 449-5318

Table 68—Montana (Yellowstone National Park): Restricted HM Routes
Designation date | Route order | Route description | Restriction(s) (0,1,2,3,4,5,6,7,8,9,i)
09/26/94 | A | US 191 from Mile Post 11 to Mile Post 31 [through Yellowstone National Park] [This route is under the jurisdiction of the U.S. National Park Service, not the State of Montana. For additional information, contact the Yellowstone Visitor Services Office at (307) 344-2115.] | 0

Table 69—State: Nebraska
State Agency: NE State Patrol
POC: Sgt. Brad Wagner
Address: 3920 West Kearney Street, Lincoln, NE 68524
Phone: (402) 479-4950
Fax: (402) 479-4002
Web Address: www.statepatrol.nebraska.gov
FMCSA: NE FMCSA Field Office
FMCSA POC: NE Motor Carrier, Division Administrator
Address: 100 Centennial Mall North, Room 406, Lincoln, NE 68508
Phone: (402) 437-5986
Fax: (402) 437-5837

Table 70—Nebraska: Designated HRCQ/RAM Routes
Designation date | Route order | Route description | Restriction(s) (A,B,I,P)
08/03/88 | A | Interstate 680 from Interstate 80 to Iowa [Use in lieu of I-80 in the Omaha area.] | P

Table 71—State: Nevada
State Agency: No Agency Designated
POC:
Address:
Phone:
Fax:
FMCSA: NV FMCSA Field Office
FMCSA POC: NV Motor Carrier, Division Administrator
Address: 705 N. Plaza St., Suite 204, Carson City, NV 89701
Phone: (775) 687-5335
Fax: (775) 687-8353
No designated or restricted routes as of 01/31/2014

Table 72—State: New Hampshire
State Agency: NH Dept. of Safety
POC: Sgt. John P. Begin, State Police—Troop G
Address: 33 Hazen Dr., Concord, NH 03305
Phone: (603) 223-8778
Fax: (603) 271-1760
Web Address: www.nh.gov/safety/
FMCSA: NH FMCSA Field Office
FMCSA POC: NH Motor Carrier, Division Administrator
Address: 70 Commercial St., Suite 102, Concord, NH 03301
Phone: (603) 228-3112
Fax: (603) 223-0390
No designated or restricted routes as of 01/31/2014

Table 73—State: New Jersey
State Agency: NJ State Police
POC: Lt. Lance Tokash
Address: 3925 US Route 1, Princeton, NJ 08540
Phone: (609) 452-2601 ext. 5913
Fax: (609) 452-8495
Web Address: www.njsp.org
FMCSA: NJ FMCSA Field Office
FMCSA POC: NJ Motor Carrier, Division Administrator
Address: One Independence Way, Suite 120, Princeton, NJ 08540
Phone: (609) 275-2604
Fax: (609) 275-5108
No designated or restricted routes as of 01/31/2014

Table 74—State: New Mexico
State Agency: NM Dept. of Homeland Security & Emergency Mgmt.
POC: Don Shainin
Address: P.O. Box 27111, Santa Fe, NM 87502
Phone: (505) 476-9628
Fax: (505) 476-9695
Web Address: www.nmdhsem.org
FMCSA: NM FMCSA Field Office
FMCSA POC: NM Motor Carrier Division Administrator
Address: 2400 Louisiana Blvd. NE., Suite 520, Albuquerque, NM 87110
Phone: (505) 346-7858
Fax: (505) 346-7859

Table 75—New Mexico: Designated HRCQ/RAM Routes
Designation date | Route order | Route description | City | Designation(s) (A,B,I,P)
04/30/99 | A | Southern Route to WIPP facility: From the Texas-New Mexico border [MP 0.000] north on US 285 through Loving to the Junction on US 285 and US 62/180 [MP 31.180] in Carlsbad; east on US 62/180 to the WIPP north access road [MP 64.857]. |  | P
|  | If and when a south Carlsbad Relief Route is available, it shall be used instead of the route through the city. Currently posted “truck routes” shall not be used
|  | Note: This designation is based on 18 NMAC 20.9 (Designation of Highway Routes for the Transport of Radioactive Materials).
01/01/14 | B | Negotiated Alternate Route A to WIPP facility: An alternate Southern Route departing US 285 at the inspection point west of Loving, traveling north on NM 31 to the junction with NM 128 (also known as the Jal Highway), proceeding east on NM 128 to the South Access Road, north on the South Access Road, terminating at the WIPP facility (reduces the designated route length by approximately 25 miles). |  | P
|  | [Shall terminate on or before 12/31/2014, unless earlier terminated by 30-day written notice.]
01/01/14 | C | Negotiated Alternate Route B to WIPP facility: An alternate Southern Route beginning at the TX/NM border on Interstate 20 at Big Spring, TX, proceeding west on TX/NM 176 to the junction with NM 18, continuing south on NM 18 to Jal, NM and turning west on NM 128 to the WIPP South Access Road, terminating at the WIPP facility (reduces the designated route length by approximately 93 miles). |  | P
|  | [Shall terminate on or before 12/31/2014, unless earlier terminated by 30-day written notice.]
04/30/99 | D | Western Route to WIPP facility: From the Arizona-New Mexico border [MP 0.000] east on I-40 through Gallup, Thoreau, Grants, Albuquerque and Moriarty to the junction of I-40 and US 285 [MP 218.128], Exit 218 at Clines Corners; south on US 285 through Encino, Vaughn, Roswell (along the Roswell Relief Route) [MP 119.930] and Artesia to the junction of US 285 and NM 200 North of Carlsbad [38.940] East on NM 200 (Carlsbad Relief Route) to the Junction of US 62/180 east of Carlsbad [38.789], east on US 62/180 to the WIPP north access road [MP 64.652]. |  | P
|  | Relief Routes are available; they shall be used instead of the route through each respective city. Currently posted “truck routes” shall not be used.
|  | Note: This designation is based on 18 NMAC 20.9 (Designation of Highway Routes for the Transport of Radioactive Materials).
04/30/99 | E | Los Alamos National Laboratory to WIPP facility: From the Los Alamos National Laboratory in Los Alamos County Tech Area 54, [MP 0.000] east on the Los Alamos Truck Route to the junction of the Los Alamos Truck Route and NM 4; east on NM 4 to the junction of NM 4 and NM 502; [MP 68.186] east on NM 502 to the junction of NM 502 [18.081] and US 84/285 at Pojoaque; south on US 84/285 [MP 181.251] to the junction of US 84/285 and NM 599; [MP 167.443] south on NM 599 to the junction of NM 599 and I-25; north on I-25 to the junction of I-25 and US 285 [MP 292.185], Exit 290]; south on US 285 through Clines Corners, Encino, Vaughn, Roswell (along the Roswell Relief Route) and Artesia to the junction of US 285 and NM 200 North of Carlsbad [38.940] East on (NM 200 Carlsbad Relief Route) to the Junction of US 62/180 east of Carlsbad [38.789], east on US 62/180 to the WIPP north access. |  | P
|  | Relief Routes are available; they shall be used instead of the route through each respective city. Currently posted “truck routes” shall not be used, except for the Los Alamos Truck Route as stated above.
|  | Note: This designation is based on 18 NMAC 20.9 (Designation of Highway Routes for the Transport of Radioactive Materials).
04/30/99 | F | Northern Route to WIPP facility: From the Colorado-New Mexico border [MP 462.124] south on I-25 through Raton, Springer, and Las Vegas to the junction of I-25 and US 285 [MP292.185], Exit 290 near Santa Fe; south on US 285 through Clines Corners, Encino, Vaughn, Roswell (along the Roswell Relief Route) [MP 119.930] and Artesia to the junction of US 285 and NM 200 North of Carlsbad [38.940] East on NM 200 (Carlsbad Relief Route) to the Junction of US 62/180 east of Carlsbad [38.789], east on US 62/180 to the WIPP north access road [MP 64.652]. |  | P
|  | Relief Routes are available; they shall be used instead of the route through each respective city. Currently posted “truck routes” shall not be used.
|  | Note: This designation is based on 18 NMAC 20.9 (Designation of Highway Routes for the Transport of Radioactive Materials).
01/01/14 | G | Negotiated Alternate Route C to WIPP Facility: An alternate Northern Route departing US 285 at the intersection of the WIPP Relief Route (also known as the Loop Road) north of Carlsbad traveling east to the junction of US 62/180, continuing east on US 62/180 to NM 31, which heads south to NM 128, and then proceeding east on NM 128 to the South Access Road, terminating at the WIPP site (increases the designated route length by approximately 10 miles). |  | P
|  | [Shall terminate on or before 12/31/2014, unless earlier terminated by 30-day written notice.]
04/30/99 | H | Eastern Route to WIPP facility: From the Texas-New Mexico border [MP 373.530] west on I-40 through Tucumcari to the junction of I-40 and US 54 [MP 276.836], Exit 275 at Santa Rosa; west on US 54 through Pastura to the junction of US 54 and US 285 at Vaughn; south on US 285 through Roswell (along the Roswell Relief Route) [MP 119.930] and Artesia to the junction of US 285 and NM 200 North of Carlsbad [38.940] East on (NM 200 Carlsbad Relief Route) to the Junction of US 62/180 east of Carlsbad [38.789], east on US 62/180 to the WIPP north access road [MP 64.857]. |  | P
|  | Relief Routes are available; they shall be used instead of the route through each respective city. Currently posted “truck routes” shall not be used.
|  | Note: This designation is based on 18 NMAC 20.9 (Designation of Highway Routes for the Transport of Radioactive Materials). |  |

Table 76—New Mexico: Designated NRHM routes
Designation date | Route order | Route description | City | Designation(s) (A,B,I,P)
02/18/91 | A1 | Interstate 10 [within Las Cruces city Limits] | Las Cruces | A
02/18/91 | A2 | Interstate 25 [within Las Cruces city Limits] | Las Cruces | A
02/18/91 | A3A | US 70 from East City Limits [Las Cruces near Organ] to Interstate 25 | Las Cruces | A

Table 77—State: New York
State Agency: New York City Fire Dept.
POC: Sandy Camacho, Bureau of Operations
Address: 9 Metro Tech Center, Brooklyn, NY 11201
Phone: (718) 999-2464
Fax:
Web Address: www.nyc.gov/html/fdny/html/home2.shtml
FMCSA: NY FMCSA Field Office
FMCSA POC: NY Motor Carrier, Division Administrator
Address: Leo W. O'Brien Federal Bldg. Clinton Avenue & N. Pearl St., Albany, NY 12207
Phone: (518) 431-4145
Fax: (518) 431-4140
Note: New York City Fire Department already established a specific route ordering approach for designated NRHM routes (i.e., NYC Route 1, NYC Route 2, etc.). As a result, FMCSA chose not to include an FMCSA route order column in Table 79.

Table 78—New York: Restricted HM Routes
Designation date | Route order | Route description | City | County | Restriction(s) (0,1,2,3,4,5,6,7,8,9,i)
01/06/95 | A | City of New York Hazmat Restrictions [For shipments of Hazardous Cargo through the City without pickup or delivery within the City, to piers, airports, and shipping terminals, hazardous cargo transportation prohibited by City, State, Federal law or regulation shall not be permitted to enter or pass through New York City, except where specifically authorized by authorized governmental agencies and the Fire Commissioner. Such shipments shall conform to routes, times, and safety conditions specified by the Fire Commissioner. (Such designated routes are listed here in the FMCSA National Hazardous Material Route Registry.) | New York | All | 0
|  | Motor Vehicles conforming to Fire Department specifications and under Fire Department permit may be used to transport allowable Hazardous Cargo in accordance with Chapter 4 of Title 27 Administrative Code and the rules and regulations of the Fire Commissioner without conformance to the routing, time, escorts, and other restrictions and such “permitted” vehicles must be used for deliveries for storage and/or use or for pickup in the City
|  | Hazardous cargo shipments shall transit the City only during non-rush hours. Shipments of explosives are permitted only during daylight hours, except that shipments at night may be allowed in individual cases for escorted shipments as pursuant to Administrative Code 27-4019(b). Times for shipments are as follows:
|  | Monday through Friday: For explosives, and prohibited materials for which specific permission has been given by Fire Department: 10:00 a.m. to 3:00 p.m. and 7:00 p.m. to 6:00 a.m. For all other -hazardous cargo: 9:00 a.m. to 4:00 p.m. and -6:00 p.m. to 7:00 a.m. Saturday, Sunday, and Holidays: As traffic conditions permit, consistent with the rules and regulations of government agencies and/or authorities having jurisdiction.]
01/06/95 | B | Verrazano Bridge [Contact the FDNY (718) 403-1580 for more information.] | New York (Staten Island & Brooklyn) | Richmond & King

Table 79—New York: Designated NRHM Routes
Designation date | Route description | City | County | Designation(s) (A,B,I,P)
01/06/95 | City of New York Escort Rendezvous Points [Escorts by a fully manned fire department engine company shall be required for all permitted Class “A“, Class “B“, and Class “C” explosives (over 50 pounds in weight) from point of entry into the City until its exit from the City pursuant to 27-4034(j) Administrative Code of the City of New York. The fire commissioner reserves the right to require escorts for any hazardous cargo shipment when he deems necessary. Notification of arrival of explosives shipments shall be made 48 hours in advance by calling the notification desk in the chief of department's office (718) 403-1580 | New York | All | B
| Shipments from North Shore Long Island: Meet at safety area of Westbound Long Island Expressway (I-495) on the right side between Lakeville Road and Little Neck Parkway
| Shipments from South Shore Long Island: Meet at northwest corner of intersection of Sunrise Highway (State 27) between Hook Creek Blvd. and 246th Street
| From Upstate New York or New England via New England Thruway (I-95): exit at Connors Street exit, proceed on New England Thruway Service Road to Connors Street to meet Fire Department escort
| From Upstate New York and New England via New York Thruway (I-87): exit into Service Area of Major Deegan Expressway located between Westchester County line and the East 233rd street exit of the expressway, to meet Fire Department escort
| From NJ via Goethals, Bayonne, Outerbridge Crossing, and George Washington Bridges: Meet at Adm. Bldg—Toll Plaza
| From J.F.K. International Airport: Meet in front of the Major Robert Fitzgerald Building #111 on the inbound service road of the Federal Circle
| From LaGuardia Airport: Meet at Marine Air Terminal P.A.N.Y.N.J. Police Building, entering at 82nd Street entrance to LaGuardia Airport.]
01/06/95 | NYC Route 1: From NJ to western Westchester County and upstate New York [George Washington Bridge (upper level) to Washington Expressway (without detour on City streets) via the Alexander Hamilton Bridge to the Major Deegan Expressway to New York Thruway (I-87) | Washington Heights | New York & Westchester | A
| Note: Reverse routing permitted. Rendezvous with escort if required.]
01/06/95 | NYC Route 2: From NJ to eastern Westchester County, upstate New York, and New England [George Washington Bridge (upper level) to Washington Expressway (without detour on City streets) via the Alexander Hamilton Bridge directly to Cross Bronx Expressway (I-95) to Bruckner Interchange, continue on Bruckner Expressway to New England Thruway (I-95) |  | New York & Westchester | A
| Note: Reverse routing permitted. Rendezvous with escort if required.]
01/06/95 | NYC Route 3: From NJ to Nassau and Suffolk Counties [NYC Route 3(i): George Washington Bridge (upper level) via Washington Expressway (without detour on City streets) via the Alexander Hamilton Bridge directly to Cross Bronx Expressway (I-95), east on Cross Bronx Expressway (I-95) to Throgs Neck Bridge, south across Throgs Neck Bridge to Clearview Expressway (I-295) to Long Island Expressway, east on Long Island Expressway (I-495) to Nassau and/or Suffolk Counties |  | Nassau & Suffolk | A
| NYC Route 3(ii): Use either NYC Route 3(ii)A, 3(ii)B, or 3(ii)C THEN, East on Staten Island Expressway (I-278) to Verrazano Bridge, cross upper level of Verrazano Bridge to Brooklyn Queens Expressway (I-278), then east on Brooklyn Queens Expressway (I-278) to Long Island Expressway (I-495), then east on Long Island Expressway (I-495) to Nassau and/or Suffolk Counties
| NYC Route 3(ii)A: Outerbridge crossing to West Shore Expressway, North on West Shore Expressway (State 440) to Staten Island Expressway (I-278)
| NYC Route 3(ii)B: Bayonne Bridge to Willowbrook Expressway (State 440) south to Staten Island Expressway (I-278)
| NYC Route 3(ii)C: Goethals Bridge to Staten Island Expressway (I-278)
| Note: Reverse routing permitted. Rendezvous with escort if required. Hazardous cargo requiring escort (i.e. explosives) shall use route via George Washington Bridge only to minimize travel time within the city. Explosives are prohibited on Verrazano Bridge.]
01/06/95 | NYC Route 4: From Upstate NY or New England to Nassau and Suffolk Counties [NYC Route 4(i): New England Thruway (I-95) (to Connors Street exit to meet escort if required), to Bruckner Expressway (I-95) to Throgs Neck Expressway (I-295), to Throgs Neck Bridge, to Clearview Expressway (I-295), to Long Island Expressway (I-495), east on Long Island Expressway to City Line |  | Nassau & Suffolk | A
| NYC Route 4(ii): New York State Thruway (I-87) south to Major Deegan Expressway (I-87), to Cross Bronx Expressway (I-95), east to Bruckner Expressway (I-278) to Throgs Neck Bridge, to Clearview Expressway (I-295), to Long Island Expressway (I-495), east on Long Island Expressway to City Line
| Note: See NYC Route 25 for alternate routes. Reverse routing permitted. Rendezvous with escort if required.]
01/06/95 | NYC Route 5: From NJ to LaGuardia Airport via Goethals Bridge [Goethals Bridge to Staten Island Expressway (I-278) to Verrazano Narrows Bridge (upper level) to Brooklyn Queens Expressway (I-278) to Astoria Blvd. (exit 39), east to 82nd Street then north on 82nd Street to LaGuardia Airport |  |  | A
| Note: Reverse routing permitted. Rendezvous with escort if required. Explosives prohibited on Verrazano Bridge.]
01/06/95 | NYC Route 6: From NJ to LaGuardia Airport via Outerbridge Crossing [Outerbridge Crossing to West Shore Expressway (State 440) to Staten Island Expressway (I-278) east to Verrazano Narrows Bridge (upper level) to Brooklyn Queens Expressway (I-278) to Astoria Blvd. (exit 39), east to 82nd Street then north on 82nd Street to LaGuardia Airport |  |  | A
| Note: Reverse routing permitted. Rendezvous with escort if required. Explosives prohibited on Verrazano Bridge.]
01/06/95 | NYC Route 7: From NJ to LaGuardia Airport via George Washington Bridge [George Washington Bridge (upper level) via Washington Expressway (without detour on City streets) via the Alexander Hamilton Bridge directly to Cross Bronx Expressway (I-95), east on Cross Bronx Expressway (I-95) to Throgs Neck Bridge, south across Throgs Neck Bridge to Clearview Expressway (I-295) to Long Island Expressway (I-495), west on L.I.E. (I-495) to Van Wyck Expressway (I-678), north on Van Wyck Expressway (I-678) to Northern Blvd. (25A), west on Northern Blvd. to Astoria Blvd. West on Astoria Blvd to 82nd Street, north on 82nd Street to LaGuardia Airport |  |  | A
| Note: See NYC Route 25 for alternate routes. Reverse routing permitted. Rendezvous with escort if required.]
01/06/95 | NYC Route 8: From Long Island to LaGuardia Airport [NYC Route 8(i): Long Island Expressway (I-495) West to Van Wyck Expressway (I-678), North to Northern Blvd. (25-A), West to Astoria Blvd., Astoria Blvd. to 82nd Street, North on 82nd Street to LaGuardia Airport |  |  | A
| NYC Route 8(ii): Long Island Expressway (I-495) West to Brooklyn Queens Expressway (I-278) East to Astoria Blvd. (Exit 39) East to 82nd Street, North on 82nd to LaGuardia Airport
| NYC Route 8(iii): West on Sunrise Highway (State 27) to North Conduit Blvd. to Van Wyck Expressway (I-678), North on Van Wyck Expressway (I-678) to Northern Blvd. (25-A), West to Astoria Blvd., Astoria Blvd. to 82nd Street, North on 82nd Street to LaGuardia Airport
| NYC Route 8(iv): West on Sunrise Highway (State 27) to North Conduit Blvd. to Van Wyck Expressway (I-678), North on Van Wyck Expressway (I-678) to Long Island Expressway (I-495), West to Brooklyn Queens Expressway (I-278), East to Astoria Blvd. (Exit 39), East to 82nd Street, North on 82nd Street to LaGuardia Airport
| Note: Reverse routing permitted. Rendezvous for escort if required.]
01/06/95 | NYC Route 9: From New England or upper New York State to LaGaurdia Airport [NYC Route 9(i): New England Thruway (I-95) south take to LaGuardia Airport (to Connors Street exit to meet escort, if required), to Bruckner Expressway (I-95) to Throgs Neck Expressway (I-295), via Throgs Neck Bridge to Clearview Expressway (I-295) to Long Island Expressway (I-495), west to Brooklyn Queens Expressway (I-278) east, to Astoria Blvd. (exit 39), east to 82nd Street, then north on 82nd Street to LaGuardia Airport |  |  | A
| NYC Route 9(ii): New York State Thruway (I-87) south to Major Deegan Expressway (I-87) to Cross Bronx Expressway (I-95) east to Bruckner Expressway (I-278) to Throgs Neck Bridge, to Clearview Expressway (I-295), to Long Island Expressway (I-495) west, to Brooklyn Queens Expressway (I-278) east, to Astoria Blvd. (Exit 39), east to 82nd Street, then north on 82nd Street to LaGuardia Airport
| Note: See NYC Route 25 for alternate routes. Reverse routing permitted. Rendezvous with escort if required.]
01/06/95 | NYC Route 10: From New Jersey to J.F.K. International Airport via Goethals Bridge [From New Jersey via Goethals Bridge to Staten Island Expressway (I-278) to Verrazano-Narrows Bridge (upper level), Brooklyn Queens Expressway (I-278) east to Long Island Expressway (I-495), east to Van Wyck Expressway (I-678), south on Van Wyck Expressway (I-678) to J.F.K. International Airport |  |  | A
| Note: Reverse routing permitted. Rendezvous with escort if required. Explosives prohibited on Verrazano Bridge.]
01/06/95 | NYC Route 11: From New Jersey to J.F.K. International Airport via Outerbridge Crossing [From New Jersey via Outerbridge Crossing to West Shore Expressway (State 440) to Staten Island Expressway (I-278) to Verrazano-Narrows Bridge (upper level), to Brooklyn Queens Expressway east (I-278) to Long Island Expressway (I-495), East on Long Island Expressway (I-495) to Van Wyck Expressway (I-678), South on Van Wyck Expressway (I-678) to J.F.K. International Airport |  |  | A
| Note: Reverse routing permitted. Rendezvous with escort if required. Explosives prohibited on Verrazano Bridge.]
01/06/95 | NYC Route 12: From New Jersey to J.F.K. International Airport via George Washington Bridge (upper level) [From New Jersey via George Washington Bridge (upper level), via Washington Expressway (without detouring onto City streets) via the Alexander Hamilton Bridge directly to Cross Bronx Expressway (I-95), east on Cross Bronx Expressway (I-95), to Throgs Neck Bridge, south across Throgs Neck Bridge to Clearview Expressway (I-295) to Long Island Expressway (I-495), west to Van Wyck Expressway (I-678), south on Van Wyck Expressway (I-678) to J.F.K. International Airport |  |  | A
| Note: See NYC Route 25 for alternate routes. Reverse routing permitted. Rendezvous with escort if required.]
01/06/95 | NYC Route 13: From New England and upper New York State to J.F.K. International Airport [NYC Route 13(i): New England Thruway (I-95), south (to Connors Street exit to meet escort, if required) to Bruckner Expressway (I-95), to Throgs Neck Expressway (I-295), via Throgs Neck Bridge to Clearview Expressway (I-295), to Long Island Expressway (I-495) west on Long Island Expressway (I-495) to Van Wyck Expressway (I-678), south on Van Wyck Expressway (I-678), to J.F.K. International Airport |  |  | A
| NYC Route 13(ii): New York State Thruway (I-87) south to Major Deegan Expressway (I-87) to Cross Bronx Expressway (I-95), east to Bruckner Expressway (I-278) to Throgs Neck Bridge, to Clearview Expressway (I-295) to L.I. Expressway (I-495) west to Van Wyck Expressway (I-678), south on Van Wyck Expressway (I-678) to J.F.K. Airport
| Note: See NYC Route 25 for alternate routes. Reverse routing permitted. Rendezvous with escort if required.]
01/06/95 | NYC Route 14: From Long Island to J.F.K. International Airport [NYC Route 14(i): West on Long Island Expressway (I-495) to Van Wyck Expressway (I-676), south on Van Wyck Expressway (I-678) to J.F.K. International Airport |  |  | A
| NYC Route 14(ii): West on Sunrise Highway (State 27) to North Conduit Blvd. to Van Wyck Expressway (I-678), south on Van Wyck Expressway (I-678) to J.F.K. International Airport
| NYC Route 14(iii): West on Sunrise Highway (State 27) to North Conduit Blvd. to Rockaway Blvd., or 150th Street, to J.F.K. International Airport
| Note: Reverse routing permitted. Rendezvous with escort if required.]
01/06/95 | NYC Route 15: From New Jersey to Staten Island Piers [NYC Route 15(i): From New Jersey via Bayonne Bridge Plaza via Willowbrook Expressway (State 440) to Staten Island Expressway (I-278), west on Staten Island Expressway to Western Avenue, north on Western Avenue to Richmond Terrace, east on Richmond Terrace to Northside Piers, or Staten Island Expressway, east to Bay Street Exit, then local streets to east side piers |  |  | A
| NYC Route 15(ii): From Goethals Bridge Plaza via Staten Island Expressway (I-278) to Forest Avenue, north on Forest Avenue to Goethals Road North, west on Goethals Road North to Western Avenue, north on Western Avenue to Northside Piers, or Staten Island Expressway east to Bay Street exit, then local streets to east side piers
| NYC Route 15(iii): From Outerbridge Crossing via West Shore Expressway (State 440) and Staten Island Expressway (I-278), west on Staten Island Expressway to Western Avenue, north on Western Avenue to Richmond Terrace, then local streets for Northside piers, or Staten Island Expressway east to Bay Street exit, then local streets to east side piers
| Note: Reverse routing permitted. Rendezvous with escort if required.]
01/06/95 | NYC Route 16: From New Jersey to Brooklyn Piers [NYC Route 16(i): From Bayonne Bridge, south via Willowbrook Expressway (State 440) to Staten Island Expressway (I-278), east to Verrazano-Narrows Bridge (upper level) to Brooklyn Queens Expressway (I-278), east on Brooklyn Queens Expressway (I-278), east on Brooklyn Queens Expressway (I-278) to nearest exit to location of pier then local streets to pier |  |  | A
| NYC Route 16(ii): From New Jersey via Goethals Bridge to Staten Island Expressway (I-278) to Verrazano-Narrows Bridge (upper level), to Brooklyn Queens Expressway (I-278), east on Brooklyn Queens Expressway (I-278) to nearest exit to location of pier then local streets to pier
| NYC Route 16(iii): From New Jersey via Outerbridge Crossing to West Shore Expressway (State 440) to Staten Island Expressway (I-278) to Verrazano-Narrows Bridge (upper level), to Brooklyn Queens Expressway (I-278), east on Brooklyn Queens Expressway (I-278) to nearest exit to location of pier, local streets to pier
| Note: Reverse routing permitted. Rendezvous with escort if required. Explosives prohibited on Verrazano Bridge.]
01/06/95 | NYC Route 17(i): From New Jersey to Manhattan Piers via George Washington Bridge [NYC Route 17(i): From New Jersey via George Washington Bridge (upper level), exit at 178th Street and Fort Washington Avenue, east on 178th Street to Amsterdam Avenue, south on Amsterdam Avenue to Cathedral Parkway (110th Street), east on 110th Street to Columbus Avenue, south on Columbus Avenue to west 57th Street, west on 57th Street to 11th Avenue, south on 11th Avenue to 55th Street, west on 55th Street to 12th Avenue, 12th Avenue north or south to pier location |  |  | A
| Note: Reverse routing permitted. Rendezvous with escort if required. In area of 12th Street, 12th Avenue becomes West Street.]
01/06/95 | NYC Route 17(ii)A and 17(ii)B: From New Jersey to Manhattan Piers via Lincoln Tunnel [NYC Route 17(ii)A: Lincoln Tunnel to west side piers north of Lincoln Tunnel: From Lincoln Tunnel, exit at Dyer Avenue (40th Street) north on Dyer Avenue to 41st Street, west (left) on 41st Street, to 12th Avenue (right turn at 12th Avenue adjacent to elevated structure of West Side Highway, continue north on 12th Avenue to piers |  |  | A
| Return NYC Route 17(ii)A: Return route to Lincoln Tunnel: South on 12th Avenue (at 43rd Street, move to left traffic lane to exit at 42nd Street), east (left turn) at 42nd Street on block to 11th Avenue, turn south (right) at 11th Avenue, continue south on 11th Avenue for two blocks (follow signs to Lincoln Tunnel), east (left) on 40th Street to Lincoln Tunnel entrance at Galvin Avenue
| NYC Route 17(ii)B: Lincoln Tunnel to west side piers south of Lincoln Tunnel: From Lincoln Tunnel exit at Dyer Avenue (40th Street) north on Dyer Avenue to 41st Street, west (left) on 41st Street to 12th Avenue, south (left) on 12th Avenue (under elevated structure of West Side Highway to southbound traffic lane of 12th Avenue) continue south on 12th Avenue and/or West Street to piers
| Return NYC Route 17(ii)B: Return route to Lincoln Tunnel: North on West Street to 12th Avenue, north on 12th Avenue to 40th Street, east on 40th Street across 11th Avenue to Galvin Avenue entrance to Lincoln Tunnel
| Note: In area of 12th Street, 12th Avenue becomes West Street.]
01/06/95 | NYC Route 17(ii)C and 17(ii)D: From New Jersey to Manhattan Piers via Holland Tunnel [NYC Route 17(ii)C: Holland Tunnel to west side piers north of Holland Tunnel: Exit from Holland Tunnel at Hudson Street, north (right turn) on Hudson Street to Canal Street, west (left turn) on Canal Street to West Street, north (right turn) on West Street, continue north on West Street and/or 12th Avenue, to piers | Manhattan | New York | A
| Return NYC Route 17(ii)C: Return route to Holland Tunnel: South on 12th Avenue and continue south on West Street to Canal Street, east (left turn) on Canal Street to Hudson Street, then north (left turn) at Hudson Street to Holland Tunnel entrance
| NYC Route 17(ii)D: Holland Tunnel to west side piers south of Holland Tunnel: Exit from Holland Tunnel at Hudson Street, north (right turn) on Hudson Street to Canal Street, west (left turn) on Canal Street to West Street, north (right turn) on West Street to west Houston Street, make “U” turn from north bound traffic lane under elevated West Side Highway to south bound traffic lane of West Street, continue south on West Street to piers
| Return NYC Route 17(ii)D: North on West Street to Canal Street, east (right turn) on Canal Street to Hudson Street, then north (left turn) on Hudson Street to Holland Tunnel entrance
| Note: In area of 12th Street, 12th Avenue becomes West Street.]
01/06/95 | NYC Route 17(ii)E: From New Jersey, via George Washington Bridge, Lincoln or Holland Tunnels to lower east side (East River) piers [Utilize routes 17(ii)A through 17(ii)D, continue south on 12th Avenue or West Street, south on West Street to Battery Park Underpass (head room 12' 11”), enter Battery Park Underpass and exit on South Street, continue north on South Street and/or marginal street under elevated F.D.R. Drive to location of pier Return route: Proceed south on marginal street under elevated F.D.R. Drive and/or South Street to Battery Park Underpass, enter Battery Park Underpass and exit on West Street, proceed north on West Street and/or 12th Avenue, continue as per routes 17(ii)A through 17(ii)D to Lincoln and Holland Tunnels respectively, and, for George Washington Bridge, proceed north on 12th Avenue to 57th Street, east on 57th Street to Amsterdam Avenue, north on Amsterdam Avenue to 179th Street, west on 179th Street to George Washington Bridge |  |  | A
| Note: Rendezvous with escort if required. In area of 12th Street, 12th Avenue becomes West Street.]
01/06/95 | NYC Route 18(i): From New England to Manhattan piers [South on New England Thruway (I-95) (to Connors Street exit to meet escort if required), to Bruckner Expressway (I-278), to Willis Avenue and Third Avenue exit on 135th Street, west on 135th Street Third Avenue, south on Third Avenue across 3rd Avenue Bridge to 129th Street, east on 129th Street to Second Avenue, south on Second Avenue to East 125th Street. Return route: From Manhattan Piers to upstate New York, Westchester County, and New England |  |  | A
| Reverse NYC Route 18(i) to 12th Avenue, north to West 57th Street, then east on West 57th Street to Amsterdam Avenue, north on Amsterdam Avenue to 125th Street, east to 1st Avenue, north on 1st Avenue to Willis Avenue Bridge, across Willis Avenue Bridge to Bruckner Blvd., Bruckner Blvd. to 138th Street entrance to Bruckner Expressway (I-278), east and north on Bruckner Expressway (I-278) to New England Thruway (I-95), then New England Thruway (I-95) north to City line
| Note: Rendezvous with escort if required.]
01/06/95 | NYC Route 18(ii): From Westchester County or upstate New York to Manhattan piers [New York Thruway (I-87), south to Major Deegan Expressway (I-87), Major Deegan Expressway, (I-87) south to 138th Street exit, service road to Third Avenue, south on 3rd Avenue, across 3rd Avenue Bridge to east 129th Street, east on 129th Street to Second Avenue, south on Second Avenue to east 125th Street. Then, west on 125th Street to Amsterdam Avenue, south on Amsterdam Avenue to Cathedral Parkway (110th Street) east on 110th Street to Columbus Avenue, south on Columbus Avenue to west 57th Street, west on 57th Street to 11th Avenue, south on 11th Avenue to west 55th Street, west on west 55th Street to 12th Avenue north or south to pier location. For lower East River piers, continue south on 12th Avenue to West Street, south on West Street around Battery Park (do not use Battery Under-Pass) to South Street, north on marginal streets under the elevated F.D.R. Drive to location of pier |  |  | A
| Return route: Reverse NYC Route 18(ii) to 12th Avenue, then north to West 57th Street, then east on west 57th Street to Amsterdam Avenue, north on Amsterdam Avenue to 125th Street, east on 125th Street to 1st Avenue, north on 1st Avenue to Willis Avenue Bridge, across Willis Avenue Bridge, Willis Avenue to Major Deegan Expressway (I-87), Major Deegan Expressway north to New York Thruway (I-87), then north to City line
| Note: Rendezvous with escort if required.]
01/06/95 | NYC Route 19: From New England, upper New York State and Westchester County to Staten Island Piers [NYC Route 19(i): South on New England Thruway (I-95) (to Connors Street exit to meet escort if required) to Bruckner Expressway (I-95) to Throgs Neck Expressway (I-295) via Throgs Neck Bridge to Clearview Expressway (I-295) to Long Island Expressway (I-495), west on Long Island Expressway (I-495) to Brooklyn Queens Expressway (I-278), west to Verrazano-Narrows Bridge (upper level) to Staten Island Expressway (I-278) to Bay Street exit for eastside piers, or west to Western Avenue, north to Richmond Terrace, then local streets to northside piers |  |  | A
| NYC Route 19(ii): New York State Thruway (I-87) south to Major Deegan Expressway (I-87) (exit into “service area” of Expressway, located between Westchester County line and east 233rd Street exit of the Expressway, to rendezvous with escort, if required) to Cross Bronx Expressway (I-95), east on Cross Bronx Expressway (I-95) to Throgs Neck Bridge, to Clearview Expressway (I-295) to Long Island Expressway (I-495), west to Brooklyn Queens Expressway (I-279), west to Verrazano-Narrows Bridge (upper level), to Staten Island Expressway (I-278), exit at Bay Street for eastside piers, or continue on Staten Island Expressway (I-278) to Western Avenue, north on western Avenue to Richmond Terrace, then local streets to northside piers
| Note: Reverse routing permitted. Rendezvous with escort if required. Explosives prohibited on Verrazano Bridge.]
01/06/95 | NYC Route 20: From New England, Westchester County and upstate New York to Brooklyn piers [NYC Route 20(i): South on New England Thruway (I-95) (to Connors Street exit to meet escort if required) to Bruckner Expressway (I-95) to Throgs Neck Expressway (I-295) via Throgs Neck Bridge to Expressway (I-495), west on Long Island Expressway (I-495) to Brooklyn Queens Expressway (I-278) west on Brooklyn Queens Expressway (I-278) to nearest exit to pier location. Route from nearest expressway exit to pier via local streets |  |  | A
| NYC Route 20(ii): From New York State Thruway (I-87), south to Major Deegan Expressway (I-87), (exit into “service area” of Expressway, located between Westchester County line and east 233rd Street exit of the Expressway, to rendezvous with escort, if required), to Cross Bronx Expressway (I-95), east on Cross Bronx Expressway (I-95) to Throgs Neck Bridge, south to Clearview Expressway (I-295), to Long Island Expressway, west on Long Island Expressway (I-495) to Brooklyn Queens Expressway, west on Brooklyn Queens Expressway (I-278) to nearest exit to pier location, then via local streets to pier
| Note: Reverse routing permitted. Rendezvous with escort if required.]
01/06/95 | NYC Route 21: From Long Island (Nassau or Suffolk) to Brooklyn and Staten Island piers [Long Island Expressway (I-495) west to Brooklyn Queens Expressway (I-278), then west on Brooklyn Queens Expressway (I-278), then either: |  |  | A
| NYC Route 21(i)A: Continue to nearest exit for Brooklyn piers location
| NYC Route 21(i)B: Continue west on Brooklyn Queens Expressway (I-278) to Verrazano Bridge (upper level), cross bridge to Staten Island Expressway (I-278), exit at Bay Street for Staten Island eastside piers (utilizing local streets) , or continue west on Staten Island Expressway (I-278) to Western Avenue, north on Western Avenue to Richmond Terrace, then local streets for northside Staten Island piers
| Note: Reverse routing permitted. Rendezvous with escort if required. Explosives prohibited on Verrazano Bridge.]
01/06/95 | NYC Route 22: From Long Island (Nassau or Suffolk) to Manhattan piers [East on Long Island Expressway (I-495) to Clearview Expressway (I-295), north on Clearview Expressway (I-295) across Throgs Neck Bridge to Bruckner Expressway (I-278), west on Bruckner Expressway (I-278) continuing as per NYC route 18(i) and 18(ii) to Manhattan piers |  |  | A
| Return routing: From Manhattan piers to Long Island. Use return route for 18(i) to Bruckner Expressway (I-278), east on Bruckner Expressway (I-278) to Throgs Neck Expressway (I-295) south on Throgs Neck Expressway (I-295), over Throgs Neck Bridge, south on Clearview Expressway (I-295) to Long Island Expressway (I-495), then east on Long Island Expressway (I-495) to Nassau and Suffolk Counties
| Note: Rendezvous with escort if required.]
01/06/95 | NYC Route 23(i): From New Jersey to Howland Hook Truck Terminal, Staten Island [NYC Route 23(i)A: From New Jersey via Bayonne Bridge Plaza via Willowbrook Expressway (State 440) south to Staten Island Expressway (I-278), north on Western Avenue, east to Howland Hook Terminal |  |  | A
| NYC Route 23(i)B: From New Jersey via Outerbridge Crossing, north on West Shore Expressway (State 440) to Staten Island Expressway (I-278), west on Staten Island Expressway (I-278) to Western Avenue, north on Western Avenue, east to Howland Hook Terminal
| NYC Route 23(i)C: From New Jersey via Goethals Bridge to Staten Island Expressway (I-278) to Forest Avenue, north on Forest Avenue to Goethals Road North, west on Goethals Road North to Western Avenue, north on Western Avenue, then east to Howland Hook Terminal
| Note: Reverse routing permitted. Rendezvous with escort if required.]
01/06/95 | NYC Route 23(ii): From New England, upper New York State and Westchester County to Howland Hook Truck Terminal, Staten Island [Use NYC Routes 19(i) and 19(ii) except that entrance to Howland Hook Terminal is east from Western Avenue |  |  | A
| Note: Reverse routing permitted. Rendezvous with escort if required. Explosives prohibited on Verrazano Bridge.]
01/06/95 | NYC Route 23(iii): From Nassau County and Suffolk County to Howland Hook Truck Terminal, Staten Island [West on Long Island Expressway (I-495) to Brooklyn Queens Expressway (I-278), then west on Brooklyn Queens Expressway (I-278) to Verrazano Bridge, cross upper level of Verrazano Bridge, then west on Staten Island Expressway (I-278) to Western Avenue, north on Western Avenue, then east to Howland Hook Terminal |  |  | A
| Note: Reverse routing permitted. Rendezvous with escort if required. Explosives prohibited on Verrazano Bridge.]
01/06/95 | NYC Route 23(iv): From Airports to Howland Hook Truck Terminal, Staten Island [NYC Route 23(iv)A: From J. F. Kennedy Airport, north on Van Wyck Expressway (I-678) to Long Island Expressway (I-495), then west on Long Island Expressway continuing as per NYC Route 23(iii) |  |  | A
| NYC Route 23(iv)B: From LaGuardia Airport, south on 82nd Street to Astoria Blvd., west on Astoria Boulevard to Brooklyn Queens Expressway (I-278), then west on Brooklyn Queens Expressway (I-278), continuing as per NYC Route 23(iii)
| Note: Reverse routing permitted. Rendezvous with escort if required. Explosives prohibited on Verrazano Bridge.]
01/06/95 | NYC Route 24: Truck and Railroad Terminal in Bushwick area, Brooklyn and Maspeth area, Queens [Utilize NYC Routes 3(i) or 3(ii) from New Jersey, NYC Routes 4(i) or 4(ii) from upstate New York, New England or Westchester County, C-3 Island Expressway (I-495), then Long Island Expressway (I-495) to Grand Avenue exit (westbound) or Maurice Ave. exit (eastbound), then to Grand Avenue (and Grand Street), east or west as required |  |  | A
| Note: Reverse routing permitted. Rendezvous with escort if required.]
01/06/95 | NYC Route 25: Alternate hazmat routes in lieu of the Throgs Neck Bridge [For vehicles not carrying explosives, alternate routes utilizing the Whitestone Bridge or the Triboro Bridge may be used in lieu of the Throgs Neck Bridge specified in NYC Routes 4(ii), 7(i), 9(ii), 12(i), 13(ii), 19(ii), and 20(ii), as follows: |  |  | A
| NYC Route 25(i): Cross Bronx Expressway (I-95) to Hutchinson River Parkway, south on Hutchinson River Parkway over Whitestone Bridge, and continue south on Whitestone Expressway (I-678)—THEN either:
| NYC Route 25(i)A: To Astoria Blvd., west on Astoria Blvd. to 82nd Street, north on 82nd Street to LaGuardia Airport
| NYC Route 25(i)B: To Van Wyck Expressway (I-678), south on Van Wyck Express way (I-676) to J.F. Kennedy Airport
| NYC Route 25(i)C: To Van Wyck Expressway (I-678), south to Long Island Expressway (I-495), west on Long Island Expressway (I-495) to Brooklyn Queens Expressway (I-278), west on Brooklyn Queens Expressway (I-278) to Brooklyn or Staten Island piers as per NYC Routes (19) or (20)
| NYC Route 25(ii): South on Major Deegan Expressway (I-87) from Cross Bronx Expressway or Upstate New York, to Triboro Bridge, across Triboro Bridge to Queens, exit and proceed east on Astoria Blvd.—THEN either:
| NYC Route 25(ii)A: To 82nd Street, north on 82nd Street to LaGuardia Airport
| NYC Route 25(ii)B: To Brooklyn Queens Expressway (I-278), west on Brooklyn Queens Expressway (I-278) to Long Island Expressway (I-495), east on Long Island Expressway (I-495) to Van Wyck Expressway (I-678), south on Van Wyck Expressway (I-678) to J.F.K. Airport
| NYC Route 25(ii)C: To Brooklyn Queens Expressway (I-278), west on Brooklyn Queens Expressway (I-278) to Brooklyn or Staten Island Piers as per NYC Routes (19) or (20)
| Note: Reverse routing permitted. Rendezvous with escort if required.]

Table 80—State: North Carolina
State Agency: NC State Hwy. Patrol
POC: Herbert G. Tucker, Jr.
Address: 1142 Southeast Maynard Rd., Cary, NC 27511
Phone: (919) 319-1523
Fax: (919) 319-1534
Web Address: www.nccrimecontrol.org/SHP
FMCSA: NC FMCSA Field Office
FMCSA POC: NC Motor Carrier, Division Administrator
Address: 310 Bern Ave. Suite 468 Raleigh, NC 27601
Phone: (919) 856-4378
Fax: (919) 856-4369
No designated or restricted routes as of 01/31/2014

Table 81—State: North Dakota
State Agency: ND Highway Patrol
POC: Col. James Prochniak
Address: 600 East Blvd. Ave., Dept 504, Bismarck, ND 58505
Phone: (701) 328-2455
Fax: (701) 328-1717
Web Address: www.nd.gov/ndhp/
FMCSA: ND FMCSA Field Office
FMCSA POC: ND Motor Carrier, Division Administrator
Address: 1471 Interstate Loop, Bismarck, ND 58503
Phone: (701) 250-4346
Fax: (701) 250-4389
No designated or restricted routes as of 01/31/2014

Table 82—State: Ohio
State Agency: Public Utilities Comm. of OH
POC: Dan Fisher
Address: 180 East Broad St., Columbus, OH 43215
Phone: (614) 752-7991
Fax: (614) 728-2133
Web Address: www.puco.ohio.gov/puco/
FMCSA: OH FMCSA Field Office
FMCSA POC: OH Motor Carrier, Division Administrator
Address: 200 N. High St., Room 609, Columbus, OH 43215
Phone: (614) 280-5657
Fax: (614) 280-6875

Table 83—Ohio: Restricted HM routes
Designation date | Route order | Route description | City | Restriction(s) (0,1,2,3,4,5,6,7,8,9,i)
07/01/96 | A | Any other highway or state or local road not otherwise designated for the transportation of hazardous materials by the routing designation [in Northeastern Ohio] |  | 0
11/03/86 | B | City of Lorain [Hazardous materials transportation in the City of Lorain is prohibited where there is neither a point of origin or destination within the City on the following routes: State Route 57, State Route 611, State Route 58, US Route 6, and any city streets.] | Lorain | 0
05/04/92 | C | City of Cleveland [City Streets] [Hazardous materials transportation in the City of Cleveland is prohibited where there is neither a point of origin nor delivery point with the City unless the point of origin or delivery is within one mile of the City limits and the use of the city streets is the safest and most direct route and the shortest distance of travel. Downtown streets are restricted from hazmat transportation between 7 AM and 6PM daily, except on the weekend. When city streets are to be used, the transporter must use interstate highways to a point as close as possible to the destination.] | Cleveland | 0
10/14/93 | D | City of Cambridge [Hazardous materials transportation in the City of Cambridge is prohibited where there is neither a point of origin or destination within the City on the following routes: US Route 40, US Route 22, State Route 209, and any City streets.] | Cambridge | 0
07/01/96 | E1 | Interstate 90 from Interstate 271 [in Lake County] to Interstate 80/90 [in Lorain County] | Lorain | 0
07/01/96 | E2A | Interstate 71 from Interstate 80 to Interstate 90 [in Cuyahoga County] |  | 0
07/01/96 | E2B | Interstate 490 from Interstate 90 to Interstate 77 [in Cuyahoga County] |  | 0
07/01/96 | E2C | Interstate 77 from Interstate 80 to Interstate 90 [in Cuyahoga County] |  | 0
07/01/96 | E2D | State 2 from State 44 to Interstate 90 [in Lake County] |  | 0
07/01/96 | E3D | State 44 from State 2 to Interstate 90 [in Lake County] |  | 0
07/01/96 | F | Interstate 480 from Interstate 271 to Interstate 480N [in Cuyahoga County]—Cleveland | Cleveland | 0

Table 84—Ohio: Designated HRCQ/RAM routes
Designation date | Route order | Route description | City | Designation(s) (A,B,I,P)
09/09/88 | A | State-Wide [Preferred routes for high route controlled quantities of radioactive materials (HRCQ of RAM) are, “Interstate System highways, including interstate system bypasses or Interstate System beltways” as per 49 CFR Part 397] |  | P
06/11/02 | B | US 23 from Michigan to Interstate 475 (Toledo) | Toledo | P

Table 85—Ohio—Designated NRHM routes
Designation date | Route order | Route description | City | Designation(s) (A,B,I,P)
04/06/85 | A1 | Interstate 270 [Columbus Outerbelt] [Shipments which do not have the destination within the City of Columbus, but as a throughway.] | Columbus | A
04/06/85 | A2A | Broad St. [inside Interstate 270] [Only for the delivery of NRHM within the City of Columbus] | Columbus | A
04/06/85 | A2B | Interstate 70 [inside Interstate 270] [Only for the delivery of NRHM within the City of Columbus] | Columbus | A
04/06/85 | A2C | State 33 [inside Interstate 270] [Only for the delivery of NRHM within the City of Columbus] | Columbus | A
04/06/85 | A2D | State 161 [inside Interstate 270] [Only for the delivery of NRHM within the City of Columbus] | Columbus | A
04/06/85 | A2E | High St. [inside Interstate 270] [Only for the delivery of NRHM within the City of Columbus] | Columbus | A
04/06/85 | A2F | Interstate 71 [inside Interstate 270] [Only for the delivery of NRHM within the City of Columbus] | Columbus | A
04/06/85 | A3B-1.0 | Interstate 670 from Interstate 70 to Interstate 270 [Only for the delivery of NRHM within the City of Columbus] | Columbus | A
04/06/85 | A3B-2.0 | State 315 [inside Interstate 270] [Only for the delivery of NRHM within the City of Columbus] | Columbus | A
10/14/93 | B1 | Interstate 70 [in the City of Cambridge] [For hazardous material shipments which have neither a point of origin or destination within the City of Cambridge.] | Cambridge | A
10/14/93 | B2 | State 209 [Southgate Parkway in the City of Cambridge] [for destination within City only] | Cambridge | A
10/14/93 | B3A | US 40 [Wheeling Ave. in the City of Cambridge] [for destination within City only] | Cambridge | A
10/14/93 | B3B | US 22 [Wheeling Ave. in the City of Cambridge] [for destination within City only] | Cambridge | A
10/14/93 | B4A-1.0 | County 35 [Old 21/Clark/Byesville Rd. in the City of Cambridge] [for destination within City only] | Cambridge | A
10/14/93 | B4A-2.0 | Interstate 77 [in the City of Cambridge] [For hazardous material shipments which have neither a point of origin or destination within the City of Cambridge.] | Cambridge | A
10/14/93 | B4B | North Second St. [in the City of Cambridge] [for destination within City only] | Cambridge | A
10/14/93 | B5B-1.0 | Steubenville Ave. [in the City of Cambridge] [for destination within City only] | Cambridge | A
11/03/86 | C1 | US 6 [in the city limits of Lorain] [for destination within City only] | Lorain | A
11/03/86 | C2A | State 611 [in the city limits of Lorain] [for destination within City only] | Lorain | A
11/03/86 | C2B | State 58 [in the city limits of Lorain] [for destination within City only] | Lorain | A
11/03/86 | C2C | State 57 [in the city limits of Lorain] [for destination within City only] | Lorain | A
11/03/86 | C3B-1.0 | Cooper Foster Park Rd. [in the City of Lorain] [for destination within City only] | Lorain | A
11/03/86 | C4B-1.0 | Middle Ridge Rd. [in the City of Lorain] [for destination within City only] | Lorain | A
11/03/86 | C5B-1.0 | State 2 [in the City of Lorain] [For hazardous material shipments which have neither a point of origin nor destination within the City of Lorain.] | Lorain | A
11/03/86 | C5B-1.0 | Interstate 90/State Route 2 [around the City of Lorain] [For hazardous material shipments which have neither a point of origin or destination within the City of Lorain.] | Lorain | A
07/01/96 | D1 | Interstate 80 [and I80/I90 Ohio Turnpike] from Gate 13 [in Portage County] to Lorain/Erie County Line |  | A
07/01/96 | D2 | Interstate 480 from Interstate 80 [Gate 13 in Portage County] to Interstate 271 [in Summit County] |  | A
07/01/96 | D2A | Interstate 480N from Interstate 271 to Interstate 480 [in Cuyahoga County] |  | A
07/01/96 | D2B | Interstate 71 from Interstate 80 [in Cuyahoga County] to Interstate 271 [in Summit County] |  | A
07/01/96 | D2C | Interstate 77 from Interstate 80 [in Cuyahoga County] to Interstate 271 [in Summit County] |  | A
07/01/96 | D3A | Interstate 480 from Interstate 480N [in Cuyahoga County] to Interstate 80 [in Lorain County]—Cleveland | Cleveland | A
07/01/96 | D3B | Interstate 271 from Interstate 90 [in Lake County] to Interstate 71 [in Medina County]—Northeastern Ohio |  | A
07/01/96 | D4B | Interstate 90 from Lake/Ashtabula county line to Interstate 271 [in Lake County] |  | A
01/29/90 | D4B-1.0 | Bedford from Erieway Facility [at 33 Industry Drive] [Proceed on Industry Dr, turn right on Northfield Rd, turn left on Alexander Rd., to I271 access road. Alternatively, from Northfield Rd, turn right on Forbes Rd, turn right on Broadway Rd. to I-271.] | Bedford | A
11/01/94 | E1 | US 20 [Center Ridge Rd. in the City of Westlake] | Westlake | A, B
11/01/94 | E2A | State 252 [Columbia Rd. in the City of Westlake] | Westlake | A, B
11/01/94 | E3A-1.0 | State 254 [Detroit Rd. in the City of Westlake] | Westlake | A, B
11/01/94 | E3A-2.0 | Interstate 90 [in the City of Westlake] | Westlake | A

Table 86—State: Oklahoma
State Agency: OK DOT
POC: Harold Smart
Address: 200 NE 21st St, Oklahoma City, OK 73105
Phone: (405) 521-2861
Fax: (405) 521-2865
Web Address: www.okladot.state.ok.us/
FMCSA: OK FMCSA Field Office
FMCSA POC: OK Motor Carrier, Division Administrator
Address: 300 N. Meridian, Suite 106 North, Oklahoma City, OK 73107
Phone: (405) 605-6047
Fax: (405) 605-6176

Table 87—Oklahoma—Restricted HM Routes
Designation date | Route order | Route description | Restriction(s) (0,1,2,3,4,5,6,7,8,9,i)
07/29/97 | A | Oklahoma City and Tulsa [Carriers transporting hazardous material cargo should avoid traveling through large metropolitan areas during times of the day when congestion is expected. These carriers should also avoid construction zones when possible. Construction information can be accessed by calling the OK Department of Transportation at (405) 521-2554.] | 0
07/29/97 | B | Interstate 40 [in Oklahoma City] from Interstate 44 to Interstate 35 is banned | 0

Table 88—Oklahoma—Designated NRHM routes
Designation date | Route order | Route description | Designation(s) (A,B,I,P)
07/29/97 | A | All Interstates [All hazardous material shipments moving through Oklahoma should remain on Interstate routes, when possible.] | A
07/29/97 | B1 | Interstate 44 [Southwest of Oklahoma City] from Interstate 40 to Interstate 240 [Use to bypass section of I-40 running through downtown Oklahoma City] | A
07/29/97 | B2 | Interstate 240 [South of Oklahoma City] from Interstate 44 to Interstate 40 [Southeast of Oklahoma City] [Use to bypass section of I-40 running through downtown Oklahoma City] | A
07/29/97 | C | Interstate 244 [Tulsa] from Interstate 44 [West of Tulsa] to Interstate 44 [East of Tulsa] [Use to bypass downtown Tulsa] | A

Table 89—State: Oregon
State Agency: OR DOT
POC: Jess Brown
Address: 550 Capitol Street NE., Salem, OR 97301
Phone: (503) 378-6336
Fax: (503) 378-3567
Web Address: www.oregon.gov/odot/Pages/index.aspx
FMCSA: OR FMCSA Field Office
FMCSA POC: OR Motor Carrier, Division Administrator
Address: The Equitable Center, 530 Center Street NE., Suite 440, Salem, OR 97301
Phone: (503) 399-5775
Fax: (503) 316-2580

Table 90—Oregon—Restricted HM routes
Designation date | Route order | Route description | City | County | Restriction(s) (0,1,2,3,4,5,6,7,8,9,i)
11/01/94 | A | US 26 from Interstate 405 to State 217 [includes Vista Ridge Tunnel] | Portland | Multnomah | 0
|  | Restrictions apply to any quantity of hazardous material required to be marked or placarded in accordance with 49 CFR 177.823
11/01/94 | B | Arrowhead Truck Plaza on Route 331 [at the MP 216 Interstate 84 interchange 4 miles east of Pendleton (on tribal land)] overnight parking prohibited |  | Umatilla | 1,7
11/01/94 | C | Wildhorse Casino parking lot on Route 331 [at the MP 216 Interstate 84 interchange 4 miles east of Pendleton adjacent to the Arrowhead Truck Plaza (on tribal land)] prohibits parking of all classes of hazardous material in the casino parking lot |  | Umatilla | 0

Table 91—Oregon—Designated NRHM routes
Designation date | Route order | Route description | City | County | Designation(s) (A,B,I,P)
01/01/00 | A | Kittridge Ave. Overpass [Portland] from US 30 [NW St. Helens Ave.] to NW Front Ave. and the Northwest Portland Industrial Area | Portland | Multnomah | A

Table 92—State: Pennsylvania
State Agency: PA DOT
POC: Kenneth Thornton
Address: Chief Motor Carrier Division, P.O. Box 8210, Harrisburg, PA 17105
Phone: (717) 787-0459
Fax: (717) 787-7839
Web Address: www.dot.state.pa.us/
FMCSA: PA FMCSA Field Office
FMCSA POC: PA Motor Carrier, Division Administrator
Address: 215 Limekiln Road, Suite 200, New Cumberland, PA 17070
Phone: (717) 614-4060
Fax: (717) 614-4066
State agency is responsible for all HM routes listed in Table 94, except for those routes on the Pennsylvania Turnpike.

Table 93—State: Pennsylvania
State Agency: PA Turnpike Commission
POC: Kenneth Slippey
Address: P.O. Box 67676, Harrisburg, PA 17106
Phone: (717) 939-9551
Fax:
Web Address: www.paturnpike.com/
FMCSA: PA FMCSA Field Office
FMCSA POC: PA Motor Carrier, Division Administrator
Address: 215 Limekiln Road, Suite 200, New Cumberland, PA 17070
Phone: (717) 614-4060
Fax: (717) 614-4066
State agency is only responsible for HM routes listed in Table 94 on the Pennsylvania Turnpike.

Table 94—Pennsylvania—Restricted HM routes
Designation date | Route order | Route description | City | County | Restriction(s) (0,1,2,3,4,5,6,7,8,9,i)
01/01/50 | A | Liberty Tunnel [in Allegheny County] from Carson St. to Saw Mill Run Blvd |  | Allegheny | 1,2,3,4,5,6
|  | [(1) Explosives 1.1 to 1.6, (2) Blasting Agents, (3) Flammable Gas, (4) Flammable, (5) Flammable Solids, and (6) Flammable Solid W. prohibited.]
01/01/58 | B | Interstate 376 [Fort Pitt Tunnels in Pittsburgh] | Pittsburgh |  | 1,2,3,4,5,6
|  | [(1) Explosives 1.1 to 1.6, (2) Blasting Agents, (3) Flammable Gas, (4) Flammable, (5) Flammable Solids, and (6) Flammable Solid W. prohibited.]
01/01/52 | C | Interstate 376 [Squirrel Hill Tunnels in Pittsburgh] from Exit 8 to Exit 9 | Pittsburgh |  | 1,2,3,4,5,6
|  | [(1) Explosives 1.1 to 1.6, (2) Blasting Agents, (3) Flammable Gas, (4) Flammable, (5) Flammable Solids, and (6) Flammable Solid W. prohibited.]
07/22/89 | D | US 30 [West—Descending Laurel Mountain in Somerset/Westmoreland Counties] [Descending Laurel Mountain into the Village of Laughlintown (to protect Ligonier Municipal Reservoir) |  | Somerset and Westmoreland | 0
|  | The “recommended” alternate route is south on US 219 to I-76 (PA Turnpike), west on I-76 to New Stanton.]
01/01/40 | E | Interstate 70/76 [Allegheny Tunnel—Somerset County] from Exit 110 to Exit 146 |  | Somerset | 1,2,3,4,5,6,7,8,i
|  | [Effective July 16, 2000: All Table 1 materials and Explosives are still prohibited. Table 2 materials (except explosives) permitted for non-bulk packages (those placards that do not require four-digit codes)]
|  | For additional information, visit the Pennsylvania Turnpike Web site: www.paturnpike.com/trucking/placard.aspx#top
01/01/40 | F | Interstate 76 [Tuscarora Tunnel—Franklin/Huntingdon Counties] from Exit 180 to Exit 189 |  | Franklin and Huntingdon | 1,2,3,4,5,6,7,8,i
|  | [Effective July 16, 2000: All Table 1 materials and Explosives are still prohibited. Table 2 materials (except explosives) permitted for non-bulk packages (those placards that do not require four-digit codes)]
|  | For additional information, visit the Pennsylvania Turnpike Web site: www.paturnpike.com/trucking/placard.aspx#top
01/01/40 | G | Interstate 76 [Blue Mountain Tunnel and Kittatinny Tunnel—Franklin County] from Exit 189 to Exit 201 |  | Franklin | 1,2,3,4,5,6,7,8,i
|  | [Effective July 16, 2000: All Table 1 materials and Explosives are still prohibited. Table 2 materials (except explosives) permitted for non-bulk packages (those placards that do not require four-digit codes)]
|  | For additional information, visit the Pennsylvania Turnpike Web site: www.paturnpike.com/trucking/placard.aspx#top
09/15/93 | H | US 11 [Cumberland County] from the intersection of Allen Rd. and SR 465 (at Segment 0360/Offset 2119) to Interstate 76/PA Turnpike (at Segment 0510/Offset 0000) |  | Cumberland | 0
09/15/93 | I | SR 74 [Cumberland County] from Fairfield St. (at Segment 0170/Offset 0000) to N. College St. (at Segment 0210/Offset 0000) |  | Cumberland | 0
09/15/93 | J | SR 641 [Cumberland County] from Interstate 81 (at Segment 0440/Offset 3196) to N. College St. (at Segment 0470/Offset 0000) |  | Cumberland | 0
09/15/93 | K | SR 34 [Cumberland County] from Noble Blvd./Lamberton Middle School (at Segment 0270/Offset 0000) to Carlisle Springs Rd./N. Hanover St. split (at Segment 0300/Offset 0000) |  | Cumberland | 0
11/03/94 | L | SR 3009/River Rd. [Dauphin County] (at Segment 0210/Offset 0720) to Country Club Rd. (at Segment 0221/Offset 1382) just before SR 443 |  | Dauphin | 0
09/09/93 | M | SR 39 [Dauphin County] from Terrace Dr. (at Segment 0030/Offset 0000) to SR 81 (at Segment 0210/Offset 0000) just past the Travel Center of America Truck Stops” |  | Dauphin | 0
09/09/93 | N | US 22 [Dauphin County] from SR 39 (at Segment 0420/Offset 0000) to Interstate 83 (at Segment 0571/Offset 0000) |  | Dauphin | 0
03/21/94 | O | SR 4020 [Lancaster County] from Esbenshade Rd./SR 230 (at Segment 0010/Offset 0000) to Mcgovernville Rd./Route 741 (at Segment 0130/Offset 0000) |  | Lancaster | 0
01/01/65 | P | Interstate 476 [Northeast Extension of PA Turnpike at Lehigh Tunnel] from Exit 56 to Exit 74 |  | Carbon and Lehigh | 1,2,3,4,5,6,7,8,i
|  | [Effective July 16, 2000: All Table 1 materials and Explosives are still prohibited. Table 2 materials (except explosives) permitted for non-bulk packages (those placards that do not require four-digit codes)]
|  | For additional information, visit the Pennsylvania Turnpike Web site: www.paturnpike.com/trucking/placard.aspx#top

Table 95—State: Rhode Island
State Agency: RI Dept. of Environmental Management
POC: Mark Dennen
Address: Office of Waste Mgt., 235 Promenade Street, Providence, RI 02908
Phone: (401) 222-2797 ext. 7112
Fax: (401) 222-3812
Web Address: www.dem.ri.gov/
FMCSA: RI FMCSA Field Office
FMCSA POC: RI Motor Carrier, Division Administrator
Address: 20 Risho Avenue, Suite E, East Providence, RI 02914
Phone: (401) 431-6010
Fax: (401) 431-6019

Table 96—Rhode Island: Restricted HM Routes
Designation date | Route order | Route description | Restriction(s) (0,1,2,3,4,5,6,7,8,9,i)
07/18/84 | A1 | Old Plainfield Pike [in Foster & Scituate] from Route 102 to Route 12 [Scituate] | 0
07/18/84 | A2A | Route 12 [in Scituate and Cranston] from Route 14 [Scituate] to Route 116 [Scituate] | 0
07/18/84 | A3A | Route 116 [in Scituate & Smithfield] from Scituate Ave. [Scituate] to Snake Hill Rd. [Smithfield] | 0
07/18/84 | A3A-1.0 | Route 102 [in Scituate and Foster] from Route 94 [Foster] to Snake Hill Road [Glocester] | 0
07/18/84 | A4A-1.0 | Route 94 [in Foster] from Route 101 to Route 102 [Scituate] | 0
07/18/84 | A4A-1.0-A | Route 14 [in Scituate] from Route 102 to Route 116 | 0
07/18/84 | A5A-1.0 | Route 101 [in Foster, Glocester, and Scituate] from Route 94 [Foster] to Route 6 [Scituate] | 0
07/18/84 | A5A-1.0-A | Central Pike [in Scituate and Foster] from Route 94 [Foster] to Route 102 [Scituate] | 0
07/18/84 | A5A-1.0-B | Route 6 [in Scituate, Johnston, & Foster] from Route 94 [Foster] to Hopkins Avenue [Johnson] | 0
07/18/84 | A6A-1.0-B1 | Danielson Pike [in Scituate] from Route 6 to Route 6 | 0
07/18/84 | A6A-1.0-C | Rocky Hill Road & Peeptoad Road [in Scituate] from Route 101 to Route 116 [Sawmill Road] | 0
07/18/84 | B | Route 295 [in Smithfield and Lincoln] from Exit 8 [Douglas Pike—Smithfield] to Exit 9 [Route 146—Lincoln] | 0
07/18/84 | C | Reservoir Road [in its entirety in Smithfield and North Smithfield] | 0
07/18/84 | D | Route 120 [in Cumberland] from Mendon Road to Massachusetts | 0
07/18/84 | E | Reservoir Road [in Cumberland] from Route 114 to Massachusetts | 0
07/18/84 | F | North Main Road [in Jamestown] from Route 138 to East Shore Road | 0
07/18/84 | G1 | Bliss Mine Road [in its entirety in Newport & Middletown] | 0
07/18/84 | G2 | Miantonami Ave. [in Middletown] from Bliss Mine Road to Valley Road | 0
07/18/84 | G3A | Valley Road [in Middletown] from Miantonami Avenue to Route 138 | 0
07/18/84 | G4A | Aquidneck Ave. [in Middletown] from Wave Avenue to Valley Road | 0
07/18/84 | G5A | Wave Avenue [in its entirety in Middletown] | 0
07/18/84 | H1 | Serpentine Road [in its entirety in Warren] | 0
07/18/84 | H2A | School House Road [in Warren] from Birch Swamp Road to Long Lane | 0
07/18/84 | I1 | Burchard Road [in its entirety in Little Compton] | 0
07/18/84 | I2 | Peckham Road [in Little Compton] from Route 77 to Burchard Road | 0
07/18/84 | I3 | Route 77 [in Little Compton and Tiverton] from Peckham Road [Little Compton] to Route 179 [Tiverton] | 0
07/18/84 | I4 | Neck Road [in its entirety in Tiverton] | 0

Table 97—State: South Carolina
State Agency: No Agency Designated
POC:
Address:
Phone:
Fax:
FMCSA: SC FMCSA Field Office
FMCSA POC: SC Motor Carrier
Address: Division Administrator, 1835 Assembly St., Suite 1253, Columbia, SC 29201
Phone: (803) 765-5414
Fax: (803) 765-5413
No designated or restricted routes as of 01/31/2014.

Table 98—State: South Dakota
State Agency: Motor Carrier Services
POC:
Address: 118 West Capitol Ave., Pierre, SD 57501
Phone: (605) 773-4578
Fax: (605) 773-7144
Web Address: dps.sd.gov/enforcement/highway_patrol/default.aspx
FMCSA: SD FMCSA Field Office
FMCSA POC: SD Motor Carrier
Address: Division Administrator, 1410 E. Highway 14, Suite B, Pierre, SD 57501
Phone: (605) 224-8202
Fax: (605) 224-1766
No designated or restricted routes as of 01/31/2014.

Table 99—South Dakota: Badlands National Park
NPS: Badlands National Park, NPS NPS POC: Park Superintendent
Address: 25216 Ben Reifel Road, P.O. Box 6, Interior, SD 57750 Phone: (605) 433-5361 Fax: (605) 433-5404 Web Address: www.nps.gov/badl/index.htm FMCSA: SD FMCSA Field Office FMCSA POC: SD Motor Carrier, Division Administrator Address: 1410 E. Highway 14, Suite B, Pierre, SD 57501 Phone: (605) 224-8202 Fax: (605) 224-1766

Table 100—South Dakota (Badlands National Park): Restricted HM Routes
Designation date | Route order | Route description | Restriction(s) (0,1,2,3,4,5,6, 7,8,9,i)
01/17/97 | A | Badlands National Park—Park road between the Northeast Entrance to the Interior Entrance [Northeast Entrance/SD-240 to the intersection with SD-377 to SD-377/Interior Entrance] [This route is under the jurisdiction of the U.S. National Park Service, not the State of South Dakota. For additional information, contact the Badlands National Park at (605) 433-5361.] | 0

Table 101—State: Tennessee
State Agency: TN DOT POC: Alan Durham Address: James K. Polk Bldg., 505 Deaderick St., Suite 400, Nashville, TN 37243 Phone: (615) 741-2848/(615) 741-5616 Fax: (615) 741-2508 Web Address: www.tdot.state.tn.us/ FMCSA: TN FMCSA Field Office FMCSA POC: TN Motor Carrier
Address: Division Administrator, 640 Grassmere Park, Suite 111, Nashville, TN 37211 Phone: (615) 781-5781 Fax: (615) 781-5780

Table 102—Tennessee: Restricted HM Routes
Designation date | Route order | Route description | Restriction(s) (0,1,2,3,4,5,6,7,8,9,i)
05/15/87 | A | Interstate 40 [Through City of Knoxville] from Exit 385 [intersection with I-75/I-640 west of Knoxville] to Exit 393 [intersection with I-640 east of Knoxville] [Prohibition does not apply to hazardous material shipments originating at or destined to the City of Knoxville and to service points of US 129 in Blount County as verified by appropriate shipping papers, or shipments to be interlined with other carriers or to be transferred to other vehicles of the same carrier at facilities in these areas, or to vehicles which need emergency repair or warranty work performed at authorized dealers in these areas.] | 0
10/18/96 | B | Cumberland Gap Tunnel [US 25E/State Route 32] [Trucks that display a hazardous material placard are required to stop at the Cumberland Gap Tunnel inspection lanes. After stopping in the lane, a CGTA operator requests information from the driver such as Trucking Company name and address, DOT #, Truck license #, Truck Order # or bill of lading, origin and destination of goods, and driver's name and signature. The operator then performs a walk around inspection of the truck and looks for possible hazardous material leaks. Trucks transporting Class 1 Explosives are prohibited and are turned around at the tunnel. For further information, contact John R. Burke (cgta@vaughnmelton.com) at 606-248-0996.] | 1

Table 103—Tennessee: Designated HRCQ/RAM Routes
Designation date | Route order | Route description | Designation(s) (A,B,I,P)
08/03/88 | A | Interstate 640/I-75 from Interstate 40 [exit 385 West of Knoxville] to Interstate 40 [exit 393 East of Knoxville] [In lieu of I-40 in the Knoxville area | P

Table 104—State: Texas
State Agency: TX Dept. Public Safety POC: Josh Verastique Address: P.O. Box 4087, Austin, Texas 78773-0001 Phone: (512) 416-3122 Web Address: www.txdot.gov/ FMCSA: TX FMCSA Field Office FMCSA POC: TX Motor Carrier Address: Division Administrator, 903 San Jacinto Blvd., Suite 101, Austin, TX 78701 Phone: (512) 916-5440 Fax: (512) 916-5482

Table 105: Texas—Restricted HM Routes
Designation date | Route order | Route description | City | County | Restriction(s) (0,1,2,3,4,5,6,7,8,9,i) | FMCSA QA Comment
12/12/97 | A | International Bridges I & II [Laredo] | Laredo | Webb | 0
06/28/01 | B1 | Interstate 35 [Bexar County] from the IH 35/IH 10 interchange to the IH 10/IH 35/US 90 interchange | San Antonio | Bexar | 0
06/28/01 | B2A | Interstate 10 [Bexar County] from the Fredericksburg/Woodlawn interchange to the IH 10/IH 35 interchange | San Antonio | Bexar | 0
06/28/01 | B2B | Interstate 35 [Bexar County] from IH 35/IH 37/US 281 interchange to IH 10/IH 35 interchange | San Antonio | Bexar | 0
06/28/01 | B3B | Interstate 37 [Bexar County] from the IH 35/IH 37/US 281 interchange to the IH 37/Durango St. interchange | San Antonio | Bexar | 0
03/04/70 | D1 | Interstate 45 [Houston] from Franklin St. to US 59 | Houston | Harris | 0
03/04/70 | D2 | US 59 [Houston] from Interstate 45 to Buffalo Bayou | Houston | Harris | 0
10/13/83 | E1 | Interstate 45 [Galveston, Galveston County] from State 342 to West City Limits | Galveston | Galveston | 0
|  | [During a 30-hour hurricane warning only. See City of Galveston code for more information.]
10/13/83 | E2 | State 342 (61st. St.) [Galveston, Galveston County] from Broadway Ave. to Seawall Blvd. | Galveston | Galveston | 0
|  | [During a 30-hour hurricane warning only. See City of Galveston code for more information.]
10/13/83 | F | North of Church St. [Galveston, Galveston County] from 14th Street to 2nd Street | Galveston | Galveston | 0
|  | [See City of Galveston code for special restrictions/more information.]
01/25/84 | G1 | Interstate 30 (East RL Thornton Freeway) [Dallas] from Interstate 35 E to Malcolm X Blvd. Overpass | Dallas | Dallas | 0
01/25/84 | G2A | Interstate 45 Elevated (Julius Schepps Freeway) [Dallas] from Lamar Underpass to Bryan St. Underpass | Dallas | Dallas | 0
|  | [No operator of a motor vehicle transporting hazardous material scheduled for delivery to or from a Dallas Terminal shall transport those materials on any street or highway, or segment of a street or public highway designated as “Prohibited Hazardous Materials Area”]
01/25/84 | G3A-1.0 | Interstate 345 (Central Expressway) [Dallas] from Interstate 45 (Julius Schepps Freeway) to Bryan Street | Dallas | Dallas | 0
01/25/84 | H | Spur 366 (Woodall Rodgers Freeway) [Dallas] from US 75 to Interstate 35E | Dallas | Dallas | 0
10/10/95 | I | Loop 335 [Amarillo] from West Amarillo Blvd to City Limits (7 pm to 7 am) | Amarillo | Potter/Randall | 0
10/10/95 | J | US 60/US 87/US 287 (Taylor and Filmore St. only) [Amarillo] from Interstate 40 to Loop 335 | Amarillo | Potter/Randall | 0
03/04/70 | TBD | Holcombe Boulevard [Houston] from Main St. to South Braeswood Boulevard. | Houston | Harris | 0 | Route description is inconsistent with current maps of area.
|  |  |  |  |  | Unable to confirm current route.
|  |  |  |  |  | [State relabeling route based on changing physical conditions.]
03/04/70 | TBD | Main St. [Houston] from N. MacGregor Way to Holcombe Boulevard | Houston | Harris | 0 | Route description is inconsistent with current maps of area.
|  |  |  |  |  | Unable to confirm current route.
|  |  |  |  |  | [State relabeling route based on changing physical conditions.]
03/04/70 | TBD | N. MacGregor Way [Houston] from South Braeswood Boulevard to Main St | Houston | Harris | 0 | Route description is inconsistent with current maps of area.
|  |  |  |  |  | Unable to confirm current route.
|  |  |  |  |  | [State relabeling route based on changing physical conditions.]
03/04/70 | TBD | South Braeswood Boulevard [Houston] from Holcombe Boulevard to N. MacGregor Way | Houston | Harris | 0 | Route description is inconsistent with current maps of area.
|  |  |  |  |  | Unable to confirm current route.
|  |  |  |  |  | No response received from Texas DOT on this question.
01/25/84 | TBD | Underground tunnel system [Dallas (Entire Highway)] | Dallas | Dallas | 0 | Insufficient information provided in route description to validate route.
|  |  |  |  |  | [State relabeling route based on changing physical conditions.]

Table 106—Texas—Designated HRCQ/RAM Routes
Designation date | Route order | Route description | City | County | Designation(s) (A,B,I,P)
07/09/12 | A | Big Spring, TX to Pecos, TX to Carlsbad, NM to WlPP North Access Road (Current New Mexico designated route) |  |  | P
07/09/12 | B | Big Spring, TX to Andrews, TX to FM 115 to intersection with FM 128 in Texas to SR 128 in New Mexico to WIPP South Access Road |  |  | P
07/09/12 | C | Big Spring, TX to Monahans, TX to Kermit, TX to Jal, NM to WIPP South Access Road |  |  | P
07/09/12 | D | Big Spring, TX to Andrews, TX to Eunice, NM to Hobbs, NM to WIPP North Access Road |  |  | P
07/09/12 | E | Big Spring, TX to Andrews, TX to Eunice, NM to Jal, NM to WIPP South Access Road |  |  | P

Table 107—Texas—Designated NRHM Routes
Designation date | Route order | Route description | City | County | Designation(s) (A,B,I,P)
10/16/90 | A1 | Farm to Market 2061 [Edinburg] from Owassa Road to Farm to Market 1925 [Through only] | Edinburg | Hidalgo | A
10/16/90 | A2 | Farm to Market 1925 [Edinburg] from Bus. US 281 to Farm to Market 2061 [Through only] | Edinburg | Hidalgo | A
10/16/90 | A2A | State 107 [Edinburg] from State 336 to Farm to Market 2061 [Through only] | Edinburg | Hidalgo | A
10/16/90 | A3 | Bus. US 281 [Edinburg] from its North intersection with US 281 to Farm to Market 1925 [Through only] | Edinburg | Hidalgo | A
10/16/90 | A3A | Bus. US 281 [Edinburg] from Farm to Market 1925 to its South intersection with US 281 [Local destination only] | Edinburg | Hidalgo | A
10/16/90 | A4 | US 281 [Edinburg] from its North intersection with Bus. US 281 to Owassa Road [Through only] | Edinburg | Hidalgo | A
10/16/90 | A4A-1.0 | Chapin Street [Edinburg] from Bus. US 281 to US 281 [Local destination only] | Edinburg | Hidalgo | A
10/16/90 | A4A-2.0 | Farm to Market 2128 [Edinburg] from Bus. US 281 to US 281 [Local destination only] | Edinburg | Hidalgo | A
10/16/90 | A4A-3.0 | McIntyre St. [Edinburg] from 12th Ave. to 10th Ave. [Local destination only.] | Edinburg | Hidalgo | A
10/16/90 | A5A | Farm to Market 2128 [Edinburg] from Tower Road to US 281 [Through only] | Edinburg | Hidalgo | A
10/16/90 | A5A-3.0 | 10th Ave. [Edinburg] from McIntyre to Cano Street [Local destination only] | Edinburg | Hidalgo | A
10/16/90 | A5B | State 107 [Edinburg] from Tower Road to US 281 [Through only] | Edinburg | Hidalgo | A
10/16/90 | A6A-3.0 | Cano St. [Edinburg] from 10th Ave. to 12th Ave. [Local destination only.] | Edinburg | Hidalgo | A
10/16/90 | A6A-3.0-A | State 107 [Edinburg] from 12th Ave. to US 281 [Local destination only] | Edinburg | Hidalgo | A
10/16/90 | A7A-3.0 | 12th Ave. [Edinburg] from McIntyre to Cano Street [Local destination only] | Edinburg | Hidalgo | A
10/16/90 | A8A-3.0-B | State 107 [Edinburg] from Farm to Market 2061 to 10th Ave. [Local destination only] | Edinburg | Hidalgo | A
04/15/81 | B1 | US 83 [Harlingen] from Southeast City Limits to West City Limits | Harlingen | Cameron | A
04/15/81 | B2A | Spur 54 [Harlingen] from US 77 to US 83 | Harlingen | Cameron | A
04/15/81 | B3A-1.0 | US 77 [Harlingen] from Northwest City Limits to Southeast City Limits | Harlingen | Cameron | A
04/15/81 | B4A-1.0-A | Farm to Market 1479 (Rangerville Road) [Harlingen] from Southwest City Limits to US 77/83 | Harlingen | Cameron | A
04/15/81 | B4A-1.0-B | Loop 206 (Tyler St.) [Harlingen] from US 77/US 83 to West City Limits | Harlingen | Cameron | A
04/15/81 | B4A-1.0-C | Farm to Market 106 (Harrison St.) [Harlingen] from US 77 to West City Limits | Harlingen | Cameron | A
04/15/81 | B4A-1.0-D | Bus. US 77 [Harlingen] from North City Limits to South City Limits | Harlingen | Cameron | A
04/15/81 | B5A-1.0-D1 | Loop 499 (Ed Carey Dr.) [Harlingen] from Bus. US 77 N to US 77/83 | Harlingen | Cameron | A
04/15/81 | B5A-1.0-D2 | Commerce St. [Harlingen] from Bus. US 77 N to Bus. US 77 S | Harlingen | Cameron | A
04/15/81 | B5A-1.0-D3 | Farm to Market 507 (Morgan Blvd.) [Harlingen] from Rio Hondo Rd. to Bus. US 77 | Harlingen | Cameron | A
04/15/81 | B5A-1.0-D3A | 25th St. [Harlingen] from Rio Hondo Rd. to North City Limits | Harlingen | Cameron | A
04/15/81 | B5A-1.0-D3B | Rio Hondo Rd. [Harlingen] from 25th Street to East City Limits | Harlingen | Cameron | A
04/15/81 | B5A-1.0-D4 | Farm to Market 106 (Harrison St.) [Harlingen] from East City Limits to Bus. US 77 | Harlingen | Cameron | A
12/12/97 | C | SH 255 (Camino Columbia Toll Road) [Laredo] from Interstate 35 to International Bridge III | Laredo | Webb | A
12/28/93 | D1 | Interstate 10 [El Paso] from East City Limits to North City Limits | El Paso | El Paso | A
12/28/93 | D2A | Trowbridge Dr. [El Paso] from Interstate 10 to Delta Dr. | El Paso | El Paso | A
12/28/93 | D2B | Airway Blvd [El Paso] from Interstate 10 to US 62/180 | El Paso | El Paso | A
12/28/93 | D3A | Delta Dr. [El Paso] from Trowbridge Dr. to Fonseca Dr. | El Paso | El Paso | A
12/28/93 | D3B | US 62/180 (Montana Ave.) [El Paso] from East City Limits to Airway Blvd. | El Paso | El Paso | A
12/28/93 | D4A | Fonesca Dr. [El Paso] from Delta Dr. to Loop 375 | El Paso | El Paso | A
12/28/93 | D4B | Loop 375 (Joe Battle Blvd.) [El Paso] from Interstate 10 to US 62/180 | El Paso | El Paso | A
12/28/93 | D5B | Loop 375 (Americas Ave.) [El Paso] from Border Highway (Loop 375) to Interstate 10 | El Paso | El Paso | A
12/28/93 | D5B-1.0 | Farm to Market 659 [El Paso] from East City Limits to Loop 375 N (Americas Ave.) [Its North intersection with LP 375 (Americas Ave.)] | El Paso | El Paso | A
12/28/93 | D6B | Loop 375 (Border Highway) [El Paso] from US 54 (Patriot Freeway) to Loop 375 (Americas Ave.) | El Paso | El Paso | A
12/28/93 | D6B-2.0 | Farm to Market 659 [El Paso] from LP 375 (Border Highway) to South City Limits [International boundary at Ysleta Port of entry Zaragoza Bridge] | El Paso | El Paso | A
12/28/93 | D7B | US 54 [El Paso] from New Mexico to South Loop 375 | El Paso | El Paso | A
12/28/93 | D7B-3.0 | Interstate 110 [El Paso] from Cordova Port-of-Entry to Interstate 10 | El Paso | El Paso | A
12/28/93 | D8B-4.0 | Fred Wilson Dr. [El Paso] from Airport Rd. to US 54 | El Paso | El Paso | A
12/28/93 | D9B-4.0-A | Railroad Dr. [El Paso] from Dyer St. (SP 478) to Fred Wilson Dr. | El Paso | El Paso | A
12/28/93 | D9B-4.0-B | Marshall Rd. [El Paso] from Fred Wilson Dr. to Railroad Dr | El Paso | El Paso | A
12/28/93 | D10B-4.0-A | Spur 478 (Dyer Rd.) [El Paso] from Railroad Dr. to US 54 N | El Paso | El Paso | A
10/24/95 | E1 | Interstate 20 [Odessa] from Southwest City Limits to Southeast City Limits | Odessa | Ector | A
10/24/95 | E2A | Loop 338 [Odessa] from South City Limits to North City Limits | Odessa | Ector | A
06/14/83 | F1 | Interstate 20 [Midland] from East City Limits to West City Limits | Midland | Midland | A
06/14/83 | F2A | Loop 250 [Midland] from Interstate 20 to Fairgrounds Rd | Midland | Midland | A
06/14/83 | F2B | Midkiff Rd. [Midland] from Interstate 20 to Loop 250 | Midland | Midland | A
06/14/83 | F2C | Cotton Flat Rd. [Midland] from Interstate 20 to Bus. I 20/US 80 | Midland | Midland | A
06/14/83 | F2D | State 349 [Midland] from Interstate 20 to South City Limits | Midland | Midland/Martin | A
06/14/83 | F3A | Fairgrounds Rd. [Midland] from South City Limits to Loop 250 | Midland | Midland | A
06/14/83 | F3A-1.0 | Farm to Market 868 (Midland Dr.) [Midland] from Bus. SR 158 to Loop 250 | Midland | Midland | A
06/14/83 | F3A-2.0 | State 349 [Midland] from Loop 250 to North City Limits | Midland | Midland/Martin | A
06/14/83 | F3C-1.0 | Garfield St. [Midland] from Bus. SH 158 to Florida Ave | Midland | Midland | A
06/14/83 | F3E-1.0 | Scharbauer Rd. [Midland] from State 349 to Golf Course Rd | Midland | Midland | A
06/14/83 | F4E-1.0 | Golf Course Rd. [Midland] from Scharbauer Dr. to State 158 | Midland | Midland | A
10/01/91 | G1 | US 67 [San Angelo] from Southwest City Limits to Loop 306 W | San Angelo | Tom Green | A
10/01/91 | G2 | Loop 306 [San Angelo] from US 67 N to US 87/US 277 | San Angelo | Tom Green | A
10/01/91 | G3 | US 87 [San Angelo] from loop 306 to South City Limits | San Angelo | Tom Green | A
06/28/01 | H1 | Interstate 35 [Bexar County] from South IH 410 to Atascosa/Bexar county line | San Antonio | Bexar | A
06/28/01 | H2A | Interstate 410 [Bexar County] Entire Highway | San Antonio | Bexar | A
06/28/01 | H3A-1.0 | US 90 [Bexar County] from West IH 410 to the Medina/Bexar county line | San Antonio | Bexar | A
06/28/01 | H3A-2.0 | Interstate 10 [Bexar County] from North IH 410 to the Kendall/Bexar county line | San Antonio | Bexar | A
06/28/01 | H3A-3.0 | US 281 [Bexar County] from North IH 410 to the Comal/Bexar county line | San Antonio | Bexar | A
06/28/01 | H3A-4.0 | Interstate 35 [Bexar County] from North IH 410 to the Guadalupe/Bexar county line | San Antonio | Bexar | A
06/28/01 | H3A-5.0 | Interstate 10 [Bexar County] from East IH 410 to the Guadalupe/Bexar county line | San Antonio | Bexar | A
06/28/01 | H3A-6.0 | US 87 [Bexar County] from East IH 410 to the Wilson/Bexar County line | San Antonio | Bexar | A
06/28/01 | H3A-7.0 | US 181 [Bexar County] from IH 410 to the Wilson/Bexar county line | San Antonio | Bexar | A
06/28/01 | H3A-8.0 | Interstate 37 [Bexar County] from IH 410 to Atascosa/Bexar county line | San Antonio | Bexar | A
06/28/01 | H3A-9.0 | US 281 [Bexar County] from South IH 410 to the Atascosa/Bexar county line | San Antonio | Bexar | A
06/28/01 | H3A-10.0 | State 16 [Bexar County] from South IH 410 to the Atascosa/Bexar county line | San Antonio | Bexar | A
01/08/93 | I1 | Interstate 35 [New Braunfels] from North City Limits to South City Limits | New Braunfels | Comal | A
01/09/93 | I2A | Loop 337 [New Braunfels] from Interstate 35 N to Interstate 35 S | New Braunfels | Comal | A
10/07/82 | J1 | US 77 [Victoria] from West City Limits to North City Limits | Victoria | Victoria | A
10/07/82 | J2A | Bus. US 59 [Victoria] from US 77 (downtown) to John Stockbauer Rd. | Victoria | Victoria | A
10/07/82 | J2B | Loop 463 [Victoria] from US 87 to US 77 | Victoria | Victoria | A
10/07/82 | J3A | John Stockbauer Rd. [Victoria] from US 59 to Bus. US 59 | Victoria | Victoria | A
10/07/82 | J3A-1.0 | State 185 [Victoria] from Bus. US 59 to South City Limits | Victoria | Victoria | A
10/07/82 | J4A-2.0 | US 59 [Victoria] from US 87 to East City Limits | Victoria | Victoria | A
10/07/82 | J5A-2.0 | US 87 [Victoria] from South City Limits to Northwest City Limits | Victoria | Victoria | A
06/28/93 | K1 | Farm to Market 609 [La Grange] from West City Limits to Bus. US 71 | La Grange | Fayette | A
06/28/93 | K2 | Bus. US 71 [La Grange] from West City Limits to Farm to Market 609 | La Grange | Fayette | A
06/28/93 | L1 | State 71 [La Grange] from East City Limits to West City Limits | La Grange | Fayette | A
06/28/93 | L2 | US 77 [La Grange] from North City Limits to State 71 | La Grange | Fayette | A
08/06/90 | M | US 59 [Rosenberg] from South City Limits to North City Limits | Rosenberg | Fort Bend | A
08/06/90 | N | State 36 [Rosenberg] from 3400 Block to 4300 Block [This segment of State 36 is on the South side of town.] | Rosenberg | Fort Bend | A
08/06/90 | O | State 36 [Rosenberg] from 500 Block [to US 90, 900 block only] to Farm to Market 529 [This segment of State 36 is to the Northwest side of town.] | Rosenberg | Fort Bend | A
01/21/87 | P | US 90A [Stafford] from West City Limits to East City Limits | Stafford | Fort Bend | A
01/21/87 | Q | US 59 [Stafford] from West City Limits to North City Limits | Stafford | Fort Bend/Harris | A
03/25/91 | R1 | Farm to Market 518 [Pearland] from West City Limits to East City Limits | Pearland | Brazoria | A
03/25/91 | R2A | State 35 [Pearland] from North City Limits to South City Limits | Pearland | Brazoria | A
03/04/70 | S | Interstate 610 [Houston] Entire Highway | Houston | Harris | A
02/22/72 | T | State 225 [Deer Park] from East City Limits to West City Limits | Deer Park | Harris | A
05/25/82 | U1 | State 6 [Santa Fe] from West City Limits to East City Limits | Santa Fe | Galveston | A
05/25/82 | U2A | Farm to Market 1764 [Santa Fe] Entire highway within city limits | Santa Fe | Galveston | A
05/25/82 | U2B | Farm to Market 646 [Santa Fe] from North City Limits to South City Limits | Santa Fe | Galveston | A
10/13/83 | V1 | Interstate 45 [Galveston, Galveston County] from West City Limits to Farm to Market 188 [Teichman Rd.] | Galveston | Galveston | A
|  | [See City of Galveston code for special restrictions/more information.]
10/13/83 | V2 | State 275 (Port Industrial Blvd. and Harborside Drive) [Galveston, Galveston County] from Interstate 45 to 9th St | Galveston | Galveston | A
|  | [See City of Galveston code for special restrictions/more information.]
10/13/83 | V3A | 51st St./Seawolf Pkwy. [Galveston, Galveston County] from State 275 (Harborside Drive) to 1/4 mile south of Seawolf Park | Galveston | Galveston | A
|  | [See City of Galveston code for special restrictions/more information.]
10/13/83 | W1 | State 342 (61st St.) [Galveston, Galveston County] from Broadway Ave. to Seawall Blvd. | Galveston | Galveston | A
|  | [See City of Galveston code for special restrictions/more information.]
10/13/83 | W2 | Broadway Ave. [Galveston, Galveston County (entire length)] | Galveston | Galveston | A
|  | [See City of Galveston code for special restrictions/more information.]
03/01/72 | X1 | State 146 [Texas City, Galveston County] from North City Limits to South City Limits | Texas City | Galveston | A
03/01/72 | X2A | Loop 197 [Texas City, Galveston County] from South City Limits to 2nd Ave. S. | Texas City | Galveston | A
03/01/72 | X2B | Farm to Market 519 [Texas City, Galveston County] from State 146 to Loop 197 | Texas City | Galveston | A
03/01/72 | X2C | 5th Ave. [Texas City, Galveston County] from State 146 to 14th St. | Texas City | Galveston | A
03/01/72 | X2D | Farm to Market 1764 [Texas City, Galveston County] from Interstate 45 to State 146 | Texas City | Galveston | A
03/01/72 | X3A | 2nd Ave. [Texas City, Galveston County] from Loop 197 to Bay St. | Texas City | Galveston | A
03/01/72 | X3A-1.0 | 4th Ave. [Texas City, Galveston County] from Loop 197 to 10th St. | Texas City | Galveston | A
03/01/72 | X3B-1.0 | Grant Ave. [Texas City] from 5th Ave. South to FM 519/SH 341 | Texas City | Galveston | A
03/01/72 | X3C | 14th St. [Texas City, Galveston County] from Loop 197 to 5th Ave. S. | Texas City | Galveston | A
03/01/72 | X4A-1.0 | 10th St. [Texas City, Galveston County] from S. 4th Ave. to S. 6th Ave. | Texas City | Galveston | A
01/11/94 | Y1 | Interstate 45 [Dickinson] from Northwest City Limits to Southeast City Limits | Dickinson | Galveston | A
01/10/91 | Y2 | Interstate 45 [League City] from Northwest City Limits to Southeast City Limits | League City | Galveston | A
01/11/94 | Y3A | Farm to Market 646 [Dickinson/League City] from Interstate 45 east to eastern City Limit [Dickinson] | Dickinson/League City | Galveston | A
01/11/94 | Y4A-1.0 | Farm to Market 1266 [Dickinson] from Farm to Market 646 to Farm to Market 517 | Dickinson | Galveston | A
05/21/92 | Z1 | Interstate 35 [Temple] from North City Limits to Southwest City Limits | Temple | Bell | A
05/21/92 | Z2A | Loop 363 [Temple] Entire Highway | Temple | Bell | A
07/07/81 | AA1 | State 36 [Brenham] from South City Limits to US 290 | Brenham | Washington | A
07/07/81 | AA2A | US 290 [Brenham] from East City Limits to West City Limits | Brenham | Washington | A
07/07/81 | AB1 | Farm to Market 577 [Brenham] from East City Limits to BS 36 | Brenham | Washington | A
07/07/81 | AB2 | Bus. US 36 [Brenham] from North City Limits to Farm to Market 577 | Brenham | Washington | A
07/07/81 | AB2A | State 105 [Brenham] from Northeast City Limits to Farm to Market 577 | Brenham | Washington | A
07/07/81 | AB2B | Farm to Market 2935 [Brenham] from North City Limits to Farm to Market 577 | Brenham | Washington | A
12/17/84 | AC1 | State 159 [Hempstead] from State 6/Bus. US 290 to South City Limits | Hempstead | Waller | A
12/17/84 | AC2A | Farm to Market 1887 [Hempstead] from State 159 to South City Limits | Hempstead | Waller | A
12/17/84 | AC2B | State 6/Bus US 290 [Hempstead] from North City Limits to East City Limits | Hempstead | Waller | A
12/17/84 | AC3B-1.0 | St. Mary's St. [Hempstead] from State 6/Bus US 290 to Blasengane Rd. | Hempstead | Waller | A
12/17/84 | AC3B-2.0 | Farm to Market 1488 [Hempstead] from Bus. US 290/SH 6 to East City Limits | Hempstead | Waller | A
12/17/84 | AC4B-1.0 | Blasengane Rd. [Hempstead] from St. Mary's St. to US 290 | Hempstead | Waller | A
09/28/87 | AD1 | State 146 [Mont Belvieu] from North City Limits to South City Limits | Mont Belvieu | Chambers | A
09/28/87 | AD2A | Loop 207 [Mont Belvieu] from north SR 146 to South SR 146 | Mont Belvieu | Chambers | A
09/28/87 | AD3A-1.0 | Farm to Market 565 [Mont Belvieu] from Loop 207 to East City Limits | Mont Belvieu | Chambers | A
09/23/82 | AE1 | Interstate 45 [Conroe] from North City Limits to South City Limits | Conroe | Montgomery | A
09/23/82 | AE2A | Loop 336 [Conroe] Entire highway within city limits | Conroe | Montgomery | A
08/01/91 | AF1 | Interstate 10 [Beaumont] from East City Limits to West City Limits | Beaumont | Jefferson | A
08/01/91 | AF2A | US 69/96/287 [Beaumont] from North City Limits to Southeast City Limits | Beaumont | Jefferson | A
08/01/91 | AF2B | US 90 [Beaumont] from West City Limits to Interstate 10 | Beaumont | Jefferson | A
08/01/91 | AF3A-1.0 | Spur 380 (Railroad Ave.) [Beaumont] from US 69/US96/US287 (Cardinal Dr.) to Washington Blvd | Beaumont | Jefferson | A
08/01/91 | AF3A-2.0 | State 105 [Beaumont] from West City Limits to US 69/96/287 | Beaumont | Jefferson | A
08/01/91 | AF4A-1.0 | Washington Blvd. [Beaumont] from Spur 380 to Irving St | Beaumont | Jefferson | A
08/01/91 | AF5A-1.0 | Irving St. [Beaumont] from Washington Blvd. to Madison St | Beaumont | Jefferson | A
08/01/91 | AF6A-1.0 | Madison St. [Beaumont] from Irving St. to Grove St | Beaumont | Jefferson | A
01/16/78 | AG1 | Farm to Market 2110 [Crockett] from Southwest City Limits to Loop 304 SW | Crockett | Houston | A
01/16/78 | AG2 | Loop 304 [Crockett] Entire highway | Crockett | Houston | A
01/16/78 | AG3A | State 7/21 [Crockett] from West City Limits to Loop 304 W | Crockett | Houston | A
01/16/78 | AG3B | Farm to Market 2076 [Crockett] from West City Limits to Loop 304 W | Crockett | Houston | A
01/16/78 | AG3C | Farm to Market 229 [Crockett] from Northwest City Limits to Loop 304 NW | Crockett | Houston | A
01/16/78 | AG3D | US 287/State 19 [Crockett] from North City Limits to Loop 304 N | Crockett | Houston | A
01/16/78 | AG3E | Farm to Market 2022 [Crockett] from Northeast City Limits to NE Loop 304 | Crockett | Houston | A
01/16/78 | AG3F | State 21 [Crockett] from Northeast City Limits to Loop 304 NE | Crockett | Houston | A
01/16/78 | AG3G | State 7 [Crockett] from East City Limits to Loop 304 E | Crockett | Houston | A
01/16/78 | AG3H | US 287 [Crockett] from Southeast City Limits to Loop 304 E | Crockett | Houston | A
01/16/78 | AG3I | Farm to Market 2712 [Crockett] from South City Limits to Loop 304 S | Crockett | Houston | A
01/16/78 | AG3J | State 19 [Crockett] from South City Limits to Loop 304 S | Crockett | Houston | A
08/16/88 | AH1 | US 59 [Lufkin] from South City Limits to South Loop 287 | Lufkin | Angelina | A
09/23/88 | AH2 | Loop 287 [Lufkin] Entire highway | Lufkin | Angelina | A
08/16/88 | AH3A | State 94 [Lufkin] from West City Limits to West Loop 287 | Lufkin | Angelina | A
08/16/88 | AH3B | State 103 [Lufkin] from West City Limits to West Loop 287 | Lufkin | Angelina | A
08/16/88 | AH3C | US 69 [Lufkin] from Northwest City Limits to Northwest Loop 287 | Lufkin | Angelina | A
08/16/88 | AH3D | US 59 [Lufkin] from North City Limits to North Loop 287 | Lufkin | Angelina | A
09/23/88 | AH3E | State 103 [Lufkin] from East City Limits to East Loop 287 US 59/69 | Lufkin | Angelina | A
09/23/88 | AH3F | US 69 [Lufkin] from Southeast City Limits to East Loop 287 | Lufkin | Angelina | A
09/20/77 | AI1 | US 59 [Nacogdoches] from South City Limits to Loop 224 S | Nacogdoches | Nacogdoches | A
09/20/77 | AI2 | Loop 224 [Nacogdoches] Entire Highway | Nacogdoches | Nacogdoches | A
09/20/77 | AI3A | State 7 [Nacogdoches] from West City Limits to Loop 224 W | Nacogdoches | Nacogdoches | A
09/20/77 | AI3B | State 21 [Nacogdoches] from West City Limits to Loop 224 W | Nacogdoches | Nacogdoches | A
09/20/77 | AI3C | US 59 [Nacogdoches] from North City Limits to Loop 224 N | Nacogdoches | Nacogdoches | A
09/20/77 | AI3D | State 7 [Nacogdoches] from East City Limits to Loop 224 E | Nacogdoches | Nacogdoches | A
09/20/77 | AI3E | State 21 [Nacogdoches] from East City Limits to Loop 224 E | Nacogdoches | Nacogdoches | A
08/22/88 | AJ1 | US 96 [Center] from North City Limits to South City Limits | Center | Shelby | A
08/22/88 | AJ2A | State 7 [Center] from West City Limits to US 96 | Center | Shelby | A
08/22/88 | AJ2B | State 87 [Center] from West City Limits to US 96 | Center | Shelby | A
08/22/88 | AK1 | Loop 500 [Center] from US 96 S to East State 7 | Center | Shelby | A
08/22/88 | AK2A | State 87 [Center] from East City Limits to Loop 500 | Center | Shelby | A
11/01/94 | AL1 | US 377 [Benbrook] from North City Limits to South City Limits | Benbrook | Tarrant | A
03/06/79 | AL2 | US 377 [Fort Worth] from Southwest City Limits to Interstate 20 | Fort Worth | Tarrant | A
11/01/94 | AL2A | Farm to Market 2871 [Benbrook] from West City Limits to US 377 | Benbrook | Tarrant | A
09/06/84 | AL3A-1.0 | Interstate 20/820 [Benbrook] from East City Limits to West City Limits | Benbrook | Tarrant | A
03/06/79 | AL4A-1.0 | Interstate 820 [Fort Worth] Entire highway [To include: Benbrook, Haltom, Hurst, Lake Worth, N. Richland Hills, Signaw] | Fort Worth | Tarrant | A
07/01/86 | AL4A-1.0 | Interstate 820 [Haltom] from West City Limits to East City Limits | Haltom | Tarrant | A
09/09/86 | AL4A-1.0 | Interstate 820 [Hurst] from West City Limits to Southwest City Limits | Hurst | Tarrant | A
10/14/86 | AL4A-1.0 | Interstate 820 [Lake Worth] from South City Limits to East City Limits | Lake Worth | Tarrant | A
08/25/86 | AL4A-1.0 | Interstate 820 [North Richland Hills] from West City Limits to East City Limits | North Richland Hills | Tarrant | A
11/15/86 | AL4A-1.0 | Interstate 820 [Saginaw] from West City Limits to East City Limits | Saginaw | Tarrant | A
03/06/79 | AL5A-1.0-A | Interstate 30 [Fort Worth] from West City Limits to West Interstate 820 | Fort Worth | Tarrant | A
03/06/79 | AL5A-1.0-B | State 199 (Jacksboro Hwy) [Fort Worth/Lake Worth] from Northwest City Limits of Fort Worth to Interstate 820 NW | Fort Worth/Lake Worth | Tarrant | A
03/06/79 | AL5A-1.0-C | Interstate 35 W [Fort Worth] from North City Limits to North Interstate 820 | Fort Worth | Tarrant | A
08/25/86 | AL5A-1.0-D | State 26 [North Richland Hills (entire highway within city limits)] | North Richland Hills | Tarrant | A
03/06/79 | AL5A-1.0-E | Interstate 30 [Fort Worth] from East City Limits to East Interstate 820 | Fort Worth | Tarrant | A
03/06/79 | AL5A-1.0-F | State 180 [Fort Worth] from Interstate 820 to East City Limits | Fort Worth | Tarrant | A
09/02/86 | AL5A-1.0-G | Interstate 20 [Forest Hill] from East City Limits to West City Limits | Forest Hill | Tarrant | A
09/02/86 | AL5A-1.0-H | Interstate 20 [Arlington] from East City Limits to West City Limits | Arlington | Tarrant | A
03/06/79 | AL6A-1.0-H | Interstate 20 [Fort Worth] from East City Limits to West City Limits | Fort Worth | Tarrant | A
03/06/79 | AL7A-1.0-H1 | Interstate 35 W [Fort Worth] from South City Limits to Interstate 20 | Fort Worth | Tarrant | A
04/22/91 | AM | US 287 [Mansfield] Entire Highway | Mansfield | Tarrant/Johnson | A
01/01/76 | AN1 | Interstate 35E [Lancaster] from North City Limits to South City Limits | Lancaster | Dallas | A
01/25/84 | AN2 | Interstate 35 E [Dallas] from South City Limits to Interstate 20 | Dallas | Dallas | A
11/14/94 | AN3A | Interstate 20 [Balch Springs] from East City Limits to South City Limits | Balch Springs | Dallas | A
01/25/84 | AN3A | Interstate 20 [Dallas] Entire Length within City Limits | Dallas | Dallas | A
08/18/86 | AN3A | Interstate 20 [Duncanville] from East City Limits to West City Limits | Duncanville | Dallas | A
02/09/87 | AN3A | Interstate 20 [Hutchins] from West City Limits to East City Limits | Hutchins | Dallas | A
01/01/76 | AN3A | Interstate 20 [Lancaster] from West City Limits to East City Limits | Lancaster | Dallas | A
01/25/84 | AN4A-1.0 | US 67 [Dallas] from Interstate 20 to South City Limits | Dallas | Dallas | A
01/25/84 | AN4A-2.0 | Spur 408 [Dallas] from Interstate 20 to Loop 12 | Dallas | Dallas | A
01/25/84 | AN4A-3.0 | State 342 [Dallas] from Interstate 20 to South City Limits | Dallas | Dallas | A
01/25/84 | AN4A-4.0 | Interstate 45 [Dallas] from Southeast City Limits to Interstate 20 | Dallas | Dallas | A
01/25/84 | AN4A-5.0 | US 175 [Dallas] from South City Limits to Interstate 20 | Dallas | Dallas | A
08/18/86 | AN5A-1.0 | US 67 [Duncanville] from East City Limits to South City Limits | Duncanville | Dallas | A
01/25/84 | AN5A-2.0 | Loop 12 [Dallas] from Spur 408 to South City Limits of Irving | Dallas | Dallas | A
01/25/84 | AN5A-2.0-A | Spur 303 [Dallas] from Spur 408 to West City Limits | Dallas | Dallas | A
02/09/87 | AN5A-4.0 | Interstate 45 [Hutchins] from North City Limits to South City Limits | Hutchins | Dallas | A
06/20/91 | AN6A-2.0 | Loop 12 [Irving] from North City Limits to South City Limits | Irving | Dallas | A
01/25/84 | AN6A-2.0-B | State 180 [Dallas] from Loop 12 to West City Limits | Dallas | Dallas | A
01/25/84 | AN6A-2.0-C | Interstate 30 [Dallas] from West City Limits to Loop 12 | Dallas | Dallas | A
01/25/84 | AN7A-2.0 | Loop 12 [Dallas] from North City Limits of Irving to Interstate 35 E | Dallas | Dallas | A
01/25/84 | AN8A-2.0 | Interstate 35 E [Dallas] from North City Limits to LP 12 | Dallas | Dallas | A
01/25/84 | AN8A-2.0-D | Spur 348 (Northwest Highway) [Dallas] from Loop 12 to West City Limits | Dallas | Dallas | A
01/25/84 | AN9A-2.0-E | Interstate 635 [Dallas] Entire highway within Dallas City Limits | Dallas | Dallas | A
11/01/94 | AN10A-2.0-E | Interstate 635 [Garland] from Southwest City Limits to South City Limits | Garland | Dallas | A
01/25/84 | AN10A-2.0-E1 | State 289 (Preston Rd.) [Dallas] from Interstate 635 to North City Limits | Dallas | Dallas | A
01/25/84 | AN10A-2.0-E2 | US 75 [Dallas] from North City Limits to Interstate 635 N | Dallas | Dallas | A
08/06/90 | AN11A-2.0-E | Interstate 635 [Mesquite] from North City Limits to South City Limits | Mesquite | Dallas | A
11/14/94 | AN12A-2.0-E | Interstate 635 [Balch Springs] from North City Limits to Interstate 20 | Balch Springs | Dallas | A
03/28/96 | AO1 | US 62/82 [Lubbock] from Southwest City Limits to Loop 289 SW | Lubbock | Lubbock | A
03/28/96 | AO2 | Loop 289 (Lubbock) from W. US 62/82, North, East, South, & West to South Interstate 27/87 | Lubbock | Lubbock | A
03/28/96 | AO3A | State 114 [Lubbock] from West City Limits to Loop 289 W | Lubbock | Lubbock | A
03/28/96 | AO3B | US 84 [Lubbock] from Northwest City Limits to Loop 289 N | Lubbock | Lubbock | A
03/28/96 | AO3C | US 62/82/SH 114 [Lubbock] from Northeast City Limits to Loop 289 NE | Lubbock | Lubbock | A
03/28/96 | AO3D | US 84 [Lubbock] from Southeast City Limits to Loop 289 S | Lubbock | Lubbock | A
03/28/96 | AO3E | Interstate 27 [Lubbock] from North City Limits to South City Limits | Lubbock | Lubbock | A
09/09/86 | AP1 | Interstate 27/US 87/US 60 [Amarillo] from South City Limits to Interstate 40 | Amarillo | Potter/Randall | A
10/10/95 | AP2 | US 60/US 87/US 287 (Buchanan and Pierce St. only) [Amarillo] from Loop 335 to Interstate 40 [7 p.m. to 7 a.m.] | Amarillo | Potter/Randall | A
09/09/86 | AP2A | Interstate 40 [Amarillo] from East City Limits to West City Limits | Amarillo | Potter/Randall | A
09/09/86 | AP3A | Loop 335 [Amarillo] from Dumas Dr. [(US 87/US 287)] to West City Limits | Amarillo | Potter/Randall | A
09/09/86 | AP3A-1.0 | Loop 335 [Amarillo] from NE 24th Ave. to Interstate 40 | Amarillo | Potter/Randall | A
09/09/86 | AP3B | Loop 335 [Amarillo] from Dumas Dr. [US 27/US 287] to East City Limits | Amarillo | Potter/Randall | A
09/09/86 | AP4A-1.0-A | US 60 [Amarillo] from East City Limits to Loop 335 E | Amarillo | Potter/Randall | A
09/09/86 | AQ1 | BI 40 [Amarillo] from West City Limits to Farm to Market 1719 | Amarillo | Potter/Randall | A
09/09/86 | AQ2 | Farm to Market 1719 [Amarillo] from North City Limits to BI 40 | Amarillo | Potter/Randall | A

Table 108—State: Utah
State Agency: UT DOT
POC: Lane Murphy
Address: Motor Carrier Division, 4501 South 2700 West, P.O. Box 148240, Salt Lake City, UT 84114-8240
Phone: (801) 965-4508
Fax: (801) 965-4211
Web Address: www.udot.utah.gov/
FMCSA: UT FMCSA Field Office
FMCSA POC: UT Motor Carrier
Address: Division Administrator, 310 East 4500 South, Suite 102, Salt Lake City, UT 84107
Phone: (801) 288-0360
Fax: (801) 288-8867

Table 109—Utah—Designated HRCQ/RAM routes
Designation date | Route order | Route description | Designation(s) (A,B,I,P)
07/01/97 | A1 | Interstate 80 from Interstate 84 to Wyoming | P
07/01/97 | A2 | Interstate 84 from Interstate 15 to Interstate 80 [Note: The Perry Port of Entry on I-15/I-84 is a designated safe haven for radioactive materials in transit.] | P
07/01/97 | A3 | Interstate 15 from Idaho to Interstate 84 | P

Table 110—Utah—Designated NRHM routes
Designation date | Route order | Route description | Designation(s) (A,B,I,P)
07/01/97 | A | All Interstates [The Utah Department of Transportation states that all Interstate routes in the State are designated NRHM routes.] | A

Table 111—State: Vermont
State Agency: VT Emergency Mgmt. Division
POC: William E. Irwin, Sc.D., CHP
Address: 108 Cherry St., Burlington, VT 05402
Phone: (802) 863-7238
Fax: (802) 865-7745
Web Address: vem.vermont.gov/
FMCSA: VT FMCSA Field Office
FMCSA POC: VT Motor Carrier
Address: Division Administrator, 87 State St., Room 305, P.O. Box 338, Montpelier, VT 05601
Phone: (802) 828-4480
Fax: (802) 828-4581
No designated or restricted routes as of 01/31/2014.

Table 112—State: Virginia
State Agency: VA DOT
POC: Perry Cogburn
Address: 1221 East Broad St., Richmond, VA 23219
Phone: (804) 786-2848
Fax: (804) 225-4979
Web Address: virginiadot.org/
FMCSA: VA FMCSA Field Office
FMCSA POC: VA Motor Carrier
Address: Division Administrator, 400 North 8th St., Suite 750, Richmond, VA 23219
Phone: (804) 771-8585
Fax: (804) 771-8670

Table 113—Virginia—Restricted HM Routes
Designation date | Route order | Route description | Restriction(s) (0,1,2,3,4,5,6,7,8,9,i)
11/15/95 | A | East River Mountain Tunnel—Interstate 77 [Phone: (276) 928-1994] | 7
|  | Highway Route Controlled Quantities (HRCQ) of high level radioactive material is not allowed
11/15/95 | B | Big Walker Mountain Tunnel—Interstate 77 [Phone: (276) 228-5571] | 7
|  | Highway Route Controlled Quantities (HRCQ) of high level radioactive material is not allowed
05/25/85 | C | Airport Tunnel (Airport Rd [State 118]) [City of Roanoke] from Trapper Cir NW to Dent Rd NW | 0
11/15/95 | D | Elizabeth River Tunnel [Downtown]—Interstate 264 [Phone: (757) 494-2424]. | 1,2,3,4,5,6,7,8,i
|  | Materials in hazard classes 1.1, 1.2, 1.3, 2.3, 4.3, 6.1, 7 (i.e., Highway Route Controlled Quantities-HRCQ), and toxic inhalation hazard are not allowed passage through this tunnel.
|  | Materials in hazard classes 2.1, 3, 5.1, 5.2, and 8, are allowed access to this tunnel only in “non-bulk”.
|  | Hazmat shipper MUST abide by rules and regulations outlined in VDOT's “Rules and Regulations Governing the Transportation of Hazardous Materials through Bridge-Tunnel Facilities”. For additional information, see www.virginiadot.org/info/resources/vdothazmat.pdf
11/15/95 | E | Elizabeth River Tunnel [Midtown]—US 58 [Phone: (757) 683-8123] | 1,2,3,4,5,6,7,8,i
|  | Materials in hazard classes 1.1, 1.2, 1.3, 2.3, 4.3, 6.1, 7 (Highway Route Controlled Quantities (HRCQ)), and toxic inhalation hazard are not allowed passage through this tunnel.
|  | Materials in hazard classes 2.1, 3, 5.1, 5.2, and 8, are allowed access to this tunnel only in “non-bulk”.
|  | Hazmat shipper MUST abide by rules and regulations outlined in VA DOT's “Rules and Regulations Governing the Transportation of Hazardous Materials through Bridge-Tunnel Facilities”. For additional information, see www.virginiadot.org/info/resources/vdothazmat.pdf
11/15/95 | F | Monitor-Merrimac Memorial [Bridge/Tunnel]—Interstate 664 [Phone: (757) 247-2123] | 1,2,3,4,5,6,7,8,i
|  | Materials in hazard classes 1.1, 1.2, 1.3, 2.3, 4.3, 6.1,7 (i.e., Highway Route Controlled Quantities-HRCQ), and toxic inhalation hazard are not allowed passage through this tunnel.
|  | Materials in hazard classes 2.1, 3, 5.1, 5.2, and 8, are allowed access to this tunnel only in “non-bulk”.
|  | Hazmat shipper MUST abide by rules and regulations outlined in VDOT's “Rules and Regulations Governing the Transportation of Hazardous Materials through Bridge-Tunnel Facilities”. For additional information, see www.virginiadot.org/info/resources/vdothazmat.pdf
11/15/95 | G | Hampton Roads Bridge-Tunnel [Interstate 64] [Phone: (757) 727-4832] | 1,2,3,4,5,6,7,8,i
|  | Materials in hazard classes 1.1, 1.2, 1.3, 2.3, 4.3, 6.1, 7 (i.e., Highway Route Controlled Quantities-HRCQ), and toxic inhalation hazard are not allowed passage through this tunnel.
|  | Materials in hazard classes 2.1, 3, 5.1, 5.2, and 8, are allowed access to this tunnel only in “non-bulk”.
|  | Hazmat shipper MUST abide by rules and regulations outlined in VDOT's “Rules and Regulations Governing the Transportation of Hazardous Materials through Bridge-Tunnel Facilities”. For additional information, see www.virginiadot.org/info/resources/vdothazmat.pdf
11/12/96 | H | Chesapeake Bay Bridge—Tunnel [Phone: (757) 331-2960] | 1,2,3,4,5,6,7,8,9,i
|  | The jurisdiction for this bridge and tunnel falls under the Chesapeake Bay Bridge and Tunnel District, which maintains its own regulations on hazardous materials.]
|  | Classes 1.1, 1.2, 1.3, 2.3, 4.3, and 6.1 (Inhalation Hazard only) are not allowed passage in any quantity.
|  | Classes 2.1., 2.2, 3, 4.1, 4.2, 5.1, 5.2, 6.1, 7, 8, and 9 are prohibited in limited circumstances.
|  | For additional information on route restrictions, see www.cbbt.com/hazmat.html

Table 114—Virginia—Designated NRHM Routes
Designation date | Route order | Route description | Designation(s) (A,B,I,P)
07/31/95 | A | Interstate 495 [** Restricted to right lanes only **] | A

Table 115—State: Virginia
State Agency: Dept. of Emergency Mgmt. POC: Brian Iverson Address: 10501 Trade Court, Richmond, VA 23236 Phone: (804) 897-9953 Fax: (804) 897-6576 Web Address: www.vaemergency.gov/ FMCSA: VA FMCSA Field Office FMCSA POC: VA Motor Carrier Address: Division Administrator, 400 North 8th St., Suite 750, Richmond, VA 23219 Phone: (804) 771-8585 Fax: (804) 771-8670

Table 116—Virginia—HRCQ/RAM Routes
Designation date | Route order | Route description | Designation(s) (A,B,I,P)
03/11/94 | A | US 460 from West Virginia to State 100 [Pearisburg] | P
03/11/94 | B1 | US 220 Alt. from US 460 to Interstate 81 | P
03/11/94 | B2 | US 460 from State 726 [Mt. Athos Rd. in Lynchburg] to US 220 Alt | P
03/11/94 | B3 | State 460 from Interstate 85 to State 726 [Mt. Athos Rd. in Lynchburg] | P
03/11/94 | B4 | Interstate 85 from Interstate 95 to State 460 | P
03/11/94 | C1 | US 58 from Portsmouth to Interstate 95 | P
03/11/94 | C2A | US 460 from US 1 [in Petersburg] to US 58 [North of Suffolk] | P
03/11/94 | C2B | State 10 from State 156 to State 58 | P
03/11/94 | C3B | State 156 from State 5 to State 10 | P
03/11/94 | C3B-1.0 | US 17/US 258 from Interstate 64 to State 10 | P
03/11/94 | C4B | State 5 from State 155 [in Charles City] to State 156 | P
03/11/94 | C5B | State 155 from Interstate 64 to State 5 [at Charles City] | P
03/11/94 | D | US 29 from Interstate 66 to Interstate 64 | P
03/11/94 | E1 | US 522 from State 208 to Interstate 64 | P
03/11/94 | E2 | State 208 from US 522 to US 1 | P
03/11/94 | E3 | US 1 from State 208 to Interstate 95 [At Four Mile Fork] | P

Table 117—State: Washington
State Agency: WA DOT Commercial Vehicle Services POC: Ann Ford, Commercial Vehicle Services Administrator Address: P.O. Box 47367, Olympia, WA 98504-7367 Phone: (360) 705-7341 Fax: (360) 704-6350 Web Address: wsdot.wa.gov/Commercial Vehicle/ FMCSA: WA FMCSA Field Office FMCSA POC: WA Motor Carrier, Division Administrator Address: 2424 Heritage Court, SW., Suite 302, Olympia, WA 98502 Phone: (360) 753-9875 Fax: (360) 753-9024

Table 118—Washington—Restricted HM routes
Designation date | Route order | Route description | City | County | Restriction(s) (0,1,2,3,4,5,6,7,8,9,i)
1990 | A | I-90 [Seattle] P 3-6 Flammable loads cannot be transported through the Mercer Island tunnel or the tunnel on the west side of Lake Washington when the sprinkler systems are not operational or being tested | Seattle | King | 3
1989 | B | I-5 [Seattle] MP 164 Flammable loads cannot be transported through the tunnel under convention center when the sprinkler systems are not operational or being tested.” | Seattle | King | 3

Table 119—State: West Virginia
State Agency: WV DOT, District 6
POC: David Sada
Address: 1 DOT Drive, Moundsville, WV 26041-1605
Phone: (304) 843-4032
Fax: (304) 843-4059
Web Address: www.transportation.wv.gov/Pages/default.aspx
FMCSA: WV FMCSA Field Office
FMCSA POC: WV Motor Carrier
Address: Division Administrator, 700 Washington St., East Geary Plaza, Suite 205, Charleston, WV 25301
Phone: (304) 347-5935
Fax: (304) 347-5617

Table 120—West Virginia—Restricted HM routes
Designation date | Route order | Route description | Restriction(s) (0,1,2,3,4,5,6,7,8,9,i)
12/06/66 | A | Wheeling Tunnel (at I-70) | 1,3,4

Table 121—State: Wisconsin
State Agency: WI DOT
POC: Mark Gottlieb
Address: Office of the Secretary, P.O. Box 7910 Madison, WI 53707
Phone: (608) 266-1114
Fax: (608) 266-9912
Web Address: www.dot.state.wi.us
FMCSA: WI FMCSA Field Office
FMCSA POC: WI Motor Carrier
Address: Division Administrator, 1 Point Place, Suite 101, Madison, WI 53719
Phone: (608) 662-2010
Fax: (608) 829-7540
No designated or restricted routes as of 01/31/2014.

Table 122—State: Wyoming
State Agency: WY Highway Patrol
POC: Capt. Scot Montgomery
Address: 5300 Bishop Blvd., Cheyenne, WY 82009
Phone: (307) 777-4312
Fax: (307) 777-4282
Web Address: www.whp.dot.state.wy.us/wydot
FMCSA: WY FMCSA Field Office
FMCSA POC: WY Motor Carrier
Address: Division Administrator, 1637 Stillwater Avenue, Suite F, Cheyenne, WY 82009
Phone: (307) 772-2305
Fax: (307) 772-2905

Table 123—Wyoming—Restricted HM Routes
Designation date | Route order | Route description | City | County | Restriction(s) (0,1,2,3,4,5,6,7,8,9,i)
04/12/94 | A | City of Cheyenne [City Ordinance: Hazardous materials and radioactive materials may not be transported by motor vehicle within the City of Cheyenne except for the purpose of making pickups and/or deliveries within the City, unless such routing is consistent with 49 CFR 397.7 or 49 CFR 177.825. | Cheyenne | Laramie | 0
|  | Motor vehicles carrying hazardous and/or radioactive materials which are making local pickups and/or deliveries must be operated over the safest and most direct route to and from the origination and destination point. Such routes shall not pass through residential areas unless there is no practical alternative.]

Issued on: July 1, 2014.
Anne S. Ferro,
Administrator.

[FR Doc. 2014-15861 Filed 7-11-14; 8:45 am]

BILLING CODE 4910-EX-P